DEPARTMENT OF COMMERCE

National Oceanic and Atmospheric Administration

50 CFR Part 660

[Docket No. 021209300-3048-02; I.D. 112502C]

RIN 0648-AQ18

Magnuson-Stevens Act Provisions; Fisheries off West Coast States and in the Western Pacific; Pacific Coast Groundfish Fishery; Annual Specifications and Management Measures

AGENCY: National Marine Fisheries Service (NMFS), National Oceanic and Atmospheric Administration (NOAA), Commerce.

ACTION: Final rule.

SUMMARY: NMFS issues this final rule to implement the 2003 fishery specifications and management measures for groundfish taken in the U.S. exclusive economic zone (EEZ) and state waters off the coasts of Washington, Oregon, and California. Final specifications include the levels of the acceptable biological catch (ABC) and optimum yields (OYs). Commercial OYs (the total catch OYs reduced by tribal allocations and by amounts expected to be taken in recreational and compensation fisheries) described herein are allocated between the limited entry and open access fisheries. Management measures for 2003 are intended to prevent overfishing, rebuild overfished species, minimize incidental catch and discard of overfished and depleted stocks, provide equitable harvest opportunity for both recreational and commercial sectors, and, within the commercial fisheries, achieve harvest guidelines and limited entry and open access allocations to the extent practicable.

DATES: Effective March 1, 2003, until the 2004 annual specifications, unless modified, superseded, or rescinded through a publication in the Federal Register.

ADDRESSES: Copies of the Final Environmental Impact Statement (FEIS) are available from Donald McIsaac, Executive Director, Pacific Fishery Management Council (Council), 7700 NE Ambassador Place, Portland, OR 97220. Copies of the Record of Decision (ROD)final regulatory flexibility analysis (FRFA) and the Small Entity Compliance Guide are available from D. Robert Lohn, Administrator, Northwest Region (Regional Administrator), NMFS, 7600 Sand Point Way N.E., Bldg. 1, Seattle, WA 98115-0070.

FOR FURTHER INFORMATION CONTACT: Yvonne deReynier or Becky Renko (Northwest Region, NMFS), phone: 206-526-6140; fax: 206-526-6736; and e-mail: yvonne.dereynier@noaa.gov, becky.renko@noaa.gov or Svein Fougner (Southwest Region, NMFS), phone: 562-980-4000; fax: 562-980-4047; and e-mail: svein.fougner@noaa.gov.

SUPPLEMENTARY INFORMATION:

Electronic Access

This final rule also is accessible via the Internet at the Office of the Federal Register's website at http://www.access.gpo.gov/su_docs/aces/aces140.htm. Background information and documents are available at the NMFS Northwest Region website at http://www.nwr.noaa.gov/1sustfsh/gdfsh01.htm and at the Council's website at http://www.pcouncil.org.

Background

A proposed rule to implement the 2003 specifications and management measures for Pacific Coast groundfish was published on January 7, 2003 (68 FR 936). NMFS requested public comment on the proposed rule through February 7, 2003. During the comment period on the proposed rule, NMFS received five letters of comment, which are addressed later in the preamble to this final rule. See the preamble to the proposed rule for additional background information on the fishery and on this rule.

The Pacific Coast Groundfish Fishery Management Plan (FMP) requires that fishery specifications for groundfish be annually evaluated and revised, as necessary, that OYs be specified for species or species groups in need of particular protection, and that management measures designed to achieve the OYs be published in the Federal Register and made effective by January 1, the beginning of the fishing year. To ensure that new 2003 fishery management measures were effective January 1, 2003, NMFS published an emergency rule announcing final management measures for January-February 2003 (68 FR 908, January 7, 2003). Annual specifications for 2003 and management measures for March-December 2003 were proposed in a separate rule, also published on January 7, 2003.

Specifications and management measures announced in this rule for 2003 are designed to rebuild overfished stocks through constraining direct and incidental mortality, to prevent overfishing, and to achieve as much of the OYs as practicable for more abundant groundfish stocks managed under the FMP.

Comments and Responses

During the comment period for the 2003 specifications and management measures, which ended on February 7, 2003, NMFS received five letters of comment. These letters of comment were received opposing different portions of the rule: two from non-governmental organizations representing environmental interests, two from an association of seafood processors, and one from the government of Canada.

Comments on Harvest Specifications and Overfished Species Rebuilding

Comment 1: The Magnuson-Stevens Fishery Conservation and Management Act (Magnuson-Stevens Act) requires that overfished species be rebuilt within as short a time as possible. For a number of overfished West Coast groundfish species, rebuilding periods have been designated as the maximum time possible without any analysis as to why this time frame is warranted. Further, the Council and NMFS are overdue in preparing formal rebuilding plans (in the form of an FMP, an FMP amendment, or Federal regulations) for the nine overfished groundfish species.

Response: In relevant part, the Magnuson-Stevens Act requires that rebuilding periods be as short as possible, taking into account the status and biology of the overfished stocks, and the needs of fishing communities, and not exceed ten years except in cases where the biology of the stock requires more time to rebuild (as is true of most of the nine overfished groundfish stocks). Under the National Standard Guidelines that implement the Magnuson-Stevens Act, the maximum times to rebuild are: 1) for stocks that can be rebuilt within ten years with no fishing, ten years, and 2) for stocks that cannot be rebuilt within ten years with no fishing, the time to rebuild in the absence of fishing, plus one mean generation. In establishing rebuilding periods, the Council and NMFS endeavor to meet the conservation requirements (National Standard 1) while taking into account the needs of fishing communities (National Standard 8).

The proposed rule defined the rebuilding parameters for each species, including: that portion of the stock that has been designated as overfished; the biomass estimate from the most recent assessment; the maximum allowable time to rebuild (TMAX); rebuilding target (TTARGET) years (must have at least a 50 percent probability of rebuilding within the specified time); the probability of rebuilding within the maximum permissible time period (PMAX); and the harvest measures that are being adopted to keep the total fishing mortality (typically expressed as the fishing mortality rate) within the specified OYs that will achieve TTARGET. Policy makers only have control over three of these parameters: TTARGET, PMAX and the fishing mortality rate. NMFS disagrees that rebuilding periods have been designated as the maximum time possible. With the exception of bocaccio rockfish (see response to Comment 2 regarding need for a sustainability analysis), there are no TTARGET periods that are at or above TMAX for the overfished rockfish species.

The Council is currently preparing Amendment 16, which establishes the process and standards for rebuilding plans and incorporates rebuilding measures into the FMP. Overfished species are currently managed under interim rebuilding strategies, and it is not expected that the final rebuilding plans will differ substantially in their basic biological parameters, taking into account any changes that would be made as a result of new data on overfished stocks' parameters. Thus, overfished species are not disadvantaged by not having formal rebuilding plans at this time.

Comment 2: NMFS has proposed a 20 mt OY for the badly overfished bocaccio rockfish. This harvest level fails to meet the rebuilding requirements of the Magnuson-Stevens Act because it would allow only a 50 percent chance of rebuilding bocaccio within 170 years. NMFS admits that this bocaccio harvest level violates its National Standard Guidelines and claims that the Guidelines do not address the bocaccio situation. Although we believe that the National Standard Guidelines themselves violate the Magnuson-Stevens Act, NMFS cannot simply dismiss those Guidelines.

Response:In the revised bocaccio rebuilding analysis prepared following the June 2002 Council meeting, the bocaccio stock failed to have a 50 percent probability of rebuilding by TMAX, even in the absence of fishing. NMFS subsequently prepared a sustainability analysis for bocaccio rockfish to determine the fishing rates that would lead to no further decline in abundance over a specified time frame. The sustainability analysis shows that a harvest level of ≤20 mt would provide a 50 percent probability for the stock to rebuild in 170 years, with a high probability (>80 percent) of no further decline in the spawning biomass over the next 100 years. The southern bocaccio rockfish stock has suffered poor recruitment during the warm water conditions that have prevailed off Southern California since the late 1980s. If a period of good recruitment occurs, the stock could be expected to rebuild much faster than estimated.

The National Standard Guidelines do not address the situation where NMFS concludes that a stock cannot rebuild by TMAX, even with zero fishing mortality. Therefore, NMFS has determined that the National Standard Guidelines do not provide sufficient guidance for the bocaccio rockfish situation and instead has looked directly to the Magnuson-Stevens Act for guidance. Section 304(e)(4)(A)(i) states that a rebuilding period shall “be as short as possible, taking into account the status and biology of any overfished stocks of fish, the needs of fishing communities, recommendations by international organizations in which the United States participates, and the interaction of the overfished stock of fish within the marine ecosystem.”

NMFS believes that the Magnuson-Stevens Act requires that the Council and NMFS meet the conservation needs of the stock (National Standard 1), and also consider the needs of fishing communities (National Standard 8). In balancing these considerations NMFS has determined that zero fishing mortality is not required for this situation. Zero fishing mortality would seriously adversely affect fishers and communities in California south of Cape Mendocino because commercial fisheries (including fisheries for non-groundfish species) and recreational fisheries that incidentally catch bocaccio would be severely curtailed or closed altogether for many years into the future.

Comment 3: NMFS violates the Magnuson-Stevens Act by proposing the same cowcod OY as in previous years. NMFS has not adequately assessed whether the amount of cowcod discard that is occurring is above or below the 4.8 mt OY. Finally, NMFS has failed to address the fact that its prohibition of cowcod landing and retention is not being complied with in practice the FEIS shows 0.8 mt of cowcod landed in 2001, the first year in which cowcod retention and landings were prohibited.

Response: NMFS believes that the ABC/OY alternatives presented in the FEIS represent a reasonable range of alternatives. Under each alternative, a full suite of ABC/OYs for all managed species were considered. For cowcod, where no new stock assessment information was available, the outcome and projections from the previous assessments (the best scientific information) and rebuilding analyses were carried over into the new fishing year.

The cowcod OY is based on a constant fishing mortality rate rebuilding strategy that is approximately 1 percent of the population (See Council documents: Revised Rebuilding Plan for West Coast Cowcod Exhibit C.10 Attachment 3, June 2001.) As new assessments are prepared for cowcod and as the stock recovers, the annual OY will increase in direct proportion to the biomass. These rates are consistent with the long term rebuilding goals defined for the individual species and recommended by the Council.

NMFS agrees that further analysis is needed to fully understand how prohibiting bottom fishing activities in two Cowcod Conservation Areas in the Southern California Bight (estimated to be the most important habitats for cowcod) and no retention regulations coastwide affect the total mortality of cowcod. Despite these uncertainties, NMFS anticipates that efforts to minimize bocaccio fishing-related mortality south of Cape Mendocino will provide further protection for cowcod, which have a similar latitudinal and depth distribution and reside in similar habitats as bocaccio. These measures include: the elimination of all directed bocaccio rockfish retention; new depth based management measures that will prohibit groundfish-directed bottom trawl; reduced limited entry fixed gear and open access fishing opportunities in the depths where bocaccio are most commonly found; and the closure of the California recreational fisheries south of 40°10′ N. lat. from January through June 2003.

Data collected by observers in the commercial fishery support this opinion. From September 1, 2001 to August 31, 2002, prior to implementing the rockfish conservation area, a total of 322 lb (146 kg) of cowcod were weighed by NMFS observers on limited entry trawl trips, south of 40°10′ N. lat., where some groundfish was retained. When expanded to account for sub-sampling of some tows, the estimated total cowcod catch on these observed trips is 751 lb (341 kg), in association with 745,162 lb (338 mt) of retained groundfish. Using the average tow depth recorded by the observers as the measure of fishing depth, 95 percent of the weighed cowcod and 93 percent of the expanded cowcod catch occurred on tows within the depth ranges upon which the 2003 rockfish conservation area is based. No attempt has been made yet to extrapolate these results to the entire limited entry trawl fleet, in terms of either the total amount or depth distribution of all cowcod bycatch. However, they may serve as a general indicator of the depth-distribution of cowcod bycatch and the potential effectiveness of the conservation area.

The source of all 1,764 lb (800 kg) of cowcod landings in 2001 is unclear at this time. A small amount (100 lb, 45 kg) of the cowcod appear to have been retained during NMFS survey cruises where research catch is sold to offset the survey costs. The reminder is most likely attributable to fishers mis-identifying the species and landing them as part of other market categories. When those categories are sampled for species composition and cowcod are found, the ratio of pounds of cowcod to total pounds is then applied to the entire market category for that sampling unit (gear/period/port group) to estimate the total amount of cowcod that were landed. The cowcod landings in 2002 were further reduced over 2001.

Comment 4: One commenter stated that the OY for darkblotched rockfish was too low because it was based on an 80 percent probability of rebuilding by Tmax, suggesting that a 60 percent probability of rebuilding by that date was a reasonable standard for meeting rebuilding requirements. Conversely, another commenter stated that the OY level for darkblotched was too high because it is higher than catch limits that were in force in 2001. This second commenter also notes that the 2003 specifications claim a higher likelihood of rebuilding than claimed in the 2002 specifications.

Response: The goals of rebuilding programs are to achieve the population size and structure that will support MSY within a specified time period while minimizing to the extent practicable, the social and economic impacts associated with rebuilding, including adverse impacts on fishing communities.

NMFS guidance on rebuilding plans specifies that the minimum possible time to rebuild is the time to rebuild in the absence of fishing. For darkblotched rockfish, the minimum time to rebuild is 14 years (2014). The mean generation time for darkblotched rockfish is 33 years, therefore the maximum allowable time to rebuild would be 47 years (2047). In determining the target rebuilding time period NMFS guidance recommends that the target rebuilding time be shorter than the maximum allowable time. The recommended default in section 3.4 of the technical guidance document (Technical Guidance On the Use of Precautionary Approaches to Implementing National Standard 1 of the Magnuson-Stevens Fishery Conservation and Management Act NOAA Technical Memorandum NMFS-F/SPO-## July 17, 1998) is that the target rebuilding time not exceed the midpoint between the minimum and maximum possible rebuilding times (Tmid).

A draft rebuilding analysis was prepared in May 2001 and presented to the Council at its June 2001 meeting. This draft analysis was revised by NMFS in August 2001 and was adopted by the Council at its September 2001 meeting. The new analysis indicated that the stock was more depleted than originally estimated (12 percent vs 22 percent of unfished biomass,) and that the stock could not be rebuilt within 10 years as was previously thought. Therefore, the OYs since 2002 reflect an extended rebuilding trajectory.

The 2002 OY of 168 mt, was based on a 70 percent probability of rebuilding the stock to MSY by TMAX. This is equivalent to a TTARGET of 2034. The 2003 OY of 172 mt is based on the rebuilding analysis, which has a 80 percent probability of rebuilding the stock to MSY by TMAX. This is equivalent to a TTARGET of 2030. The Council recommended and NMFS agrees, that an OY of 172 mt for 2003 provides a reasonable balance between the length of time for rebuilding the stock and the adverse economic impacts to the limited entry trawl sector. The projected darkblotched biomass increase results in a higher OY even though the rebuilding time is shorter.

Comment 5: The OY for Pacific ocean perch (POP) is too low because it was based on a 70 percent probability of rebuilding by Ttarget. A 60 percent probability of rebuilding by that date is a reasonable standard for meeting rebuilding requirements.

Response: In 2001 the POP rebuilding analysis was updated with the most recent scientific information. In 2002, the OY of 350 mt reflected a 70 percent probability of rebuilding by the year 2042. For 2003, three OYs based on the most recent rebuilding analysis and corresponding to 50, 70, and 80 percent probabilities of rebuilding the stock by the year 2041 were presented to the Council. The Council recommended OY of 377 mt which corresponds to a 70 percent probability of rebuilding the stock by 2041. This OY was chosen because it was consistent with the interim rebuilding strategy adopted by the Council in prior years.

NMFS agrees with the Council's recommendation, and believes that increasing the OY for POP to a level that corresponds to a 60 percent probability of rebuilding the stock by 2041 provides little if any benefit to fishers. Because POP is a slope species and is found in similar areas as darkblotched rockfish, measures to protect darkblotched rockfish reduce the availability of POP to the commercial fishery. The best available data on December 31, 2002 indicates that only about 50 percent of the available OY for POP was landed in 2002. With the 2003 conservation areas, there will likely be fewer opportunities for vessels to directly or indirectly take POP, therefore there would be no benefit to fishers from raising the OY.

Comment 6: The yelloweye rockfish OY is 63 percent higher than in 2002. While the agency suggests that yelloweye rockfish is in better shape than it was a year ago, the higher OY results in a rebuilding period that is 15 years longer than it would have been under 2002 harvest levels.

Response: For 2002, the ABC for yelloweye rockfish was set in acknowledgment that this stock would be designated as overfished and was based on the recommendation from the stock assessment author and the Stock Assessment Review Panel that reviewed the assessment. The Council adopted a total catch OY for yelloweye rockfish that was based on a precautionary adjustment of 50 percent of the specified ABC.

On January 11, 2002, yelloweye rockfish was declared overfished (67 FR 1555). At the Council's June 2002 meeting, an initial yelloweye rockfish rebuilding analysis, based on the 2001 assessment, was prepared and presented. The development of rebuilding measures for yelloweye rockfish was hampered in this process because this assessment did not cover waters off the coast of Washington. In August 2002, an updated assessment was completed in order to incorporate data from Washington, an important area of yelloweye rockfish abundance, and to incorporate newly available age data.

The assessment update concluded that the coastwide yelloweye rockfish spawning female biomass was at 24.1 percent of its unfished biomass at the beginning of 2002. This is in contrast to the 2001 assessment that estimated that yelloweye rockfish was at about 7 percent of its unfished biomass in waters off northern California and at 13 percent of its unfished biomass in waters off Oregon. A new rebuilding analysis was prepared following completion of the 2002 assessment. Due to the less depleted stock status and higher productivity estimated by the updated assessment, the rebuilding period is shorter than had been initially estimated. The estimated year to rebuild in the absence of fishing is 2027, while the target rebuilding year associated with a 22 mt OY for 2003 is 2052(TMID). Selecting an OY that corresponds to TMID is consistent with NMFS guidance on rebuilding plans.

NMFS believes that the Magnuson-Stevens Act requires that the Council and NMFS meet the conservation needs of the stock (National Standard 1), and also consider the needs of fishing communities (National Standard 8). A lower rebuilding OY, which would further reduce the potential income of the fishers is not required.

Comment 7: One commenter stated that the sablefish should be set higher, at 8,187 mt, which would be based on recruitment changes affected by environmental conditions, the default MSY proxy, and the Council's harvest control rule. Failing to base the sablefish OY on environmental conditions ignore the best available science, which show that environmental conditions affect stock status. Conversely, another commenter stated that the sablefish OY is 30 percent higher than that recommended by the Council's Allocation Committee, saying that the higher amount is not justified.

Response: The SSC indicated that the medium and high OYs were relatively risk-prone and advised the Council that caution should be used when setting the 2003 harvest levels. The 5,000 mt OY, as recommended by the Council's ad hoc Allocation Committee, was consistent with the Scientific and Statistical Committee (SSC) recommendation because it addressed uncertainty in the assessment relating to the different states of nature.

After deliberations, the Council recommended OY of 6,500 mt which is a 7,455 mt OY, based on a 40/10 adjustment to the ABC, with an additional 1,000 mt precautionary reduction. The Council based its recommendation on the SSC's advice to be precautionary because of assessment uncertainties, and because the sablefish biomass is within the precautionary range. While the OY is higher than that recommended by the Allocation Committee, this OY is still considered to be risk averse rather than risk neutral. NMFS agrees with the Council's recommendation.

Comment 8: One commenter stated that the whiting OY is too low and is set at a harvest rate that is more conservative than the Council's default rate, which is unjustified. Another commenter stated that the OY is contrary to the scientific advice of the U.S. Canada Review Panel. A third commenter stated that the whiting OY was higher than recommended by the Council's SSC and that setting the higher OY was unjustified.

Response: In estimating the current biomass, NMFS used a medium level recruitment assumption of a recent (1999) large year class. The medium recruitment level was considered to be risk neutral. The U.S. ABC of 188,000 mt is 80 percent of the coastwide ABC. The U.S. whiting OY is 148,200 mt which is 80 percent of the coastwide OY (185,325 mt) and is based on the application of an F45% harvest rate, reduced by the Council's default rebuilding 40-10 harvest rate policy. Under the 40-10 harvest rate policy, the OYs of stocks that are below B40% abundance are set at increasingly more conservative rates the farther they are below B40%.

The SSC advised the Council to be precautionary when setting the Pacific whiting OY and not increase it over the 2002 harvest level (U.S. OY for 2002 was 129,600 mt) until a new assessment was conducted. However, the Council indicated that the medium harvest level, 148,200 mt (13 percent increase over 2002), based on the 2003 projected biomass with an F45% harvest rate proxy was sufficiently precautionary, because the risk neutral medium recruitment assumption and a more conservative harvest rate proxy were applied. The ABC for a species or species group is generally derived by multiplying the harvest rate proxy by the biomass to forecast the amount of harvest available to the fishery. Because of expected whiting biomass growth in the coming years, this will result in a short-term increase in the OY. However, the more precautionary harvest rate proxy is expected to increase the rebuilding rate and reduce the risk of declining back into an overfished state because whiting is a highly productive species.

The Joint Canada-U.S. Review Panel on the Stock assessment of the Coastal Pacific Hake/Whiting stock met in February 2002 and prepared a report, which was used by the Council and SSC in recommending the Pacific whiting harvest levels for 2002. While both U.S. and Canadian review panel members had a common interest in conducting sound technical review, they had different responsibilities in terms of the type of advice expected by the Council and Canadian Department of Fisheries and Oceans. Specifically, the review panel recommended changing the harvest rate to an F45% harvest rate and selecting the harvest level bounded by the low and medium recruitment scenarios for the 1999 year-class. This was a risk adverse policy recommendation that was not adopted by the Council for the reasons previously stated.

Comment 9: NMFS has failed to compensate for overharvest in past years' fisheries in proposing harvest limits for 2003. In its proposed rule at 68 FR 953, NMFS discussed overfishing that had occurred in 2001, but not in 2002, claiming that landings data was not available at the time of the publication of the proposed rule. A full month has passed since the end of 2002, therefore, NMFS will violate the Magnuson-Stevens Act if it fails to consider 2002 catch data in making its final decision on the 2003 specifications.

Response: Each year since 2000, NMFS has provided a brief report within the preamble to the proposed rule on whether overfishing occurred on any groundfish species in the last year for which data was available. This report is not a required part of the preamble to the specifications and is simply provided as an update for the public. The commenter has taken a sentence from that report and revised its context so as to accuse the agency of failing to consider 2002 data in crafting specifications and management measures for 2003. The Council and its participating state and Federal agencies consider all available data, including catch data from the current fishing year when devising specifications and management measures for the upcoming fishing year.

To the extent that they were available, data from fisheries conducted during 2002 were used in evaluating 2003 management options for all fleets targeting groundfish. Inseason comparison of trawl bycatch projections with reported landings during the first four months of 2002 resulted in adjustments to the expected target species landings of vessels within the 2003 model. Additionally, because trawl landings of bocaccio during the first four months exceeded the total bycatch projected for that timespan, bocaccio bycatch rates were increased for modeling the 2003 trawl fishery. Recommendations for management of the fixed gear, daily trip limit fishery for sablefish also incorporated landings during the first four months of 2002, in conjunction with catch rates over the previous three years. Early season landings in the recreational and commercial fixed gear fisheries for nearshore rockfish were included in evaluating 2003 management, along with recent years' landings. However, in the region north of 40°10′ N. lat., participation is usually low early in the year due to bad weather. As a result, landings during this period are of limited use in evaluating the overall adequacy of measures adopted for the entire year. While recreational and commercial fixed gear vessels are usually more active in the region south of 40°10′ N. lat. early in the year, these groundfish fisheries were closed during two of the first four months of 2002, restricting their usefulness. As data for May and June became available during the summer, they were examined, and incorporated into 2003 projections where appropriate.

In this letter of comment, the commenter refers to the Quota Species Monitoring (QSM) system, asserting that this system collects and reports data within about two weeks of landings and is used for inseason management. This comment expresses a common confusion between the best available science and the most recently available science. The QSM system provides estimates of total landings for managed species that are used for inseason fishery monitoring to show managers general fishery trends, such as whether a particular species is being landed at higher or lower amounts than the previous year or cumulative limit period. QSM data is not used in stock assessments because assessments require more accurate and specific landings data, data that comes from fishtickets. Data from fishtickets is also needed and used to predict individual vessel behavior within different management scenarios. Information from fishtickets, which detail the landings of individual vessels, is not available until several months after the landings recorded by those fish tickets were made. Accurate landings data from fishtickets represents the best available scientific information about how landings of the different groundfish species are distributed between various ports coastwide. Landings levels predicted by the QSM system represent only the most recently available information on general landings trends and cannot substitute for the accuracy and specificity of fishticket landings data.

Stock assessments conducted during 2002 were initiated very early in the year, and were completed by April. Catches are specified in the models on an annual basis, and given the Council's ability to respond to early trends through use of inseason adjustments, it would not have been appropriate to have modified the models' assumptions regarding expected 2002 catch, based on only 2 months of landings data.

Comment 10: We disagree with NMFS's statement that “[N]ew leglisative mandates . . . gave highest priority to preventing overfishing and rebuilding overfished stocks.” National Standard 1 requires fisheries management measures to prevent overfishing “while achieving, on a continuing basis, the optimum yield from each fishery for the United States fishing industry.”

Response: The Magnuson-Stevens Act contains ten National Standards that characterize the nation's primary objectives for Federal fisheries management. National Standard 1 reads as follows: “Conservation and management measures shall prevent overfishing while achieving, on a continuing basis, the optimum yield from each fishery for the United States fishing industry.” National Standard 8 reads as follows: “Conservation and management measures shall, consistent with the conservation requirements of this Act (including the prevention of overfishing and rebuilding of overfished stocks), take into account the importance of fishery resources to fishing communities in order to (A) provide for the sustained participation of such communities, and (B) to the extent practicable, minimize the adverse economic impacts on such communities.” Balancing these two national standards is at the heart of the challenge faced by NMFS and the Council in managing West Coast groundfish fisheries. National Standard 8 does recognize the importance of fishing communities, but it makes that recognition while reminding managers of their obligation to prevent overfishing and rebuild overfished stocks.

Bycatch and Discard

Comment 11: The 2003 groundfish management measures are a complex combination of trip limits and depth-based closures; however, the agency lacks much of the scientific information needed to ensure the success of this management scheme. The agency must establish an accurate accounting system to measure total catch and must establish a monitoring system to measure the depths at which the different species are caught. We fully endorse the use of vessel monitoring systems (VMS) to both enforce depth-based closures and to provide much-needed data on the catch locations for particular species.

Response: NMFS agrees. The groundfish management measures are certainly complex and will require monitoring systems to both enforce regulations and to provide scientific information on the effectiveness of the regulations at protecting overfished groundfish species. NMFS is investigating VMS units and preparing its computer database facilities for receiving and organizing VMS data. The agency expects to soon publish a proposed rule that would set out requirements for all limited entry vessels that fish for groundfish to carry VMS. These proposed regulations would undergo public review and comment while the burden of increased public reporting duties associated with VMS were also under public review and Office of Management and Budget review under the Paperwork Reduction Act. If NMFS approves final VMS regulations for implementation, the agency expects that this system would provide much-needed data on the locations and depths at which vessels fish. Such information would be subject to Magnuson-Stevens Act confidentiality restrictions, but is expected to be very useful to NMFS enforcement and science centers. Data from the groundfish observer program and from the VMS program are expected to notably improve NMFS scientific information on West Coast groundfish and groundfish fishing activities. Data from the NMFS observer program will enhance the agency's ability to estimate the total catch of not only bycatch species, but target species, as well. Appropriate application of observer discard data to entire fleets requires substantial data review and modeling; this work is now underway.

Comment 12: Three commenters discussed the current model for bycatch analysis and suggested that NMFS needs to update and improve the data used in that analysis. In particular, the commenters were critical of the use of trawl logbook data in the current bycatch analysis, saying that the data is old and does not accurately reflect current fishing patterns. Commenters also suggested that NMFS incorporate observer data into its bycatch rate analyses, and use that data to check its bycatch rate assumptions for 2003. One of these commenters further noted that the bycatch model only addresses the trawl fisheries and asked that NMFS conduct a review of its data sources on fishing-related mortality and update the FMP to specify the types of data needed to improve estimates of total mortality.

Response: NMFS agrees that the bycatch model needs to be updated and needs to incorporate observer data, and the agency and the Council are working toward those ends. On January 27-29, 2003, the Council's SSC sponsored a workshop to review the bycatch model and the data sources for that model. The SSC plans to evaluate the report of the workshop review panel at its March 2003 meeting, which will be held concurrently with the Council's March 9-14, 2003 in Sacramento, California, and provide the Council with its recommendations at the April 2003 Council meeting. NMFS believes that this SSC review is an important step toward improving the bycatch model to better support groundfish management.

NMFS agrees that observer data from the new NMFS West Coast groundfish observer program needs to be incorporated into the bycatch model. Before using the data for inseason management, NMFS must first review the data for potential sources of bias and, in conjunction with the SSC, determine the most appropriate methods for incorporating the new data into the bycatch model. On January 30, 2003, NMFS released its first report on observer program data. The observer program began in August 2001 and this new report provides data from the August 2001 through August 2002 period. NMFS Northwest Fisheries Science Center is currently determining how best to integrate the new observer data into the model. Results from the first year of the observer program's activities are available online as the West Coast Groundfish Observer Program Initial Data Report and Summary Analyses at http://www.nwfsc.noaa.gov/ fram/ Observer/ datareport.htm.

NMFS also agrees that logbook data should not be a primary data source for the bycatch rates used in the model, although the agency notes that logbook and fish ticket data are likely to remain integral to projecting fleet behavior within the bycatch model. One commenter noted that fishing strategies have changed since the 1999 logbook data used in the model became available. While it is true that fishing strategies have changed, the 1999 logbook data are used to show co-occurrence between the more abundant targeted stocks and overfished stocks during a period when fishing was less restricted. Fishery managers need to know how co-occurrence ratios looked during less restrictive fishing periods in order to better craft fishing restrictions that will reduce interceptions of overfished species. Another commenter noted that logbooks only show the beginnings of tow locations, not the direction and duration of the tows. NMFS and the Council need more accurate information on where trawl vessels are fishing throughout their tows. However, individual trawl tows may last for hours and encompass a wide range of depths. Consequently, even complete information regarding the path of any tow would not eliminate all ambiguity on where particular species were caught. NMFS also needs more information on the fishing locations of the non-trawl and recreational fleets in addition to improvements in trawl fishing location data. If NMFS is able to approve the VMS system regulations discussed above in the response to Comment 11, the agency expects that its data on the locations and depths at which vessels fish will be markedly improved. While the VMS regulations would initially apply to limited entry vessels fishing for West Coast groundfish, NMFS anticipates expanding these requirements to commercial passenger fishing vessels (recreational charter boats) and to the open access groundfish fleet.

NMFS agrees that the current bycatch model only addresses the groundfish trawl fleet. During development of the model, bycatch rate data were unavailable for other fleets that catch groundfish. The NMFS observer program is collecting data from non-trawl fishery participants. As more data become available, it is the agency's intent to expand the bycatch model to include other gear types. With respect to the comment that NMFS needs to conduct a review of its data sources on fishing-related mortality, NMFS refers the public to the NMFS Northwest Fisheries Science Center's 2002 Groundfish Research Plan in 2002, which is available online at http://www.nwfsc.noaa.gov/ fram/ GFresearchplan.htm. Among other things, the Groundfish Research Plan provides planning goals for investigating bycatch and discard, and how these contribute to total groundfish mortality.

Comment 13: NMFS has refused to seriously consider the alternative of managing the fishery under a system of discard caps, under which the fishery would be closed if a certain amount of discard occurred.

Response: NMFS has refused to seriously consider the alternative of managing the fishery under a system of discard caps, under which the fishery would be closed if a certain amount of discard occurred.

“Discard caps” generally refers to a management tool whereby an entire fishery, or fishing by an individual vessel, is halted when discard quotas for designated species are reached. Administration of such a system requires real-time information on discards as the fishery progresses, either through comprehensive, direct observation by fishery observers, or by a combination of observer and landings data that can be extrapolated to yield a reliable estimate of discards. While NMFS has not “refused to seriously consider” managing the Pacific Coast groundfish fishery with a discard caps program, there is no data collection system in place, nor is there likely to be in the near future, on which to base a system of discard caps. NMFS will be analyzing discard caps more fully in its Supplemental Programmatic Environmental Impact Statement, a preliminary draft of which should be available for public review in late summer 2003.

West Coast groundfish management uses a similar management tool that has been adapted to account for the relatively data poor conditions in the West Coast groundfish fishery. The bycatch model, which is currently under scientific review as discussed earlier in this section, estimates the amounts of overfished species that will be taken in fisheries targeting more abundant stocks. These estimates are stratified over the months of the year, because historic data has shown that groups of groundfish species are taken in different combinations at different times of the year. Estimated bycatch and discard of overfished species is monitored through the catch and landings levels of targeted species. For example, NMFS will monitor the amounts of Dover sole and sablefish landed to estimate the amount of darkblotched rockfish discard in that sector of the fishery. Darkblotched rockfish is a deepwater rockfish species incidentally taken with Dover sole and sablefish. The Council recommends adjustments to the trip limits and/or closures of different sectors of the fishery if the OYs for overfished species are estimated to be approached. In 2002, for example, the Council learned at its June meeting that it had not accounted for darkblotched rockfish taken south of 40°10′ N. lat. when it developed the 2002 specifications and management measures. To prevent the deepwater fisheries from exceeding the darkblotched rockfish OY, the Council reduced trip limits for deepwater species in July and August and recommended area closures in waters where darkblotched rockfish is commonly found for September-December. NMFS implemented the Council's July-August recommendation, but found in investigating its September-December recommendation that darkblotched rockfish are more likely to be taken by vessels targeting deepwater species in September than in the summer or winter months. Thus, NMFS closed deepwater trawl fisheries in September and implemented area closures for October-December via an emergency rule.

NMFS began its observer program in August 2001 and, as mentioned above, has just reported its first results. However, the observer program does not have the resources to provide observer data to managers for real-time fishery management. The agency expects that integrating observer data into the bycatch model and recalibrating the model with that data will significantly improve NMFS and Council ability to estimate bycatch and discard in the West Coast groundfish fishery. These changes will still not allow NMFS to implement a discard cap management program, which as mentioned earlier, requires real-time observer program data. No one management tool is suitable for all fisheries, thus NMFS and the Council must craft management tools suitable to the West Coast groundfish fisheries and to the scientific information available on West Coast groundfish and groundfish fisheries. As suggested by another commenter in Comment 12, NMFS should be evaluating its data sources on bycatch and discard and setting goals for improving both data gathering and data evaluation through models like the bycatch model. In this manner, the agency will improve its ability to craft management tools specific to the groundfish fishery and its needs.

Comment 14: The same commenter that stated that NMFS had failed to consider discard caps also stated that NMFS has failed to establish adequate bycatch assessment requirements for the fishery. This commenter noted that there are no bycatch assessment requirements contained in the proposed specifications.

Response: The groundfish specifications and management measures annually set harvest limits and management measures that constrain the fisheries such that they are permitted to achieve harvest levels for more abundant stocks while still ensuring that harvest levels for protected stocks are not exceeded. As discussed earlier in this section, OYs of more abundant stocks are often not reached because harvest is constrained or closed to protect overfished stocks. In any case, the annual specifications and management measures process is not intended to address every aspect of groundfish fishery management. However, it is incorrect to assert that NMFS has failed to address bycatch assessment requirements altogether simply because bycatch assessment requirements are not part of the annual specifications and management measures regulatory package. Bycatch assessment requirements are part of NMFS's permanent Federal regulations at 50 CFR part 660.360, implemented at 66 FR 20609, April 24, 2001, which provide groundfish observer program requirements and regulations for the West Coast groundfish fishery. For further information on the West Coast groundfish observer program, the observer coverage plan, and the first year of groundfish observer program data, please see: http://www.nwfsc.noaa.gov/ fram/ observer/datareport.htm.

Comment 15: One commenter stated that NMFS has failed to take adequate account of the bycatch occurring in the pink shrimp and prawn fisheries, in order to ensure that total mortality of overfished groundfish species does not exceed the level necessary to meet overfished species rebuilding requirements. A second commenter expressed concern about the potential bycatch of several overfished species in the spot prawn trawl fisheries. This commenter also noted that these are not federally-managed species and that therefore, the NMFS expectation that the spot prawn trawl fisheries will close in 2003 may not be correct. If the spot prawn trawl fisheries are not closed, NMFS and the Council may have underestimated overfished species bycatch in those fisheries.

Response: The second commenter is correct in saying that the pink shrimp and spot prawn trawl fisheries are state-managed fisheries. Each of the three coastal states has a seat on the Council, however, and is an active partner in coastwide efforts to protect overfished groundfish fisheries. Oregon Department of Fish and Wildlife) (ODFW) has been cooperating with the Oregon shrimp fleet to experiment with different types of Bycatch Reduction Devices (BRDs) since 1994. Vessels participating in state pink shrimp trawl fisheries are now required to carry BRDs to participate in those fisheries, significantly reducing their groundfish and other finfish bycatch. NMFS particularly appreciates the initiative the states and the pink shrimp industry have taken to design and test these BRDs, allowing a lucrative fishery to remain open while still reducing its bycatch of overfished groundfish species.

In all three states, spot prawn is taken with pot gear, a gear with very low bycatch rates, and has also been targeted with trawl gear. Washington State has eliminated its spot prawn trawl fishery. Oregon has three vessels participating in the spot prawn trawl fishery, which it had allowed as an experimental fishery. ODFW employees have indicated that this experimental use of trawl gear would end as of January 1, 2004. NMFS understands that the California Fish and Game Commission (Commission) is deliberating whether to continue to allow spot prawn trawling. The possibility that California may not close its spot prawn trawl fishery is of great concern to NMFS. NMFS has sent a letter to the Commission reminding it that California Department of Fish and Game employees participating in the Council process had estimated California's commercial fishery catch of bocaccio on the assumption that the spot prawn trawl fishery would no longer exist in 2003. In that letter, NMFS told the Commission that if it did not prohibit fishing for spot prawns with trawl gear, NMFS and the Council would be forced to consider additional constraints on California groundfish fisheries to offset the bycatch expected if the spot prawn trawl fishery continues. In addition, if the spot prawn trawl fishery were to occur, it would be prohibited in the trawl Rockfish Conservation Areas (RCAs).

Comment 16: For several fisheries, NMFS and the Council have underestimated the amount of bocaccio bycatch that may be expected to occur, particularly: the open access fisheries, the California set gillnet fisheries, the limited entry flatfish trawl fishery, and the California halibut trawl fishery.

Response: The commenter details several points where data on the above-listed fisheries may be insufficient to properly estimate bycatch or where historic bycatch estimates are higher than the bycatch levels expected in 2003. In discussing the open access fisheries, the commenter notes that bocaccio landings by the open access fleet were higher in 1999 (22.8 mt) than estimated for all fisheries in 2003. Bocaccio were declared overfished in March 1998, with the first management measures to reduce bocaccio take introduced in 2000. Since bocaccio was declared overfished along with lingcod and Pacific ocean perch, six other West Coast groundfish species have been declared overfished. West Coast groundfish management in 2003 is radically different from that of 1999. NMFS has used 1999 logbook data as a reference to how overfished species interact with more abundant species during a relatively less restrictive fishing regime. The 2003 fishery management regime is considerably more restrictive than that of 1999 and 1999 bocaccio landings are not an accurate estimate of bocaccio harvest expected to occur in 2003. Limited entry and open access commercial fisheries and recreational groundfish fisheries have been under ever more restrictive management regimes in each year since 1999, such that 2003 management measures include more restrictive trip limits for co-occurring species, shorter season lengths, higher bycatch rate assumptions, and large-scale RCAs where groundfish fishing is prohibited or otherwise restricted.

In the commenter's discussion of the California set gillnet fishery, the commenter assumes higher bycatch levels than those estimated by NMFS by comparing historic fishery data (1996-1999) with those estimates. As the commenter notes, several new fishery restrictions have been implemented by California and by NMFS since those years. It is not reasonable to expect that overfished species catch and discard levels will be the same under the 2003 management regime as they were under the significantly less restrictive management regimes of the late 1990s.

In discussing the limited entry flatfish trawl fishery, the commenter compares estimates of bocaccio bycatch from a California application for an exempted fishing permit (EFP) to estimates of the bocaccio bycatch in the limited entry flatfish trawl fishery. California has decided not to pursue this EFP. Nonetheless, estimates of overfished species bycatch for EFPs are intended to be some relatively high, liberal amount that would allow the EFP to remain open for as long as possible without jeopardizing rebuilding and do not necessarily reflect expected bycatch amounts. Estimates of bycatch in directed fisheries are based on the bycatch model, which looks at historical co-occurrence rates between the more abundant targeted stocks and overfished species. Further, directed limited entry trawling would occur within a more restricted area than had been planned for the flatfish EFP, which would tend to lower bycatch rates for that directed fishery.

The commenter's concerns with the California halibut fishery are of interest to NMFS and the Council. The Council has received conflicting reports on the type and level of bycatch occurring in this fishery. NMFS notes that California halibut trawling would be under the same conservation area restrictions as limited entry trawling, which are designed to move trawlers away from areas where bocaccio commonly occur. These area restrictions are expected to result in lower incidental bocaccio take in the California halibut trawl fisheries. In its review of bycatch and discard data sources, NMFS will be looking at information on all fisheries in which groundfish are taken, including the California halibut open access trawl fisheries.

Comments on Fisheries Regulations

Comment 17: One commenter stated that the groundfish conservation areas are not closed to all fishing, providing the example that some trawling is allowed in the trawl RCAs and that some nontrawl gear fishing is allowed in the nontrawl gear RCAs. This commenter stated that NMFS has failed to justify providing these exceptions to the conservation area restrictions. Another commenter wrote to support depth-based management in general.

Response: NMFS appreciates the opportunity to clarify this situation. The State of California has created the California Rockfish Conservation Area (CRCA), which is an area south of 40°10′ N. lat. that is closed to fishing for groundfish between 50 fm (91 m) and 150 fm (274 m). The CRCA has several exceptions for different gears in different areas and an additional closure in the northern portion of the CRCA to protect darkblotched rockfish north of 38° N. lat. California proposed this CRCA to the Council and the Council adopted the regulatory provisions of the CRCA for recommendation to NMFS as part of its 2003 groundfish management measures package. NMFS felt that a large closed area with several open areas inside it would be both confusing to the public and inconsistent with the Council's management recommendations for waters north of 40°10′ N. lat. Thus, NMFS has implemented a trawl-specific rockfish conservation area (RCA) that is bounded between 50 and 250 fm (91 and 457 m) from 40°10′ N. lat. south to 38° N. lat., between 50 fm and 150 fm (91 and 274 m) from 38° N. lat. south to 34°27 N. lat., and between 100 fm and 150 fm (183 and 274 m)from 34°27 south to the U.S. border with Mexico. Within that Federal RCA, the only trawling permitted is pink shrimp trawling with BRDs. These regulations have the same effect as the California recommendation to close all trawling south of 40°10′ N. lat., except that pink shrimp trawling with BRDs would be allowed and that trawling inshore of 50 fm (91 m) would be allowed between 40°10′ N. lat. and 34°27′ N. lat. and inshore of 100 fm (183 m) south of 34°27′ N. lat, and except that trawling would further be prohibited between 150 fm (274 m) and 250 fm (457 m) between 40°10′ N. lat. and 38° N. lat. The NMFS regulations for conservation areas south of 40°10′ N. lat. are consistent with those for north of 40°10′ N. lat. in that the regulations implement different closed areas for trawl and nontrawl vessels.

The commenter correctly notes that some nontrawl gear fishing is permitted in nontrawl gear conservation areas. Albacore and salmon fishing with hook-and-line gear are permitted in the conservation areas. Bottom longline fisheries like the nontreaty halibut fishery, where overfished groundfish species are more likely to be taken, will be prohibited within the nontrawl conservation areas. The conservation areas are not closed areas wherein all fishing of any type is prohibited; rather, they are conservation areas wherein fishing activities expected to take overfished species are prohibited or restricted.

Comment 18: We object to fisheries regulations that prohibit the possession of fish in excess of trip limits and that force vessels to continuously offload their catch. Prohibiting the possession of fish in excess of trip limits puts processors in jeopardy of citation. Processors must often offload fish in order to determine whether trip limits have been exceeded and how to deal with that excess fish. We suggest that possession of fish in excess of trip limits be permitted in cases where state or Federal officials are alerted to that possession within 96 hours of the start of the possession.

Response: Federal groundfish regulations have prohibited the “taking and retaining, possessing or landing” of groundfish in excess of trip limits since the 1980s. Federal regulations do not require vessels to continuously offload their catch; rather, the regulations require that once offloading is begun, all fish on board the vessel be recorded on the same landings receipt and/or fish ticket. Processors are not in any more jeopardy of prosecution for possession of trip limit overages than they ever have been. NMFS and state enforcement officers will continue to expect fishers and processors to report trip limit overages and to forfeit those overages to the state in which they are landed. Possession of trip limit overages, whether reported or not, is a violation of Federal law, but enforcement of that prohibition is dealt with far differently for those persons who are found to have possessed such overages without reporting them. NMFS and state enforcement continue to need an avenue for prosecuting fishers and processors that retain trip limit overages without reporting and forfeiting those overages. Although the agency appreciates the commenter's concern for the ability of processors to comply with Federal law, NMFS will not be loosening this Federal restriction.

Comment 19: The trawl trip limit table for north of 40°10′ N. lat. lists an incorrect trip limit for yellowtail rockfish when taken as bycatch in the flatfish fisheries. The currently listed limit of 3,000 lb (1,361 kg) per month should be 30,000 lb (13,608 kg) per month. Trip limit tables discussed and adopted at the Council's September meeting showed incidental yellowtail rockfish catch levels of 30,000 lb (13,608 kg) per month. NMFS changed this catch limit after the Council meeting with no public scrutiny and no economic analysis of the effects of the change.

Response: In its motion on groundfish management measures, the Council adopted the limited entry trawl trip limits shown in the Council's Exhibit C.3.v., Supplemental GMT report, at pages 4-5. Unfortunately, that table is unclear on the trip limit for yellowtail rockfish when taken as bycatch in the flatfish fisheries. The table shows the yellowtail rockfish limit when taken in the flatfish fisheries as “3,000?” The Council never clarified this limit in its motion, but the Council's post-meeting newsletter mistakenly listed the limit as 30,000 lb (13,608 kg) per month, perhaps based on the 2002 yellowtail rockfish limit in the winter flatfish fisheries, which was 30,000 lb (13,608 kg) per 2 months.

NMFS has reviewed January-April 2002 trawl vessel-month landings of yellowtail rockfish in combination with flatfish. A vessel-month represents the landings activities of a single vessel in a single month. In 97 percent of the vessel-months in which flatfish were landed during January-April 2002, the amount of yellowtail rockfish associated with those flatfish landings was less than 3,000 lb (1,361 kg) and it was zero pounds (0 kg) over 80 percent of the time. Given the lack of clarity in the table the Council used for its recommendations and the fact that the 3,000 lb (1,361 kg) per month limit accommodated 97 percent of all yellowtail landings in association with flatfish in January-April 2002, NMFS does not believe that an increase to 30,000 lb (13,608 kg) per month is warranted at this time. The Council will have an opportunity to review groundfish trip limits and other management measures at its April 7-11, 2003 meeting in Vancouver, Washington.

Comment 20: The management measures authorize considerable midwater trawling, but NMFS has failed to explain which overfished species may be negatively affected by midwater trawling and what those effects might be. Apparently the agency believes that midwater trawling will not increase the mortality of overfished species beyond the levels necessary to rebuild those species as quickly as possible.

Response: As detailed in the Council's FEIS for this action, the vast majority of midwater trawling for groundfish off the West Coast targets Pacific whiting. Other than Pacific whiting, there are small allowances for yellowtail and widow rockfish when taken with midwater gear in association with Pacific whiting. There may also be directed yellowtail and widow rockfish fisheries with midwater gear in November-December 2003, if total catch estimates for these and associated stocks show that these fisheries may be held without risk of exceeding the OYs of any species. These fisheries will not proceed if there are not sufficient portions of the OYs remaining to accommodate expected catch. NMFS does expect that midwater trawling will result in widow rockfish, an overfished species, being caught and landed. However, NMFS does not expect that the take of widow rockfish in the midwater trawl fisheries will jeopardize the rebuilding plan for widow rockfish because management measures for 2003 have been designed to keep estimated total widow rockfish mortality in directed fisheries and as bycatch below the widow rockfish OY.

NMFS regularly documents bycatch in the midwater trawl fisheries. The total catch by species in the at-sea whiting fishery has been monitored by observers since 1991. Each vessel currently carries two observers, so virtually all hauls are directly sampled and are figured into the total catch estimates. NMFS provides an aggregation of at-sea whiting bycatch in an annual report provided to the public at the April Council meeting. EFPs are used in the shorebased whiting fishery and the vast majority of shorebased landings are landed unsorted, with a census of the catch taken upon landing. Port samplers also monitor shorebased whiting processing facilities. The State of Oregon reports on bycatch in the coastwide shorebased whiting fishery in an annual report, which is available online at http://hmsc.oregonstate.edu/ odfw/ finfish/ wh/index.html. As documented in these reports, bycatch of overfished species other than widow rockfish is at trace levels (fewer than 0.01 kg per mt of whiting taken.)

Comment 21: NMFS failed to consider an obvious management measure to ban the use and carrying of large footrope trawl gear, rather than simply banning the landing of shelf rockfish by vessels carrying that gear. Large footrope trawl gear may affect deeper-water species, which may be low-mobility, long-lived species that are more vulnerable to the acute and chronic physical disturbance of trawling. NMFS has failed to support its implicit conclusion that large footrope trawling will not impact deeper-water overfished species such as darkblotched rockfish.

Response: The commenter has incorrectly characterized NMFS regulations. Large footrope gear may be used only seaward of the trawl RCAs and vessels are prohibited from taking, retaining, possessing or landing shelf and nearshore rockfish and/or lingcod when large footrope gear is on board the vessel. While prohibiting the use of large footrope gear even seaward of the conservation areas could improve enforceability of the regulations, NMFS concluded that the benefit provided by allowing the harvest of Dover sole, sablefish, and thornyheads in areas of lowest bycatch of overfished species outweighed enforcement difficulties.

NMFS disagrees with the commenter's assertion that the agency has implicitly concluded that large footrope trawling in deeper waters will not impact deeper-water species. NMFS fully expects that fishing activities in deeper waters will result in deeper water species being harvested. This expectation is illustrated by the trip limits provided for deepwater species such as Dover sole, sablefish, and thornyheads. NMFS has been clear and open in stating its expectation that fishing activities will result in fish harvest. In fact, the series of trip limits and area management implemented by this rule are intended to control where and when that harvest occurs. NMFS has also been clear in its intent to manage deepwater fisheries so that their interaction with overfished deepwater species, darkblotched rockfish and Pacific ocean perch, is minimized. As discussed at length in the preamble to the proposed rule for this action, the northern trawl RCA in particular was designed to move fishing away from depths where these two species congregate, which is why it extends out to 250 fm (457 m) from 38° N. lat. to the U.S. border with Canada.

Comment 22: We oppose the new management measure that prohibits vessels from having more than one type of trawl gear on board and from having both trawl gear and nontrawl gear on board. This prohibition is costly, duplicative, and unnecessary because there are already groundfish landings limits based on the types of trawl gear on board.

Response: NMFS discussed this public request with representatives from the Council's Enforcement Consultants, who had originally requested the measure to restrict vessels to carrying only a single gear type on board. The Enforcement Consultants concluded that the combination of restrictions on the species of groundfish that could be landed with small versus large footrope gear and the requirement that vessels fishing with large footrope gear operate offshore of the 250 fm (457 m) depth contour would remove opportunities and incentives for vessels to fish for small footrope species with large footrope gear. NMFS and Enforcement Consultants representatives also agreed with the commenter that there was likely no enforcement benefit in prohibiting the carrying of both trawl and non-trawl gear on board at the same time. However, NMFS and the Enforcement Consultants representatives were still concerned about allowing vessels to carry trawl gear permitted for use within the conservation areas on board with trawl gear prohibited from use within the conservation areas, primarily because these gears are indistinguishable by enforcement officers flying over vessels fishing within the conservation areas. Therefore, the prohibition against more than one type of trawl gear on board has been modified such that vessels fishing within a conservation area with allowable trawl gear may not carry any other type of trawl gear on board.

Comment 23: The proposed rule incorrectly states that the California recreational fisheries south of 40°10′ N. lat will be closed entirely from January through June 2003, when in fact they will be open in January and February for California scorpionfish from shore to the 20 fm (37 m) depth contour. Bocaccio may be caught incidentally in these fisheries for California scorpionfish, thus recreational fishery management measures should account for this potential mortality source.

Response: NMFS agrees that the preamble to the proposed rule incorrectly stated that all recreational groundfish fisheries would be closed January-June, neglecting to mention the January-February opening for California scorpionfish. The agency's mis-statement in the proposed rule preamble, however, does not indicate new and/or unaccounted-for recreational fishing activity because this scorpionfish fishing activity was accounted for in the Council's development of recreational fisheries restrictions.

The commenter raises an issue that is of concern to NMFS, improving estimates of catch and discard in the recreational fisheries. In 2000-2002, California's recreational fisheries management measures were not restrictive enough to adequately constrain the fishery's bocaccio catch. In all three years, commercial fisheries had to be closed or severely limited in order to limit the overall take of bocaccio. Neither NMFS nor the State of California now have a recreational fishery catch monitoring system that satisfactorily characterizes catches in these fisheries to allow inseason monitoring and regulations revisions. However, NMFS is working with all three states to revise the current Marine Recreational Fisheries Statistical Survey so that it is more responsive to fishery management needs.

Changes from the Proposed Rule

This final rule is revising Pacific Coast Groundfish Specifications and Management Measures for March-December 2003 set forth in the proposed rule published in the Federal Register on January 7, 2003 (68 FR 936). This final rule includes changes made in a correction notice to the Specifications and Management Measures implemented via emergency rule for January-February 2003 (FR 68 4719, January 30, 2003). Changes to the emergency rule included: clarification of commercial and recreational trip limits, a re-ordering of Yelloweye Rockfish Conservation Area coordinates, and revisions to Rockfish Conservation Area boundary coordinates. Because vessels may now, in some circumstances, have more than one type of trawl gear on board, NMFS is reinstating the 2002 regulation that provides that the most constraining trip limit for the gear on board applies to landings made on that trip.

In addition, this final rule makes changes as a result of public comments. In response to public comments, NMFS has revised the prohibition set out in the proposed rule against the carrying of more than one type of trawl gear and/or trawl gear and non-trawl gear on board at the same time. Under modified (14)(b)(iv), vessels will be permitted to carry both trawl and non-trawl gear on board at the same time, but when fishing within a conservation zone with allowable trawl gear will not be permitted to carry any other type of trawl gear on board. Vessels fishing offshore or shoreward of the conservation areas will be permitted to carry both small footrope and large footrope bottom trawl gear on board at the same time.

Tables 3-5 have been modified to provide minor editorial revisions and also clarifications to: the trawl trip limit for yellowtail rockfish; the allowance for mid-water trawl vessels to fish for whiting in the conservation area during the primary whiting season; the minor slope rockfish limit in the North so that splitnose rockfish is clearly incorporated within that complex. Regulations for open access exempted trawl fisheries have been revised to clarify that no trawling for spot prawn may take place within the trawl RCAs, regardless of whether groundfish is retained during fishing.

Recreational fisheries regulations have been revised to better clarify that bocaccio, cowcod, canary, and yelloweye rockfish are prohibited species south of 40°10′ N. lat. and to more clearly tie recreational fishing regulations to Federal regulations designating the coordinate boundaries of the Cowcod Conservation Areas. Federal recreational fisheries regulations for California north of 40°10′ N. lat. have been revised to match more restrictive state recreational regulations for bocaccio. In particular, minimum size limits for the total length and filet length of retained bocaccio were added. The California state regulation has minimum size limits for bocaccio that did not change between 2002 and 2003. Federal recreational regulations for bocaccio in the north had the same minimum size limits as California for 2002, but neglected to include those size limits in the 2003 proposed recreational regulations. These size limits are included in this final rule. A limited recreational fishery for bocaccio may exist north of 40°10′ N. lat. because the bocaccio stock north of 40°10′ N. lat. is genetically distinct from the overfished bocaccio stock south of 40°10′ N. lat. as detailed in the 1999 stock assessment by McCall et al.

The Federal regulations at 50 CFR 660.302 provide definitions for different terms used in groundfish regulation and management. In this final rule, NMFS is revising the definition of “Trip Limit,” so that the definition at 50 CFR 660.302 better matches the definition at Section IV.A.(1) of this document. NMFS has also added new definitions for the terms “Trawl Fishing line” and “Footrope” to clarify gear regulations at 50 CFR 660.322, which discuss trawl footrope restrictions.

At 50 CFR 660.304(d), the coordinates listed in the proposed rule for the Yelloweye Rockfish Conservation Area were correct but were listed in the incorrect order such that they did not form a recognizable “C” shape as described. For the final rule, NMFS has re-ordered the coordinates so that they correctly outline this conservation area.

The States of Washington and California submitted revisions to the coordinates designating the boundary lines to the trawl and non-trawl RCAs. Changes effective with the correction document to the emergency rule affected the following boundary lines: 50 fm (91 m) depth contour between 40°10′ N. lat. and 34°27′ N. lat., 60 fm (110 m) depth contour between 40°10′ N. lat. and 34°27′ N. lat., 100 fm (183 m) depth contour north of 40°10′ N. lat., 100 fm (183 m) depth contour south of 34°27′ N. lat., 150 fm (274 m) depth contour south of 40°10′ N. lat., and the Winter Petrale Boundary. NMFS is implementing additional changes to RCA boundary coordinates through this final rule. The following boundary lines are affected by these revisions: 60 fm (110 m) depth contour between 40°10′ N. lat. and 34°27′ N. lat., 75 fm (137 m) depth contour north of 40°10′ N. lat., 100 fm (183 m) depth contour north of 40°10′ N. lat., 150 fm depth contour south of 40°10′ N. lat., 150 fm (274 m) depth contour between 46°16′ N. lat. and 38° N. lat. which may be implemented inseason during 2003, and 250 fm (457 m) depth contour north of 38° N. lat. used during cumulative periods 2-5. Additionally, the State of California plans to submit revisions to the boundary line coordinates for the line approximating the 50 fm (91 m) depth contour south of 40°10′ N. lat. and to the Winter Petrale Boundary north of 40°10′ N. lat. These changes to boundary coordinates were intended to make the boundary lines more closely approximate the depth contours they are intended to designate. Regulatory language describing the RCAs has been revised to better emphasize that while RCAs are generally described by fathom lines, the actual boundaries are defined by latitude-longitude coordinates. When fishing off the West Coast, fishers must comply with the boundaries of the RCAs as designated by the coordinates, not the fathom curves.

I. Final Specifications

Final fishery specifications include ABCs, the designation of OYs (which may be represented by harvest guidelines (HGs) or quotas for species that need individual management), and the allocation of commercial OYs between the open access and limited entry segments of the fishery. These specifications include fish caught in state ocean waters (0-3 nautical miles (nm) offshore) as well as fish caught in the EEZ (3-200 nm offshore).

BILLING CODE 3510-22-S

II. Commercial and Recreational Fisheries

Since 1994, the non-tribal commercial groundfish fishery has been divided into limited entry and open access sectors, each with its own set of allocations and management measures. Species or species group allocations between the two sectors are based on the relative amounts of a species or species group taken by each component of the fishery during the 1984-1988 limited entry permit qualification period (50 CFR 660.332). The FMP allows suspension of this allocation formula for overfished species when changes to the traditional allocation formula are needed to better protect overfished species (FMP, section 5.3.2).

Historically, groundfish species and/or species groups have not been allocated between the commercial and recreational fisheries. Fishery managers instead estimated the amount that would be taken in the recreational fisheries and set that amount aside before determining the allowable harvest for the non-tribal commercial sectors. For 2003, the Council has recommended adopting nearshore groundfish allocations between the recreational and commercial fisheries. These allocations were proposed by the States of Oregon and California for waters off their coasts north and south of 40°10′ N. lat. and are intended to maintain the ratio between recreational and commercial landings 2000. Most of the fish subject to the allocation will be taken in state waters, but state-Federal management of these nearshore species is coordinated through the Council. Commercial groundfish fishing is prohibited in Washington State waters.

Groundfish species or species group allocations and set asides for the tribal and non-tribal sectors, and between the different non-tribal commercial and recreational sectors, are detailed in Tables 1a and 1b. All OYs, allocations and set asides are expressed in terms of total catch. The limited entry/open access allocations for bocaccio, canary, darkblotched, yelloweye rockfish, and the nearshore rockfish species group would be suspended to allow the Council to better develop management measures that provide harvest opportunity for more abundant stocks while protecting overfished stocks. Estimates of trip-limit induced discards are taken “off the top” and in accordance with the bycatch and discard analysis described in the proposed rule for this action at 68 FR 953 (January 7, 2003) before setting the non-tribal sector allocations, except for estimates of sablefish discards as explained in the footnotes to Table 1a. Landed catch equivalents are the harvest goals used when adjusting trip limits and other management measures during the season. Estimated bycatch of yellowtail, widow, canary, and darkblotched rockfish in the offshore whiting fishery is also deducted from the limited entry allocations before determining the landed catch equivalents for the target fisheries for widow and yellowtail rockfish.

III. 2003 Management Measures

Management measures for the limited entry fishery are found in Section IV. Boundary line coordinates for the RCAs are designated at paragraph IV.A.(19). Most cumulative trip limits, size limits, and seasons for the limited entry fishery are set out in Tables 3 and 4. However, the limited entry nontrawl sablefish fishery, the midwater trawl fishery for whiting, and the hook-and-line fishery for black rockfish off Washington are managed separately from the majority of the groundfish species and are not fully addressed in the tables. The management structure for these fisheries has not changed since 2002, except for the level of trip limits for sablefish and whiting, which are described in paragraphs IV.B.(2) through (4). Similarly, management measures for the open access exempted trawl fisheries (California halibut, sea cucumber, pink shrimp, spot and ridgeback prawns) are described in paragraph IV.C.(2), separately from the open access fisheries trip limits set out in Table 5.

IV. NMFS Actions

For the reasons stated above, the Assistant Administrator for Fisheries, NOAA (Assistant Administrator), concurs with the Council's recommendations and announces the following management actions for 2003, including measures that are unchanged from 2002 and new measures.

A. General Definitions and Provisions

The following definitions and provisions apply to the 2003 management measures, unless otherwise specified in a subsequent Federal Register document:

(1) Trip limits. Trip limits are used in the commercial fishery to specify the amount of fish that may legally be taken and retained, possessed, or landed, per vessel, per fishing trip, or cumulatively per unit of time, or the number of landings that may be made from a vessel in a given period of time, as follows:

(a) A per trip limit is the total allowable amount of a groundfish species or species group, by weight, or by percentage of weight of legal fish on board, that may be taken and retained, possessed, or landed per vessel from a single fishing trip.

(b) A daily trip limit is the maximum amount that may be taken and retained, possessed, or landed per vessel in 24 consecutive hours, starting at 0001 hours local time (l.t). Only one landing of groundfish may be made in that 24-hour period. Daily trip limits may not be accumulated during multiple day trips.

(c) A weekly trip limit is the maximum amount that may be taken and retained, possessed, or landed per vessel in 7 consecutive days, starting at 0001 hours l.t. on Sunday and ending at 2400 hours l.t. on Saturday. Weekly trip limits may not be accumulated during multiple week trips. If a calendar week includes days within two different months, a vessel is not entitled to two separate weekly limits during that week.

(d) A cumulative trip limit is the maximum amount that may be taken and retained, possessed, or landed per vessel in a specified period of time without a limit on the number of landings or trips, unless otherwise specified. The cumulative trip limit periods for limited entry and open access fisheries, which start at 0001 hours l.t. and end at 2400 hours l.t., are as follows, unless otherwise specified:

(i) The 2-month periods are: January 1-February 28, March 1-April 30, May 1-June 30, July 1-August 31, September 1-October 31, and, November 1-December 31.

(ii) One month means the first day through the last day of the calendar month.

(iii) One week means 7 consecutive days, Sunday through Saturday.

(e) As stated at 50 CFR 660.302 (in the definition of “landing”), once the offloading of any species begins, all fish aboard the vessel are counted as part of the landing and must be reported as such.

(f) The cumulative trip limits in Section IV B. and C., including Tables 3-5, of this rule must not be exceeded.

(2) Fishing ahead. Unless the fishery is closed, a vessel that has landed its cumulative or daily limit may continue to fish on the limit for the next legal period, so long as no fish (including, but not limited to, groundfish with no trip limits, shrimp, prawns, or other nongroundfish species or shellfish) are landed (offloaded) until the next legal period. Fishing ahead is not allowed during or before a closed period (see paragraph IV.A.(7)). See paragraph IV.A.(9) for information on inseason changes to limits.

(3) Weights. All weights are round weights or round-weight equivalents unless otherwise specified.

(4) Percentages. Percentages are based on round weights, and, unless otherwise specified, apply only to legal fish on board.

(5) Legal fish. “Legal fish” means fish legally taken and retained, possessed, or landed in accordance with the provisions of 50 CFR part 660, the Magnuson-Stevens Act, any document issued under part 660, and any other regulation promulgated or permit issued under the Magnuson-Stevens Act.

(6) Size limits and length measurement. Unless otherwise specified, size limits in the commercial and recreational groundfish fisheries apply to the “total length,” which is the longest measurement of the fish without mutilation of the fish or the use of force to extend the length of the fish. No fish with a size limit may be retained if it is in such condition that its length has been extended or cannot be determined by these methods. For conversions not listed here, contact the State where the fish will be landed.

(a) Whole fish. For a whole fish, total length is measured from the tip of the snout (mouth closed) to the tip of the tail in a natural, relaxed position.

(b) “Headed” fish. For a fish with the head removed (“headed”), the length is measured from the origin of the first dorsal fin (where the front dorsal fin meets the dorsal surface of the body closest to the head) to the tip of the upper lobe of the tail; the dorsal fin and tail must be left intact.

(c) Filets. A filet is the flesh from one side of a fish extending from the head to the tail, which has been removed from the body (head, tail, and backbone) in a single continuous piece. Filet lengths may be subject to size limits for some groundfish taken in the recreational fishery off California (see paragraph IV. D.(1)). A filet is measured along the length of the longest part of the filet in a relaxed position; stretching or otherwise manipulating the filet to increase its length is not permitted.

(d) Sablefish weight limit conversions. The following conversions apply to both the limited entry and open access fisheries when trip limits are effective for those fisheries. For headed and gutted (eviscerated) sablefish:

(i) The minimum size for headed sablefish, which corresponds to 20 inches (51 cm) total length for whole fish, is 14 inches (36 cm).

(ii) The conversion factor established by the State where the fish is or will be landed will be used to convert the processed weight to round weight for purposes of applying the trip limit. (The conversion factor currently is 1.6 in Washington, Oregon, and California. However, the State conversion factors may differ; fishers should contact fishery enforcement officials in the State where the fish will be landed to determine that State's official conversion factor.)

(e) Lingcod size and weight conversions. The following conversions apply in both limited entry and open access fisheries.

(i) Size conversion. For lingcod with the head removed, the minimum size limit is 19.5 inches (49.5 cm), which corresponds to 24 inches (61 cm) total length for whole fish.

(ii) Weight conversion. The conversion factor established by the State where the fish is or will be landed will be used to convert the processed weight to round weight for purposes of applying the trip limit. (The States' conversion factors may differ, and fishers should contact fishery enforcement officials in the state where the fish will be landed to determine that State's official conversion factor.) If a state does not have a conversion factor for headed and gutted lingcod, or lingcod that is only gutted; the following conversion factors will be used. To determine the round weight, multiply the processed weight times the conversion factor.

(A) Headed and gutted. The conversion factor for headed and gutted lingcod is 1.5.

(B) Gutted, with the head on. The conversion factor for lingcod that has only been gutted is 1.1.

(7) Closure. “Closure”, when referring to closure of a fishery, means that taking and retaining, possessing, or landing the particular species or species group is prohibited. (See 50 CFR 660.302.) Unless otherwise announced in the Federal Register, offloading must begin before the time the fishery closes. The provisions at paragraph IV.A.(2) for fishing ahead do not apply during a closed period. It is unlawful to transit through a closed area with any prohibited species on board, no matter where that species was caught, except as provided for in the CCA at IV. A.(19).

(8) Fishery management area. The fishery management area for these species is the EEZ off the coasts of Washington, Oregon, and California between 3 and 200 nm offshore, bounded on the north by the Provisional International Boundary between the United States and Canada, and bounded on the south by the International Boundary between the United States and Mexico. All groundfish possessed between 0-200 nm offshore or landed in Washington, Oregon, or California are presumed to have been taken and retained from the EEZ, unless otherwise demonstrated by the person in possession of those fish.

(9) Routine management measures. Most trip, bag, and size limits, and area closures in the groundfish fishery have been designated “routine,” which means they may be changed rapidly after a single Council meeting see 50 CFR 660.323(b). Council meetings in 2003 will be held in the months of March, April, June, September, and November. Inseason changes to routine management measures are announced in the Federal Register. Information concerning changes to routine management measures is available from the NMFS Northwest and Southwest Regional Offices (see ADDRESSES). Changes to trip limits are effective at the times stated in the Federal Register. Once a change is effective, it is illegal to take and retain, possess, or land more fish than allowed under the new trip limit. This means that, unless otherwise announced in the Federal Register, offloading must begin before the time a fishery closes or a more restrictive trip limit takes effect.

(10) Limited entry limits. It is unlawful for any person to take and retain, possess, or land groundfish in excess of the landing limit for the open access fishery without having a valid limited entry permit for the vessel affixed with a gear endorsement for the gear used to catch the fish (50 CFR 660.306(p)).

(11) Operating in both limited entry and open access fisheries. The open access trip limit applies to any fishing conducted with open access gear, even if the vessel has a valid limited entry permit with an endorsement for another type of gear. A vessel that operates in both the open access and limited entry fisheries is not entitled to two separate trip limits for the same species. If a vessel has a limited entry permit and uses open access gear, but the open access limit is smaller than the limited entry limit, the open access limit cannot be exceeded and counts toward the limited entry limit. If a vessel has a limited entry permit and uses open access gear, but the open access limit is larger than the limited entry limit, the smaller limited entry limit applies, even if taken entirely with open access gear.

(12) Operating in areas with different trip limits. Trip limits for a species or a species group may differ in different geographic areas along the coast. The following “crossover” provisions apply to vessels operating in different geographical areas that have different cumulative or “per trip” trip limits for the same species or species group. Such crossover provisions do not apply to species that are subject only to daily trip limits, or to the trip limits for black rockfish off Washington (see 50 CFR 660.323(a)(1)). In 2003, the cumulative trip limit periods for the limited entry and open access fisheries are specified in paragraph IV.A(1)(d), but may be changed during the year if announced in the Federal Register.

(a) Going from a more restrictive to a more liberal area. If a vessel takes and retains any groundfish species or species group of groundfish in an area where a more restrictive trip limit applies before fishing in an area where a more liberal trip limit (or no trip limit) applies, then that vessel is subject to the more restrictive trip limit for the entire period to which that trip limit applies, no matter where the fish are taken and retained, possessed, or landed.

(b) Going from a more liberal to a more restrictive area. If a vessel takes and retains a groundfish species or species group in an area where a higher trip limit or no trip limit applies, and takes and retains, possesses or lands the same species or species group in an area where a more restrictive trip limit applies, that vessel is subject to the more restrictive trip limit for the entire period to which that trip limit applies, no matter where the fish are taken and retained, possessed, or landed.

(c) Operating in two different areas where a species or species group is managed with different types of trip limits. During the fishing year, NMFS may implement management measures for a species or species group that set different types of trip limits (for example, per trip limits versus cumulative trip limits) for different areas. If a vessel fishes for a species or species group that is managed with different types of trip limits in two different areas within the same cumulative limit period, then that vessel is subject to the most restrictive overall cumulative limit for that species, regardless of where fishing occurs.

(d) Minor rockfish. Several rockfish species are designated with species-specific limits on one side of the 40°10 N. lat. management line, and are included as part of a minor rockfish complex on the other side of the line.

(i) If a vessel takes and retains minor slope rockfish north of 38° N. lat., that vessel is also permitted to take and retain, possess or land splitnose rockfish up to its cumulative limit south of 38° N. lat., even if splitnose rockfish were a part of the landings from minor slope rockfish taken and retained north of 38° N. lat. [Note: A vessel that takes and retains minor slope rockfish on both sides of the management line in a single cumulative limit period is subject to the more restrictive cumulative limit for minor slope rockfish during that period.]

(ii) If a vessel takes and retains minor slope rockfish south of 38° N. lat., that vessel is also permitted to take and retain, possess or land POP up to its cumulative limit north of 38° N. lat., even if POP were a part of the landings from minor slope rockfish taken and retained south of 38° N. lat. [Note: A vessel that takes and retains minor slope rockfish on both sides of the management line in a single cumulative limit period is subject to the more restrictive cumulative limit for minor slope rockfish during that period.]

(iii) If a vessel takes and retains minor shelf rockfish south of 40°10′ N. lat., that vessel is also permitted to take and retain, possess, or land yellowtail rockfish up to its cumulative limits north of 40°10′ N. lat., even if yellowtail rockfish is part of the landings from minor shelf rockfish taken and retained south of 40°10′ N. lat. Widow rockfish is included in overall shelf rockfish limits for all gear groups. [Note: A vessel that takes and retains minor shelf rockfish on both sides of the management line in a single cumulative limit period is subject to the more restrictive cumulative limit for minor shelf rockfish during that period.]

(e) “DTS complex.” For 2003, there are differential trip limits for the “DTS complex” (Dover sole, shortspine thornyhead, longspine thornyhead, sablefish) north and south of the management line at 40°10′ N. lat. Vessels operating in the limited entry trawl fishery are subject to the crossover provisions in this paragraph IV.A.(12) when making landings that include any one of the four species in the “DTS complex.”

(f) Flatfish complex. For 2003, there are differential trip limits for the flatfish complex (butter, curlfin, English, flathead, petrale, rex, rock, and sand soles, Pacific sanddab, and starry flounder) north and south of the management line at 40°10′ N. lat. Vessels operating in the limited entry trawl fishery are subject to the crossover provisions in this paragraph IV.A.(12) when making landings that include any one of the species in the flatfish complex.

(13) Sorting. It is unlawful for any person to “fail to sort, prior to the first weighing after offloading, those groundfish species or species groups for which there is a trip limit, size limit, quota, or commercial OY, if the vessel fished or landed in an area during a time when such trip limit, size limit, commercial optimum yield, or quota applied.” This provision applies to both the limited entry and open access fisheries. (See 50 CFR 660.306(h).) The following species must be sorted in 2003:

(a) For vessels with a limited entry permit:

(i) Coastwide—widow rockfish, canary rockfish, darkblotched rockfish, yelloweye rockfish, shortbelly rockfish, minor nearshore rockfish, minor shelf rockfish, minor slope rockfish, shortspine and longspine thornyhead, Dover sole, arrowtooth flounder, rex sole, petrale sole, arrowtooth flounder, other flatfish, lingcod, sablefish, and Pacific whiting [Note: Although both yelloweye and darkblotched rockfish are considered minor rockfish managed under the minor shelf and minor slope rockfish complexes, respectively, they have separate OYs and therefore must be sorted by species.]

(ii) North of 40°10′ N. lat.—POP, yellowtail rockfish, and, for fixed gear, black rockfish and blue rockfish;

(iii) South of 40°10′ N. lat.—minor shallow nearshore rockfish, minor deeper nearshore rockfish, chilipepper rockfish, bocaccio rockfish, splitnose rockfish, and Pacific sanddabs.

(b) For open access vessels (vessels without a limited entry permit):

(i) Coastwide—widow rockfish, canary rockfish, darkblotched rockfish, yelloweye rockfish, minor nearshore rockfish, minor shelf rockfish, minor slope rockfish, Dover sole, arrowtooth flounder, petrale sole, rex sole, other flatfish, lingcod, sablefish, Pacific whiting, and Pacific sanddabs;

(ii) North of 40°10′ N. lat.—black rockfish, blue rockfish, Pacific ocean perch, yellowtail rockfish;

(iii) South of 40°10′ N. lat.—minor shall nearshore rockfish, minor deeper nearshore rockfish, chilipepper rockfish, bocaccio rockfish, splitnose rockfish;

(iv) South of Point Conception—thornyheads.

(14) Trawl Gear Restrictions. Limited entry trip limits may vary depending on the type of trawl gear that is on board a vessel during a fishing trip: large footrope, small footrope, or midwater trawl gear.

(a) Types of trawl gear. Large footrope, small footrope, and midwater or pelagic trawl gears are defined at 50 CFR 660.302 and 660.322(b). Trawl vessels may include: those vessels registered to a limited entry permit with a trawl endorsement; any vessel using trawl gear, including exempted trawl gear used to take pink shrimp, spot and ridgeback prawns, California halibut, or sea cucumber; or any tribal vessel using trawl gear.

(b) Cumulative trip limits and prohibitions by limited entry trawl gear type—(i) Large footrope trawl. If Table 3 does not provide a large footrope trawl cumulative or trip limit for a particular species or species group, it is unlawful to take and retain, possess or land that species or species group if large footrope gear is on board. It is unlawful for any vessel using large footrope gear to exceed large footrope gear limits for any species or to use large footrope gear to exceed small footrope gear or midwater trawl gear limits for any species. It is unlawful for any vessel using large footrope gear or that has large footrope trawl gear on board to fish for groundfish shoreward of the RCAs defined at paragraph (19) of this section. The presence of rollers or bobbins larger than 8 inches (20 cm) in diameter on board the vessel, even if not attached to a trawl, will be considered to mean a large footrope trawl is on board.

(ii) Small footrope or midwater trawl gear. Cumulative trip limits for canary rockfish, chilipepper rockfish, widow rockfish, yellowtail rockfish, minor shelf rockfish, minor nearshore rockfish, and lingcod, as indicated in Table 3 to section IV, are allowed only if small footrope gear or midwater trawl gear is used, and if that gear meets the specifications in paragraphs IV.A.(14).

(iii) Midwater trawl gear. Higher yellowtail and widow rockfish cumulative trip limits are available for limited entry vessels using midwater trawl gear. Each landing that contains yellowtail or widow rockfish is attributed to the gear on board with the most restrictive trip limit for those species. Landings attributed to small footrope trawl must not exceed the small footrope limit, and landings attributed to midwater trawl must not exceed the midwater trawl limit. If a vessel has landings attributed to both types of trawls during a cumulative trip limit period, all landings are counted toward the most restrictive gear-specific cumulative limit.

(iv) More than one type of trawl gear on board. The cumulative trip limits in Table 3 must not be exceeded. A vessel may have more than one type of limited entry bottom trawl gear on board, but the most restrictive trip limit associated with the gear on board applies for that trip and will count toward the cumulative trip limit for that gear. [Example: If a vessel has large footrope gear on board, it cannot land yellowtail rockfish, even if the yellowtail rockfish is caught with a small footrope trawl.] A vessel that is trawling within a GCA with trawl gear authorized for use within a GCA may not have any other type of trawl gear on board.

(c) State landing receipts. Washington, Oregon, and California will require the type of trawl gear on board to be recorded on the State landing receipt(s) for each trip or on an attachment to the State landing receipt.

(d) Gear inspection. All trawl gear and trawl gear components, including unattached rollers or bobbins, must be readily accessible and made available for inspection at the request of an authorized officer. No trawl gear may be removed from the vessel prior to offloading. All footropes shall be uncovered and clearly visible except when in use for fishing.

(15) Platooning—limited entry trawl vessels. Limited entry trawl vessels are automatically in the “A” platoon, unless the “B” platoon is indicated on the limited entry permit. If a vessel is in the “A” platoon, its cumulative trip limit periods begin and end on the beginning and end of a calendar month as in the past. No more than one trawl permit may be registered to a vessel unless a permit is endorsed for both trawl and either longline or pot gear and is being stacked under § 660.335(c) for use in the limited entry fixed gear primary sablefish fishery. If a vessel is registered for use with more than one permit with a trawl endorsement through the fixed gear permit stacking program, then the vessel owner must designate one trawl-endorsed permit as his base trawl permit and may only fish in the platoon associated with that base trawl permit. If a limited entry trawl permit is authorized for the “B” platoon, then cumulative trip limit periods and the periods for which RCAs are applied will begin on the 16th of the month (generally 2 weeks later than for the “A” platoon), unless otherwise specified.

(a) For a vessel in the “B” platoon, cumulative trip limit periods and periods for which RCAs are applied begin on the 16th of the month at 0001 hours, l.t., and end at 2400 hours, l.t., on the 15th of the month. Therefore, the management measures announced herein that are effective on January 1, 2003, for the “A” platoon will be effective on January 16, 2003, for the “B” platoon. The effective date of any inseason changes to the cumulative trip limits or RCA boundary line coordinates also will be delayed for 2 weeks for the “B” platoon, unless otherwise specified.

(b) A vessel authorized to operate in the “B” platoon may take and retain, but may not land, groundfish from January 1, 2003, through January 15, 2003.

(c) A vessel authorized to operate in the “B” platoon will have the same cumulative trip limits and RCAs for the November 16, 2003, through December 31, 2003, period as a vessel operating in the “A” platoon has for the November 1, 2003, through December 31, 2003 period.

(a) For a vessel in the “B” platoon, cumulative trip limit periods begin on the 16th of the month at 0001 hours, l.t., and end at 2400 hours, l.t., on the 15th of the month. Therefore, the management measures announced herein that are effective on January 1, 2003, for the “A” platoon will be effective on January 16, 2003, for the “B” platoon. The effective date of any inseason changes to the cumulative trip limits also will be delayed for 2 weeks for the “B” platoon, unless otherwise specified.

(b) A vessel authorized to operate in the “B” platoon may take and retain, but may not land, groundfish from January 1, 2003, through January 15, 2003.

(c) A vessel authorized to operate in the “B” platoon will have the same cumulative trip limits for the November 16, 2003, through December 31, 2003, period as a vessel operating in the “A” platoon has for the November 1, 2002, through December 31, 2003 period.

(16) Permit transfers. Limited entry permit transfers are to take effect no earlier than the first day of a major cumulative limit period following the day NMFS receives the transfer form and original permit (50 CFR 660.335(e)(3)). Those days in 2003 are January 1, March 1, May 1, July 1, September 1, and November 1, and are delayed by 15 days (starting on the 16th of a month) for the “B” platoon.

(17) Exempted fisheries. U.S. vessels operating under an exempted fishing permit (EFP) issued under 50 CFR part 600 are also subject to these restrictions, unless otherwise provided in the permit. EFPs may include the collecting of scientific samples of groundfish species that would otherwise be prohibited for retention.

(18) Application of requirements. Paragraphs IV.B. and IV.C. pertain to the commercial groundfish fishery, but not to Washington coastal tribal fisheries, which are described in Section V. The provisions in paragraphs IV.B. and IV.C. that are not covered under the headings “limited entry” or “open access” apply to all vessels in the commercial fishery that take and retain groundfish, unless otherwise stated. Paragraph IV.D. pertains to the recreational fishery.

(19) Rockfish Conservation Areas. For 2003, the Council has introduced several RCAs and a YRCA and has retained the CCAs used in 2001 and 2002. Collectively, any closed area intended to protect a particular groundfish species or species group or intended to protect a complex of species is referred to as a Groundfish Conservation Area. The YRCA, the CCAs, and the larger depth-based RCAs are Groundfish Conservation Areas. Larger RCAs intended to protect a complex of species, such as overfished shelf rockfish species, have boundaries defined by a series of latitude and longitude coordinates. The boundaries are intended to approximate particular depth contours, such as 100 fm (183 m), 150 fm (274 m), 250 fm (457,) etc. Different gear types or fishing sectors may have RCAs with differing boundaries.

(a) Yelloweye Rockfish Conservation Area. The latitude and longitude coordinates defining the boundaries of the YRCA are defined at § 660.304(d). Recreational fishing for groundfish is prohibited within the YRCA. It is unlawful for recreational fishing vessels to take, retain, possess, or land groundfish inside the YRCA.

(b) Cowcod Conservation Areas. The coordinates of the Cowcod Conservation Areas (CCAs) are defined at § 660.304(c). Recreational and commercial fishing for groundfish is prohibited within the CCAs, except that recreational and commercial fishing for rockfish and lingcod is permitted in waters inside 20 fathoms (36.9 m). It is unlawful to take and retain, possess, or land groundfish inside the CCAs, except for rockfish and lingcod taken in waters inside the 20-fathom (36.9 m) depth contour, when those waters are open to fishing. Commercial fishing vessels may transit through the Western CCA with their gear stowed and groundfish on board only in a corridor through the Western CCA bounded on the north by the latitude line at 33°00′30″ N. lat., and bounded on the south by the latitude line at 32°59′30″ N. lat.

(c) Limited Entry Groundfish Trawl Coastwide and Open Access Exempted Trawl South of 40°10′ N. lat. Rockfish Conservation Area. (i) The trawl RCA is closed to limited entry groundfish trawl fishing coastwide and to open access exempted trawl fishing (except for pink shrimp trawling) south of 40°10′ N. lat. Fishing with limited entry groundfish trawl gear is prohibited within the trawl RCA north of 40°10′ N. lat. and fishing with any trawl gear is prohibited within the trawl RCA south of 40°10′ N. lat., unless that vessel is trawling for pink shrimp. Coastwide, it is unlawful to take and retain, possess, or land groundfish taken with limited entry groundfish trawl gear in the trawl RCA. South of 40°10′ N. lat., it is unlawful to take and retain, possess, or land any species of fish taken with any type of trawl gear in the trawl RCA. Trawl vessels may transit through the trawl RCA, with or without groundfish on board, provided all groundfish trawl gear is stowed either: (1) below deck; or (2) if the gear cannot readily be moved, in a secured and covered manner, detached from all towing lines, so that it is rendered unusable for fishing; or (3) remaining on deck uncovered if the trawl doors are hung from their stanchions and the net is disconnected from the doors. The above restrictions in this paragraph do not apply to vessels fishing with midwater trawl gear for Pacific whiting during the primary season, or to taking and retaining yellowtail rockfish or widow rockfish in association with Pacific whiting caught with midwater trawl gear during the primary whiting season, or to taking and retaining yellowtail or widow rockfish with midwater trawl gear when trip limits are authorized for those species (November-December 2003.) If a vessel fishes in an RCA, it may not participate in any fishing on that trip that is inconsistent with the restrictions that apply within the RCA. For example, if a vessel participates in the pink shrimp fishery within the RCA, the vessel cannot on the same trip participate in the DTS fishery outside of the RCA. Nothing in these Federal regulations supercede any State regulations that may prohibit trawling shoreward of the 3 nm State waters boundary line.

(ii) Between the U.S. border with Canada and 40°10′ N. lat., the trawl RCA is defined along its eastern, inshore boundary by latitude and longitude coordinates approximating 100 fm (183 m) in January through June and October through December, and approximating 75 fm (137 m) in July and August. Between 40°10′ N. lat. and 34°27′ N. lat., the trawl RCA is defined along its eastern, inshore boundary by coordinates approximating 50 fm (91 m) in January and February and 60 fm (110 m) in March through December. Between 34°27′ N. lat. and the U.S. border with Mexico, along the mainland coast of California, the trawl RCA is defined along its eastern, inshore boundary by coordinates approximating 100 fm (183 m) throughout the year. Between 34°27′ N. lat. and the U.S. border with Mexico, adjacent to the islands offshore of California, the trawl RCA is defined along its inshore boundary by coordinates approximating 20 fm (37 m) throughout the year. Specific coordinates that define the eastern inshore boundaries of the trawl RCA are provided below at paragraph (e) of this section.

(iii) Between the U.S. border with Canada and 38° N. lat., the trawl RCA is defined along its western, offshore boundary by latitude and longitude coordinates approximating 250 fm (457 m) in March through October, and by coordinates approximating 250 fm (457 m) with some modifications to provide open areas to allow winter petrale sole fishing in January, February, November, and December. Between 38° N. lat. and the U.S. border with Mexico, the trawl RCA is defined along its western, offshore boundary by coordinates approximating 150 fm (274 m) throughout the year. Specific boundary coordinates that define the western, offshore boundaries of the trawl RCA are provided below at paragraph (e) of this section.

(d) Non-Trawl Gear (Limited Entry Fixed Gear and Open Access Nontrawl Gears) Rockfish Conservation Area. (i) The non-trawl gear RCA is closed to fishing for groundfish using non-trawl gear (limited entry or open access longline and pot or trap, open access hook-and-line, jig gear, pot or trap, gillnet, set net, trammel net and spear). Fishing with non-trawl gear is prohibited within the non-trawl gear RCA. It is unlawful to take and retain, possess, or land groundfish taken with non-trawl gear in the non-trawl gear RCA. Limited entry fixed gear and open access non-trawl gear vessels may transit through the non-trawl gear RCA, with or without groundfish on board. These restrictions do not apply to vessels fishing for species other than groundfish with non-trawl gear. If a vessel fishes in an RCA, it may not participate in any fishing on that trip that is inconsistent with the restrictions that apply within the RCA. For example, if a vessel participates in the salmon troll fishery within the RCA, the vessel cannot on the same trip participate in the sablefish fishery outside of the RCA.

(ii) Between the U.S. border with Canada and 46°16′ N. lat., the non-trawl gear RCA extends to the shoreline. Between 46°16′ N. lat. and 40°10′ N. lat., the non-trawl gear RCA is defined along its eastern, inshore boundary by latitude and longitude coordinates approximating 27 fm (49 m) throughout the year. Between 40°10′ N. lat. and the U.S. border with Mexico, the non-trawl gear RCA is defined along its eastern, inshore boundary by latitude and longitude coordinates approximating 20 fm (37 m) throughout the year, except as provided for between Point Fermin (33°42' 30″ N. lat.; 118°17' 30″ W. long.) and the Newport South Jetty (33°35' 37″ N. lat.; 117°52' 50″ W. long.) Between a line drawn due south from Point Fermin (33°42' 30″ N. lat.; 118°17' 30″ W. long.) and a line drawn due west from the Newport South Jetty (33°35' 37″ N. lat.; 117°52' 50″ W. long.,) vessels fishing with hook-and-line and/or trap (or pot) gear may operate from shore to a boundary line defined by coordinates approximating 50 fm (91 m) in the months of July and August. Specific coordinates that define the eastern, inshore boundaries of the non-trawl gear RCA are provided below at paragraph (e) of this section.

(iii) Between the U.S. border with Canada and 40°10′ N. lat., the non-trawl gear RCA is defined along its western, offshore boundary by latitude and longitude coordinates approximating 100 fm (183 m) throughout the year. Between 40°10′ N. lat. and the U.S. border with Mexico, the non-trawl gear RCA is defined along its western, offshore boundary by coordinates approximating 150 fm (274 m) throughout the year. Specific coordinates that define the western, offshore boundaries of the non-trawl gear RCA are provided below at paragraph (e) of this section.

(e) RCA Boundary Coordinates. Coordinates for the specific boundaries that approximate the depth contours selected for both trawl and non-trawl gear RCAs are provided here.

(i) The 27 fm (49 m) depth contour used between 46°16′ N. lat. and 40°10′ N. lat. as an eastern boundary for the non-trawl RCA is defined by straight lines connecting all of the following points in the order stated:

(1) 46°16.00′ N. lat., 124°12.39′ W. long.;

(2) 46°14.85′ N. lat., 124°12.39′ W. long.;

(3) 46°03.95′ N. lat., 124°03.64′ W. long.;

(4) 45°43.14′ N. lat., 124°00.17′ W. long.;

(5) 45°23.33′ N. lat., 124°01.99′ W. long.;

(6) 45°09.54′ N. lat., 124°01.65′ W. long.;

(7) 44°39.99′ N. lat., 124°08.67′ W. long.;

(8) 44°20.86′ N. lat., 124°10.31′ W. long.;

(9) 43°37.11′ N. lat., 124°14.91′ W. long.;

(10) 43°27.54′ N. lat., 124°18.98′ W. long.;

(11) 43°20.68′ N. lat., 124°25.53′ W. long.;

(12) 43°15.08′ N. lat., 124°27.17′ W. long.;

(13) 43°06.89′ N. lat., 124°29.65′ W. long.;

(14) 43°01.02′ N. lat., 124°29.70′ W. long.;

(15) 42°52.67′ N. lat., 124°36.10′ W. long.;

(16) 42°45.96′ N. lat., 124°37.95′ W. long.;

(17) 42°45.80′ N. lat., 124°35.41′ W. long.;

(18) 42°38.46′ N. lat., 124°27.49′ W. long.;

(19) 42°35.29′ N. lat., 124°26.85′ W. long.;

(20) 42°31.49′ N. lat., 124°31.40′ W. long.;

(21) 42°29.06′ N. lat., 124°32.24′ W. long.;

(22) 42°14.26′ N. lat., 124°26.27′ W. long.;

(23) 42°04.86′ N. lat., 124°21.94′ W. long.;

(24) 42°00.10′ N. lat., 124°20.99′ W. long.;

(25) 42°00.00′ N. lat., 124°21.03′ W. long.;

(26) 41°56.33′ N. lat., 124°20.34′ W. long.;

(27) 41°50.93′ N. lat., 124°23.74′ W. long.;

(28) 41°41.83′ N. lat., 124°16.99′ W. long.;

(29) 41°35.48′ N. lat., 124°16.35′ W. long.;

(30) 41°23.51′ N. lat., 124°10.48′ W. long.;

(31) 41°04.62′ N. lat., 124°14.44′ W. long.;

(32) 40°54.28′ N. lat., 124°13.90′ W. long.;

(33) 40°40.37′ N. lat., 124°26.21′ W. long.;

(34) 40°34.03′ N. lat., 124°27.36′ W. long.;

(35) 40°28.88′ N. lat., 124°32.41′ W. long.;

(36) 40°24.82′ N. lat., 124°29.56′ W. long.;

(37) 40°22.64′ N. lat., 124°24.05′ W. long.;

(38) 40°18.67′ N. lat., 124°21.90′ W. long.;

(39) 40°14.23′ N. lat., 124°23.72′ W. long.; and

(40) 40°10.00′ N. lat., 124°17.22′ W. long.;

(ii) The 75 fm (137 m) depth contour used north of 40°10′ N. lat. as an eastern boundary for the trawl RCA in the months of July and August is defined by straight lines connecting all of the following points in the order stated:

(1) 48°16.08′ N. lat., 125°34.90′ W. long.;

(2) 48°14.50′ N. lat., 125°29.50′ W. long.;

(3) 48°12.08′ N. lat., 125°28.00′ W. long.;

(4) 48°09.00′ N. lat., 125°28.00′ W. long.;

(5) 48°07.80′ N. lat., 125°31.70′ W. long.;

(6) 48°04.28′ N. lat., 125°29.00′ W. long.;

(7) 48°02.50′ N. lat., 125°25.70′ W. long.;

(8) 48°10.00′ N. lat., 125°20.19′ W. long.;

(9) 48°21.70′ N. lat., 125°17.56′ W. long.;

(10) 48°24.69′ N. lat., 125°05.55′ W. long.;

(11) 48°23.05′ N. lat., 124°48.80′ W. long.;

(12) 48°17.10′ N. lat., 124°54.82′ W. long.;

(13) 48°05.10′ N. lat., 124°59.40′ W. long.;

(14) 48°04.50′ N. lat., 125°02.00′ W. long.;

(15) 48°04.70′ N. lat., 125°04.08′ W. long.;

(16) 48°05.20′ N. lat., 125°04.90′ W. long.;

(17) 48°06.80′ N. lat., 125°06.15′ W. long.;

(18) 48°05.91′ N. lat., 124°08.30′ W. long.;

(19) 48°07.00′ N. lat., 124°09.80′ W. long.;

(20) 48°06.93′ N. lat., 124°11.48′ W. long.;

(21) 48°04.98′ N. lat., 124°10.02′ W. long.;

(22) 47°54.00′ N. lat., 125°04.98′ W. long.;

(23)47°44.52′ N. lat., 125°00.00′ W. long.;

(24)47°42.00′ N. lat., 124°58.98′ W. long.;

(25)47°35.52′ N. lat., 124°55.50′ W. long.;

(26)47°22.02′ N. lat., 124°44.40′ W. long.;

(27)47°16.98′ N. lat., 124°45.48′ W. long.;

(28)47°10.98′ N. lat., 124°48.48′ W. long.;

(29)47°04.98′ N. lat., 124°49.02′ W. long.;

(30)46°57.98′ N. lat., 124°46.50′ W. long.;

(31)46°54.00′ N. lat., 124°45.00′ W. long.;

(32)46°48.48′ N. lat., 124°44.52′ W. long.;

(33)46°40.02′ N. lat., 124°36.00′ W. long.;

(34)46°34.09′ N. lat., 124°27.03′ W. long.;

(35)46°24.64′ N. lat., 124°30.33′ W. long.;

(36)46°19.98′ N. lat., 124°36.00′ W. long.;

(37) 46°18.14′ N. lat., 124°34.26′ W. long.;

(38) 46°18.72′ N. lat., 124°22.68′ W. long.;

(39) 46°14.64′ N. lat., 124°22.54′ W. long.;

(40) 46°11.08′ N. lat., 124°30.74′ W. long.;

(41) 46°04.28′ N. lat., 124°31.49′ W. long.;

(42) 45°55.97′ N. lat., 124°19.95′ W. long.;

(43) 45°44.97′ N. lat., 124°15.96′ W. long.;

(44) 45°43.14′ N. lat., 124°21.86′ W. long.;

(45) 45°34.44′ N. lat., 124°14.44′ W. long.;

(46) 45°15.49′ N. lat., 124°11.49′ W. long.;

(47) 44°57.31′ N. lat., 124°15.03′ W. long.;

(48) 44°43.90′ N. lat., 124°28.88′ W. long.;

(49) 44°28.64′ N. lat., 124°35.67′ W. long.;

(50) 44°25.31′ N. lat., 124°43.08′ W. long.;

(51) 44°17.15′ N. lat., 124°47.98′ W. long.;

(52) 44°13.67′ N. lat., 124°54.41′ W. long.;

(53) 43°56.85′ N. lat., 124°55.32′ W. long.;

(54) 43°57.50′ N. lat., 124°41.23′ W. long.;

(55) 44°01.79′ N. lat., 124°38.00′ W. long.;

(56) 44°02.16′ N. lat., 124°32.62′ W. long.;

(57) 43°58.15′ N. lat., 124°30.39′ W. long.;

(58) 43°53.25′ N. lat., 124°31.39′ W. long.;

(59) 43°35.56′ N. lat., 124°28.17′ W. long.;

(60) 43°21.84′ N. lat., 124°36.07′ W. long.;

(61) 43°19.73′ N. lat., 124°34.86′ W. long.;

(62) 43°09.38′ N. lat., 124°39.30′ W. long.;

(63) 43°07.11′ N. lat., 124°37.66′ W. long.;

(64) 42°56.27′ N. lat., 124°43.29′ W. long.;

(65) 42°45.00′ N. lat., 124°41.50′ W. long.;

(66) 42°39.72′ N. lat., 124°39.11′ W. long.;

(67) 42°32.88′ N. lat., 124°40.13′ W. long.;

(68) 42°32.30′ N. lat., 124°39.04′ W. long.;

(69) 42°26.96′ N. lat., 124°44.31′ W. long.;

(70) 42°24.11′ N. lat., 124°42.16′ W. long.;

(71) 42°21.10′ N. lat., 124°35.46′ W. long.;

(72) 42°14.72′ N. lat., 124°32.30′ W. long.;

(73) 42°09.24′ N. lat., 124°32.04′ W. long.;

(74) 42°01.89′ N. lat., 124°32.70′ W. long.;

(75) 42°00.03′ N. lat., 124°32.02′ W. long.;

(76) 42°00.00′ N. lat., 124°32.02′ W. long.;

(77) 41°46.18′ N. lat., 124°26.60′ W. long.;

(78) 41°29.22′ N. lat., 124°28.04′ W. long.;

(79) 41°09.62′ N. lat., 124°19.75′ W. long.;

(80) 40°50.71′ N. lat., 124°23.80′ W. long.;

(81) 40°43.35′ N. lat., 124°29.30′ W. long.;

(82) 40°40.24′ N. lat., 124°29.86′ W. long.;

(83) 40°37.50′ N. lat., 124°28.68′ W. long.;

(84) 40°34.42′ N. lat., 124°29.65′ W. long.;

(85) 40°34.74′ N. lat., 124°34.61′ W. long.;

(86) 40°31.70′ N. lat., 124°37.13′ W. long.;

(87) 40°25.03′ N. lat., 124°34.77′ W. long.;

(88) 40°23.58′ N. lat., 124°31.49′ W. long.;

(89) 40°23.64′ N. lat., 124°28.35′ W. long.;

(90) 40°22.53′ N. lat., 124°24.76′ W. long.;

(91) 40°21.46′ N. lat., 124°24.86′ W. long.;

(92) 40°21.74′ N. lat., 124°27.63′ W. long.;

(93) 40°19.76′ N. lat., 124°28.15′ W. long.;

(94) 40°18.00′ N. lat., 124°25.38′ W. long.;

(95) 40°18.54′ N. lat., 124°22.94′ W. long.;

(96) 40°15.55′ N. lat., 124°25.75′ W. long.;

(97) 40°16.06′ N. lat., 124°30.48′ W. long.;

(98) 40°15.75′ N. lat., 124°31.69′ W. long.; and

(99) 40°10.00′ N. lat., 124°21.28′ W. long.

(iii) The 100 fm (183 m) depth contour used north of 40°10′ N. lat. as an eastern boundary for the trawl RCA and as a western boundary for the non-trawl RCA is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°54.95′ W. long.;

(65) 47°01.92′ N. lat., 124°57.74′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°15.02′ N. lat., 124°23.77′ W. long.;

(86) 46°12.00′ N. lat., 124°35.00′ W. long.;

(87) 46°10.50′ N. lat., 124°39.00′ W. long.;

(88) 46°08.90′ N. lat., 124°39.11′ W. long.;

(89) 46°00.97′ N. lat., 124°38.56′ W. long.;

(90) 45°57.04′ N. lat., 124°36.42′ W. long.;

(91) 45°54.29′ N. lat., 124°40.02′ W. long.;

(92) 45°47.19′ N. lat., 124°35.58′ W. long.;

(93) 45°41.75′ N. lat., 124°28.32′ W. long.;

(94) 45°34.16′ N. lat., 124°24.23′ W. long.;

(95) 45°27.10′ N. lat., 124°21.74′ W. long.;

(96) 45°17.14′ N. lat., 124°17.85′ W. long.;

(97) 44°59.51′ N. lat., 124°19.34′ W. long.;

(98) 44°49.30′ N. lat., 124°29.97′ W. long.;

(99) 44°45.64′ N. lat., 124°33.89′ W. long.;

(100) 44°33.00′ N. lat., 124°36.88′ W. long.;

(101) 44°28.20′ N. lat., 124°44.72′ W. long.;

(102) 44°13.16′ N. lat., 124°56.36′ W. long.;

(103) 43°56.34′ N. lat., 124°55.74′ W. long.;

(104) 43°56.47′ N. lat., 124°34.61′ W. long.;

(105) 43°42.73′ N. lat., 124°32.41′ W. long.;

(106) 43°30.92′ N. lat., 124°34.43′ W. long.;

(107) 43°17.44′ N. lat., 124°41.16′ W. long.;

(108) 43°07.04′ N. lat., 124°41.25′ W. long.;

(109) 43°03.45′ N. lat., 124°44.36′ W. long.;

(110) 43°03.90′ N. lat., 124°50.81′ W. long.;

(111) 42°55.70′ N. lat., 124°52.79′ W. long.;

(112) 42°54.12′ N. lat., 124°47.36′ W. long.;

(113) 42°43.99′ N. lat., 124°42.38′ W. long.;

(114) 42°38.23′ N. lat., 124°41.25′ W. long.;

(115) 42°33.02′ N. lat., 124°42.38′ W. long.;

(116) 42°31.89′ N. lat., 124°42.04′ W. long.;

(117) 42°30.08′ N. lat., 124°42.67′ W. long.;

(118) 42°28.27′ N. lat., 124°47.08′ W. long.;

(119) 42°25.22′ N. lat., 124°43.51′ W. long.;

(120) 42°19.22′ N. lat., 124°37.92′ W. long.;

(121) 42°16.28′ N. lat., 124°36.11′ W. long.;

(122) 42°05.65′ N. lat., 124°34.92′ W. long.;

(123) 42°00.00′ N. lat., 124°35.27′ W. long.;

(124) 42°00.00′ N. lat., 124°35.26′ W. long.;

(125) 41°47.04′ N. lat., 124°27.64′ W. long.;

(126) 41°32.92′ N. lat., 124°28.79′ W. long.;

(127) 41°24.17′ N. lat., 124°28.46′ W. long.;

(128) 41°10.12′ N. lat., 124°20.50′ W. long.;

(129) 40°51.41′ N. lat., 124°24.38′ W. long.;

(130) 40°43.71′ N. lat., 124°29.89′ W. long.;

(131) 40°40.14′ N. lat., 124°30.90′ W. long.;

(132) 40°37.35′ N. lat., 124°29.05′ W. long.;

(133) 40°34.76′ N. lat., 124°29.82′ W. long.;

(134) 40°36.78′ N. lat., 124°37.06′ W. long.;

(135) 40°32.44′ N. lat., 124°39.58′ W. long.;

(136) 40°24.82′ N. lat., 124°35.12′ W. long.;

(137) 40°23.30′ N. lat., 124°31.60′ W. long.;

(138) 40°23.52′ N. lat., 124°28.78′ W. long.;

(139) 40°22.43′ N. lat., 124°25.00′ W. long.;

(140) 40°21.72′ N. lat., 124°24.94′ W. long.;

(141) 40°21.87′ N. lat., 124°27.96′ W. long.;

(142) 40°21.40′ N. lat., 124°28.74′ W. long.;

(143) 40°19.68′ N. lat., 124°28.49′ W. long.;

(144) 40°17.73′ N. lat., 124°25.43′ W. long.;

(145) 40°18.37′ N. lat., 124°23.35′ W. long.;

(146) 40°15.75′ N. lat., 124°26.05′ W. long.;

(147) 40°16.75′ N. lat., 124°33.71′ W. long.;

(148) 40°16.29′ N. lat., 124°34.36′ W. long.; and

(149) 40°10.00′ N. lat., 124°21.12′ W. long.

(iv) The 250 fm (457 m) depth contour used north of 38° N. lat. as a western boundary for the trawl RCA in the months of March through October is defined by straight lines connecting all of the following points in the order stated:

(1) 48°14.68′ N. lat., 125°42.10′ W. long.;

(2) 48°13.00′ N. lat., 125°39.00′ W. long.;

(3) 48°12.73′ N. lat., 125°38.87′ W. long.;

(4) 48°12.43′ N. lat., 125°39.12′ W. long.;

(5) 48°11.83′ N. lat., 125°40.01′ W. long.;

(6) 48°11.78′ N. lat., 125°41.70′ W. long.;

(7) 48°10.62′ N. lat., 125°43.41′ W. long.;

(8) 48°09.23′ N. lat., 125°42.80′ W. long.;

(9) 48°08.79′ N. lat., 125°43.79′ W. long.;

(10) 48°08.50′ N. lat., 125°45.00′ W. long.;

(11) 48°07.43′ N. lat., 125°46.36′ W. long.;

(12) 48°06.00′ N. lat., 125°46.50′ W. long.;

(13) 48°05.38′ N. lat., 125°42.82′ W. long.;

(14) 48°04.19′ N. lat., 125°40.40′ W. long.;

(15) 48°03.50′ N. lat., 125°37.00′ W. long.;

(16) 48°01.50′ N. lat., 125°40.00′ W. long.;

(17) 47°57.00′ N. lat., 125°37.00′ W. long.;

(18) 47°55.21′ N. lat., 125°37.22′ W. long.;

(19) 47°54.02′ N. lat., 125°36.57′ W. long.;

(20) 47°53.67′ N. lat., 125°35.06′ W. long.;

(21) 47°54.14′ N. lat., 125°32.35′ W. long.;

(22) 47°55.50′ N. lat., 125°28.56′ W. long.;

(23) 47°57.03′ N. lat., 125°26.52′ W. long.;

(24) 47°57.98′ N. lat., 125°25.08′ W. long.;

(25) 48°00.54′ N. lat., 125°24.38′ W. long.;

(26) 48°01.45′ N. lat., 125°23.70′ W. long.;

(27) 48°01.97′ N. lat., 125°22.34′ W. long.;

(28) 48°03.68′ N. lat., 125°21.20′ W. long.;

(29) 48°01.96′ N. lat., 125°19.56′ W. long.;

(30) 48°00.98′ N. lat., 125°20.43′ W. long.;

(31) 48°00.00′ N. lat., 125°20.68′ W. long.;

(32) 47°58.00′ N. lat., 125°19.50′ W. long.;

(33) 47°57.65′ N. lat., 125°19.18′ W. long.;

(34) 47°58.00′ N. lat., 125°18.00′ W. long.;

(35) 47°56.59′ N. lat., 125°18.15′ W. long.;

(36) 47°51.30′ N. lat., 125°18.32′ W. long.;

(37) 47°49.88′ N. lat., 125°14.49′ W. long.;

(38) 47°49.00′ N. lat., 125°11.00′ W. long.;

(39) 47°47.99′ N. lat., 125°07.31′ W. long.;

(40) 47°46.47′ N. lat., 125°08.63′ W. long.;

(41) 47°46.00′ N. lat., 125°06.00′ W. long.;

(42) 47°44.50′ N. lat., 125°07.50′ W. long.;

(43) 47°43.39′ N. lat., 125°06.57′ W. long.;

(44) 47°42.37′ N. lat., 125°05.74′ W. long.;

(45) 47°40.61′ N. lat., 125°06.48′ W. long.;

(46) 47°37.43′ N. lat., 125°07.33′ W. long.;

(47) 47°33.68′ N. lat., 125°04.80′ W. long.;

(48) 47°30.00′ N. lat., 125°00.00′ W. long.;

(49) 47°28.00′ N. lat., 124°58.50′ W. long.;

(50) 47°28.88′ N. lat., 124°54.71′ W. long.;

(51) 47°27.70′ N. lat., 124°51.87′ W. long.;

(52) 47°24.84′ N. lat., 124°48.45′ W. long.;

(53) 47°21.76′ N. lat., 124°47.42′ W. long.;

(54) 47°18.84′ N. lat., 124°46.75′ W. long.;

(55) 47°19.82′ N. lat., 124°51.43′ W. long.;

(56) 47°18.13′ N. lat., 124°54.25′ W. long.;

(57) 47°13.50′ N. lat., 124°54.69′ W. long.;

(58) 47°15.00′ N. lat., 125°00.00′ W. long.;

(59) 47°08.00′ N. lat., 124°59.83′ W. long.;

(60) 47°05.79′ N. lat., 125°01.00′ W. long.;

(61) 47°03.34′ N. lat., 124°57.49′ W. long.;

(62) 47°01.00′ N. lat., 125°00.00′ W. long.;

(63) 46°55.00′ N. lat., 125°02.00′ W. long.;

(64) 46°51.00′ N. lat., 124°57.00′ W. long.;

(65) 46°47.00′ N. lat., 124°55.00′ W. long.;

(66) 46°34.00′ N. lat., 124°38.00′ W. long.;

(67) 46°30.50′ N. lat., 124°41.00′ W. long.;

(68) 46°33.00′ N. lat., 124°32.00′ W. long.;

(69) 46°29.00′ N. lat., 124°32.00′ W. long.;

(70) 46°20.00′ N. lat., 124°39.00′ W. long.;

(71) 46°18.16′ N. lat., 124°40.00′ W. long.;

(72) 46°15.83′ N. lat., 124°27.01′ W. long.;

(73) 46°15.00′ N. lat., 124°30.96′ W. long.;

(74) 46°13.17′ N. lat., 124°37.87′ W. long.;

(75) 46°13.17′ N. lat., 124°38.75′ W. long.;

(76) 46°10.50′ N. lat., 124°42.00′ W. long.;

(77) 46°06.21′ N. lat., 124°41.85′ W. long.;

(78) 46°03.02′ N. lat., 124°50.27′ W. long.;

(79) 45°57.00′ N. lat., 124°45.52′ W. long.;

(80) 45°46.85′ N. lat., 124°45.91′ W. long.;

(81) 45°45.81′ N. lat., 124°47.05′ W. long.;

(82) 45°44.87′ N. lat., 124°45.98′ W. long.;

(83) 45°43.44′ N. lat., 124°46.03′ W. long.;

(84) 45°35.82′ N. lat., 124°45.72′ W. long.;

(85) 45°35.70′ N. lat., 124°42.89′ W. long.;

(86) 45°24.45′ N. lat., 124°38.21′ W. long.;

(87) 45°11.68′ N. lat., 124°39.38′ W. long.;

(88) 44°57.94′ N. lat., 124°37.02′ W. long.;

(89) 44°44.28′ N. lat., 124°50.79′ W. long.;

(90) 44°32.63′ N. lat., 124°54.21′ W. long.;

(91) 44°23.20′ N. lat., 124°49.87′ W. long.;

(92) 44°13.17′ N. lat., 124°58.81′ W. long.;

(93) 43°57.92′ N. lat., 124°58.29′ W. long.;

(94) 43°50.12′ N. lat., 124°53.36′ W. long.;

(95) 43°49.53′ N. lat., 124°43.96′ W. long.;

(96) 43°42.76′ N. lat., 124°41.40′ W. long.;

(97) 43°24.00′ N. lat., 124°42.61′ W. long.;

(98) 43°19.74′ N. lat., 124°45.12′ W. long.;

(99) 43°19.62′ N. lat., 124°52.95′ W. long.;

(100) 43°17.41′ N. lat., 124°53.02′ W. long.;

(101) 42°49.15′ N. lat., 124°54.93′ W. long.;

(102) 42°46.74′ N. lat., 124°53.39′ W. long.;

(103) 42°43.76′ N. lat., 124°51.64′ W. long.;

(104) 42°45.41′ N. lat., 124°49.35′ W. long.;

(105) 42°43.92′ N. lat., 124°45.92′ W. long.;

(106) 42°38.87′ N. lat., 124°43.38′ W. long.;

(107) 42°34.78′ N. lat., 124°46.56′ W. long.;

(108) 42°31.47′ N. lat., 124°46.89′ W. long.;

(109) 42°31.00′ N. lat., 124°44.28′ W. long.;

(110) 42°29.22′ N. lat., 124°46.93′ W. long.;

(111) 42°28.39′ N. lat., 124°49.94′ W. long.;

(112) 42°26.28′ N. lat., 124°47.60′ W. long.;

(113) 42°19.58′ N. lat., 124°43.21′ W. long.;

(114) 42°13.75′ N. lat., 124°40.06′ W. long.;

(115) 42°05.12′ N. lat., 124°39.06′ W. long.;

(116) 41°59.99′ N. lat., 124°37.72′ W. long.;

(117) 42°00.00′ N. lat., 124°37.76′ W. long.;

(118) 41°47.93′ N. lat., 124°31.79′ W. long.;

(119) 41°21.35′ N. lat., 124°30.35′ W. long.;

(120) 41°07.11′ N. lat., 124°25.25′ W. long.;

(121) 40°57.37′ N. lat., 124°30.25′ W. long.;

(122) 40°48.77′ N. lat., 124°30.69′ W. long.;

(123) 40°41.03′ N. lat., 124°33.21′ W. long.;

(124) 40°37.40′ N. lat., 124°38.96′ W. long.;

(125) 40°33.70′ N. lat., 124°42.50′ W. long.;

(126) 40°31.31′ N. lat., 124°41.59′ W. long.;

(127) 40°25.00′ N. lat., 124°36.65′ W. long.;

(128) 40°22.42′ N. lat., 124°32.19′ W. long.;

(129) 40°17.17′ N. lat., 124°32.21′ W. long.;

(130) 40°18.68′ N. lat., 124°50.44′ W. long.;

(131) 40°13.55′ N. lat.,124°34.26′ W. long.;

(132) 40°10.11′ N. lat.,124°28.25′ W. long.;

(133) 40°06.72′ N. lat.,124°21.40′ W. long.;

(134) 40°01.63′ N. lat.,124°17.25′ W. long.;

(135) 40°00.68′ N. lat.,124°11.19′ W. long.;

(136) 39°59.09′ N. lat., 124°14.92′ W. long.;

(137) 39°51.85′ N. lat.,124°10.33′ W. long.;

(138) 39°36.90′ N. lat.,124°00.63′ W. long.;

(139) 39°32.41′ N. lat.,124°00.01′ W. long.;

(140) 39°05.40′ N. lat.,124°00.52′ W. long.;

(141) 39°04.32′ N. lat.,123°59.00′ W. long.;

(142) 38°58.02′ N. lat.,123°58.18′ W. long.;

(143) 38°58.19′ N. lat.,124°01.90′ W. long.;

(144) 38°50.27′ N. lat.,123°56.26′ W. long.;

(145) 38°46.73′ N. lat.,123°51.93′ W. long.;

(146) 38°44.64′ N. lat.,123°51.77′ W. long.;

(147) 38°32.97′ N. lat.,123°41.84′ W. long.;

(148) 38°14.56′ N. lat.,123°32.18′ W. long.;

(149) 38°13.85′ N. lat.,123°29.94′ W. long.;

(150) 38°11.88′ N. lat.,123°30.57′ W. long.;

(151) 38°08.72′ N. lat.,123°29.56′ W. long.;

(152) 38°05.62′ N. lat.,123°32.38′ W. long.;

(153) 38°01.90′ N. lat.,123°32.00′ W. long.; and

(154) 38°00.00′ N. lat., 123°30.00′ W. long.

(v) The Winter Petrale Boundary used north of 38° N. lat. as a western boundary for the trawl RCA, modified to allow fishing for petrale in the winter months of January, February, November, and December, is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°40.00′ W. long.;

(7) 47°57.00′ N. lat., 125°37.00′ W. long.;

(8) 47°55.50′ N. lat., 125°28.50′ W. long.;

(9) 47°58.00′ N. lat., 125°25.00′ W. long.;

(10) 48°00.50′ N. lat., 125°24.50′ W. long.;

(11) 48°03.50′ N. lat., 125°21.00′ W. long.;

(12) 48°02.00′ N. lat., 125°19.50′ W. long.;

(13) 48°00.00′ N. lat., 125°21.00′ W. long.;

(14) 47°58.00′ N. lat., 125°20.00′ W. long.;

(15) 47°58.00′ N. lat., 125°18.00′ W. long.;

(16) 47°52.00′ N. lat., 125°16.50′ W. long.;

(17) 47°49.00′ N. lat., 125°11.00′ W. long.;

(18) 47°46.00′ N. lat., 125°06.00′ W. long.;

(19) 47°44.50′ N. lat., 125°07.50′ W. long.;

(20) 47°42.00′ N. lat., 125°06.00′ W. long.;

(21) 47°38.00′ N. lat., 125°07.00′ W. long.;

(22) 47°30.00′ N. lat., 125°00.00′ W. long.;

(23) 47°28.00′ N. lat., 124°58.50′ W. long.;

(24) 47°28.88′ N. lat., 124°54.71′ W. long.;

(25) 47°27.70′ N. lat., 124°51.87′ W. long.;

(26) 47°24.84′ N. lat., 124°48.45′ W. long.;

(27) 47°21.76′ N. lat., 124°47.42′ W. long.;

(28) 47°18.84′ N. lat., 124°46.75′ W. long.;

(29) 47°19.82′ N. lat., 124°51.43′ W. long.;

(30) 47°18.13′ N. lat., 124°54.25′ W. long.;

(31) 47°13.50′ N. lat., 124°54.69′ W. long.;

(32) 47°15.00′ N. lat., 125°00.00′ W. long.;

(33) 47°08.00′ N. lat., 124°59.82′ W. long.;

(34) 47°05.79′ N. lat., 125°01.00′ W. long.;

(35) 47°03.34′ N. lat., 124°57.49′ W. long.;

(36) 47°01.00′ N. lat., 125°00.00′ W. long.;

(37) 46°55.00′ N. lat., 125°02.00′ W. long.;

(38) 46°51.00′ N. lat., 124°57.00′ W. long.;

(39) 46°47.00′ N. lat., 124°55.00′ W. long.;

(40) 46°34.00′ N. lat., 124°38.00′ W. long.;

(41) 46°30.50′ N. lat., 124°41.00′ W. long.;

(42) 46°33.00′ N. lat., 124°32.00′ W. long.;

(43) 46°29.00′ N. lat., 124°32.00′ W. long.;

(44) 46°20.00′ N. lat., 124°39.00′ W. long.;

(45) 46°18.16′ N. lat., 124°40.00′ W. long.;

(46) 46°15.83′ N. lat., 124°27.01′ W. long.;

(47) 46°15.00′ N. lat., 124°30.96′ W. long.;

(48) 46°13.17′ N. lat., 124°38.76′ W. long.;

(49) 46°10.51′ N. lat., 124°41.99′ W. long.;

(50) 46°06.24′ N. lat., 124°41.81′ W. long.;

(51) 46°03.04′ N. lat., 124°50.26′ W. long.;

(52) 45°56.99′ N. lat., 124°45.45′ W. long.;

(53) 45°49.94′ N. lat., 124°45.75′ W. long.;

(54) 45°49.94′ N. lat., 124°42.33′ W. long.;

(55) 45°45.73′ N. lat., 124°42.18′ W. long.;

(56) 45°45.73′ N. lat., 124°43.82′ W. long.;

(57) 45°41.94′ N. lat., 124°43.61′ W. long.;

(58) 45°41.58′ N. lat., 124°39.86′ W. long.;

(59) 45°38.45′ N. lat., 124°39.94′ W. long.;

(60) 45°35.75′ N. lat., 124°42.91′ W. long.;

(61) 45°24.49′ N. lat., 124°38.20′ W. long.;

(62) 45°14.43′ N. lat., 124°39.05′ W. long.;

(63) 45°14.30′ N. lat., 124°34.19′ W. long.;

(64) 45°08.98′ N. lat., 124°34.26′ W. long.;

(65) 45°09.02′ N. lat., 124°38.81′ W. long.;

(66) 44°57.98′ N. lat., 124°36.98′ W. long.;

(67) 44°56.62′ N. lat., 124°38.32′ W. long.;

(68) 44°50.82′ N. lat., 124°35.52′ W. long.;

(69) 44°46.89′ N. lat., 124°38.32′ W. long.;

(70) 44°50.78′ N. lat., 124°44.24′ W. long.;

(71) 44°44.27′ N. lat., 124°50.78′ W. long.;

(72) 44°32.63′ N. lat., 124°54.24′ W. long.;

(73) 44°23.25′ N. lat., 124°49.78′ W. long.;

(74) 44°13.16′ N. lat., 124°58.81′ W. long.;

(75) 43°57.88′ N. lat., 124°58.25′ W. long.;

(76) 43°56.89′ N. lat., 124°57.33′ W. long.;

(77) 43°53.41′ N. lat., 124°51.95′ W. long.;

(78) 43°51.56′ N. lat., 124°47.38′ W. long.;

(79) 43°51.49′ N. lat., 124°37.77′ W. long.;

(80) 43°48.02′ N. lat., 124°43.31′ W. long.;

(81) 43°42.77′ N. lat., 124°41.39′ W. long.;

(82) 43°24.09′ N. lat., 124°42.57′ W. long.;

(83) 43°19.73′ N. lat., 124°45.09′ W. long.;

(84) 43°15.98′ N. lat., 124°47.76′ W. long.;

(85) 43°04.14′ N. lat., 124°52.55′ W. long.;

(86) 43°04.00′ N. lat., 124°53.88′ W. long.;

(87) 42°54.69′ N. lat., 124°54.54′ W. long.;

(88) 42°45.46′ N. lat., 124°49.37′ W. long.;

(89) 42°43.91′ N. lat., 124°45.90′ W. long.;

(90) 42°38.84′ N. lat., 124°43.36′ W. long.;

(91) 42°34.82′ N. lat., 124°46.56′ W. long.;

(92) 42°31.57′ N. lat., 124°46.86′ W. long.;

(93) 42°30.98′ N. lat., 124°44.27′ W. long.;

(94) 42°29.21′ N. lat., 124°46.93′ W. long.;

(95) 42°28.52′ N. lat., 124°49.40′ W. long.;

(96) 42°26.06′ N. lat., 124°46.61′ W. long.;

(97) 42°21.82′ N. lat., 124°43.76′ W. long.;

(98) 42°17.47′ N. lat., 124°38.89′ W. long.;

(99) 42°13.67′ N. lat., 124°37.51′ W. long.;

(100) 42°13.76′ N. lat., 124°40.03′ W. long.;

(101) 42°05.12′ N. lat., 124°39.06′ W. long.;

(102) 42°02.67′ N. lat., 124°38.41′ W. long.;

(103) 42°02.67′ N. lat., 124°35.95′ W. long.;

(104) 42°00.00′ N. lat., 124°35.88′ W. long.;

(105) 41°59.99′ N. lat., 124°35.92′ W. long.;

(106) 41°56.38′ N. lat., 124°34.96′ W. long.;

(107) 41°53.98′ N. lat., 124°32.50′ W. long.;

(108) 41°50.69′ N. lat., 124°30.46′ W. long.;

(109) 41°47.79′ N. lat., 124°29.52′ W. long.;

(110) 41°21.00′ N. lat., 124°29.00′ W. long.;

(111) 41°11.00′ N. lat., 124°23.00′ W. long.;

(112) 41°05.00′ N. lat., 124°23.00′ W. long.;

(113) 40°54.00′ N. lat., 124°26.00′ W. long.;

(114) 40°50.00′ N. lat., 124°26.00′ W. long.;

(115) 40°44.51′ N. lat., 124°30.83′ W. long.;

(116) 40°40.61′ N. lat., 124°32.06′ W. long.;

(117) 40°37.36′ N. lat., 124°29.41′ W. long.;

(118) 40°35.64′ N. lat., 124°30.47′ W. long.;

(119) 40°37.43′ N. lat., 124°37.10′ W. long.;

(120) 40°36.00′ N. lat., 124°40.00′ W. long.;

(121) 40°31.59′ N. lat., 124°40.72′ W. long.;

(122) 40°24.64′ N. lat., 124°35.62′ W. long.;

(123) 40°23.00′ N. lat., 124°32.00′ W. long.;

(124) 40°23.39′ N. lat., 124°28.70′ W. long.;

(125) 40°22.28′ N. lat., 124°25.25′ W. long.;

(126) 40°21.90′ N. lat., 124°25.17′ W. long.;

(127) 40°22.00′ N. lat., 124°28.00′ W. long.;

(128) 40°21.35′ N. lat., 124°29.53′ W. long.;

(129) 40°19.75′ N. lat., 124°28.98′ W. long.;

(130) 40°18.15′ N. lat., 124°27.01′ W. long.;

(131) 40°17.45′ N. lat., 124°25.49′ W. long.;

(132) 40°18.00′ N. lat., 124°24.00′ W. long.;

(133) 40°16.00′ N. lat., 124°26.00′ W. long.;

(134) 40°17.00′ N. lat., 124°35.00′ W. long.;

(135) 40°16.00′ N. lat., 124°36.00′ W. long.;

(136) 40°10.00′ N. lat., 124°22.75′ W. long.;

(137) 40°03.00′ N. lat., 124°14.75′ W. long.;

(138) 39°49.25′ N. lat., 124°06.00′ W. long.;

(138) 39°34.75′ N. lat., 123°58.50′ W. long.;

(140) 39°03.07′ N. lat., 123°57.81′ W. long.;

(141) 38°52.25′ N. lat., 123°56.25′ W. long.;

(142) 38°41.42′ N. lat., 123°46.75′ W. long.;

(143) 38°39.47′ N. lat., 123°46.59′ W. long.;

(144) 38°35.25′ N. lat., 123°42.00′ W. long.;

(145) 38°19.97′ N. lat., 123°32.95′ W. long.;

(146) 38°15.00′ N. lat., 123°26.50′ W. long.;

(147) 38°08.09′ N. lat., 123°23.39′ W. long.;

(148) 38°10.08′ N. lat., 123°26.82′ W. long.;

(149) 38°04.08′ N. lat., 123°32.12′ W. long.; and

(150) 38°00.00′ N. lat., 123°29.85′ W. long.

(vi) The 50 fm (91 m) depth contour used between 40°10′ N. lat. and 34°27′ N. lat. as an eastern boundary for the trawl RCA in the months of January and February is defined by straight lines connecting all of the following points in the order stated:

(1) 40°10.01′ N. lat., 124°19.97′ W. long.;

(2) 40°09.20′ N. lat., 124°15.81′ W. long.;

(3) 40°07.51′ N. lat., 124°15.29′ W. long.;

(4) 40°05.22′ N. lat., 124°10.06′ W. long.;

(5) 40°06.51′ N. lat., 124°08.01′ W. long.;

(6) 40°00.72′ N. lat., 124°08.45′ W. long.;

(7) 39°56.60′ N. lat., 124°07.12′ W. long.;

(8) 39°52.58′ N. lat., 124°03.57′ W. long.;

(9) 39°50.65′ N. lat., 123°57.98′ W. long.;

(10) 39°40.16′ N. lat., 123°52.41′ W. long.;

(11) 39°30.12′ N. lat., 123°52.92′ W. long.;

(12) 39°24.53′ N. lat., 123°55.16′ W. long.;

(13) 39°11.58′ N. lat., 123°50.93′ W. long.;

(14) 38°55.13′ N. lat., 123°51.14′ W. long.;

(15) 38°28.58′ N. lat., 123°22.84′ W. long.;

(16) 38°14.58′ N. lat., 123°09.93′ W. long.;

(17) 38°01.86′ N. lat., 123°09.76′ W. long.;

(18) 37°53.66′ N. lat., 123°12.06′ W. long.;

(19) 37°48.01′ N. lat., 123°15.84′ W. long.;

(20) 37°36.77′ N. lat., 122°58.48′ W. long.;

(21) 37°01.02′ N. lat., 122°33.71′ W. long.;

(22) 37°02.28′ N. lat., 122°25.06′ W. long.;

(23) 36°48.20′ N. lat., 122°03.28′ W. long.;

(24) 36°51.46′ N. lat., 121°57.54′ W. long.;

(25) 36°44.14′ N. lat., 121°58.10′ W. long.;

(26) 36°36.76′ N. lat., 122°01.16′ W. long.;

(27) 36°15.62′ N. lat., 121°57.13′ W. long.;

(28) 36°10.60′ N. lat., 121°43.65′ W. long.;

(29) 35°40.38′ N. lat., 121°22.59′ W. long.;

(30) 35°24.35′ N. lat., 121°02.53′ W. long.;

(31) 35°02.66′ N. lat., 120°51.63′ W. long.;

(32) 34°39.52′ N. lat., 120°48.72′ W. long.;

(33) 34°31.26′ N. lat., 120°44.12′ W. long.; and

(34) 34°27.00′ N. lat., 120°36.00′ W. long.

(vii) The 60 fm (110 m) depth contour used between 40°10′ N. lat. and 34°27′ N. lat. as an eastern boundary for the trawl RCA in March through December is defined by straight lines connecting all of the following points in the order stated:

(1) 40°10.01′ N. lat., 124°19.97′ W. long.;

(2) 40°09.20′ N. lat., 124°15.81′ W. long.;

(3) 40°07.51′ N. lat., 124°15.29′ W. long.;

(4) 40°05.22′ N. lat., 124°10.06′ W. long.;

(5) 40°06.51′ N. lat., 124°08.01′ W. long.;

(6) 40°00.72′ N. lat., 124°08.45′ W. long.;

(7) 39°56.60′ N. lat., 124°07.12′ W. long.;

(8) 39°52.58′ N. lat., 124°03.57′ W. long.;

(9) 39°50.65′ N. lat., 123°57.98′ W. long.;

(10) 39°40.16′ N. lat., 123°52.41′ W. long.;

(11) 39°30.12′ N. lat., 123°52.92′ W. long.;

(12) 39°24.53′ N. lat., 123°55.16′ W. long.;

(13) 39°11.58′ N. lat., 123°50.93′ W. long.;

(14) 38°55.13′ N. lat., 123°51.14′ W. long.;

(15) 38°28.58′ N. lat., 123°22.84′ W. long.;

(16) 38°08.57′ N. lat., 123°14.74′ W. long.;

(17) 38°00.28′ N. lat., 123°15.61′ W. long.;

(18) 37°56.98′ N. lat., 123°21.82′ W. long.;

(19) 37°48.01′ N. lat., 123°15.90′ W. long.;

(20) 37°36.73′ N. lat., 122°58.48′ W. long.;

(21) 36°48.20′ N. lat., 122°03.32′ W. long.;

(22) 37°02.08′ N. lat., 122°25.49′ W. long.;

(23) 37°07.58′ N. lat., 122°37.64′ W. long.;

(24) 36°51.46′ N. lat., 121°57.54′ W. long.;

(25) 36°44.14′ N. lat., 121°58.10′ W. long.;

(26) 36°36.76′ N. lat., 122°01.16′ W. long.;

(27) 36°15.62′ N. lat., 121°57.13′ W. long.;

(28) 36°10.60′ N. lat., 121°43.65′ W. long.;

(29) 35°40.38′ N. lat., 121°22.59′ W. long.;

(30) 35°24.35′ N. lat., 121°02.53′ W. long.;

(31) 35°02.66′ N. lat., 120°51.63′ W. long.;

(32) 34°39.52′ N. lat., 120°48.72′ W. long.;

(33) 34°31.26′ N. lat., 120°44.12′ W. long.; and

(34) 34°27.00′ N. lat., 120°36.00′ W. long.

(viii) The 100 fm (183 m) depth contour used between 34°27′ N. lat. and the U.S. border with Mexico as an eastern boundary for the trawl RCA is defined by straight lines connecting all of the following points in the order stated:

(1) 34°27.00′ N. lat., 120°39.00′ W. long.;

(2) 34°21.90′ N. lat., 120°25.25′ W. long.;

(3) 34°24.86′ N. lat., 120°16.81′ W. long.;

(4) 34°22.80′ N. lat., 119°57.06′ W. long.;

(5) 34°18.59′ N. lat., 119°44.84′ W. long.;

(6) 34°15.04′ N. lat., 119°40.34′ W. long.;

(7) 34°14.40′ N. lat., 119°45.39′ W. long.;

(8) 34°12.32′ N. lat., 119°42.41′ W. long.;

(9) 34°09.71′ N. lat., 119°28.85′ W. long.;

(10) 34°04.70′ N. lat., 119°15.38′ W. long.;

(11) 34°03.33′ N. lat., 119°12.93′ W. long.;

(12) 34°02.72′ N. lat., 119°07.01′ W. long.;

(13) 34°03.90′ N. lat., 119°04.64′ W. long.;

(14) 34°01.80′ N. lat., 119°03.23′ W. long.;

(15) 33°59.32′ N. lat., 119°03.50′ W. long.;

(16) 33°59.00′ N. lat., 118°59.55′ W. long.;

(17) 33°59.51′ N. lat., 118°57.25′ W. long.;

(18) 33°58.82′ N. lat., 118°52.47′ W. long.;

(19) 33°58.54′ N. lat., 118°41.86′ W. long.;

(20) 33°55.07′ N. lat., 118°34.25′ W. long.;

(21) 33°54.28′ N. lat., 118°38.68′ W. long.;

(22) 33°51.00′ N. lat., 118°36.66′ W. long.;

(23) 33°39.77′ N. lat., 118°18.41′ W. long.;

(24) 33°35.50′ N. lat., 118°16.85′ W. long.;

(25) 33°32.68′ N. lat., 118°09.82′ W. long.;

(26) 33°34.09′ N. lat., 117°54.06′ W. long.;

(27) 33°31.60′ N. lat., 117°49.28′ W. long.;

(28) 33°16.07′ N. lat., 117°34.74′ W. long.;

(29) 33°07.06′ N. lat., 117°22.71′ W. long.;

(30) 32°53.34′ N. lat., 117°19.13′ W. long.;

(31) 32°46.39′ N. lat., 117°23.45′ W. long.;

(32) 32°42.79′ N. lat., 117°21.16′ W. long.; and

(33) 32°34.22′ N. lat., 117°21.20′ W. long.

(ix) The 150 fm (274 m) depth contour used between 40°10′ N. lat. and the U.S. border with Mexico as a western boundary for the trawl RCA and used between 38° N. lat. and the U.S. border with Mexico as a western boundary for the non-trawl RCA is defined by straight lines connecting all of the following points in the order stated:

(1) 40°10.01′ N. lat., 124°22.90′ W. long.;

(2) 40°07.00′ N. lat., 124°19.00′ W. long.;

(3) 40°08.10′ N. lat., 124°16.70′ W. long.;

(4) 40°05.90′ N. lat., 124°17.77′ W. long.;

(5) 40°01.46′ N. lat., 124°12.85′ W. long.;

(6) 40°04.32′ N. lat., 124°10.33′ W. long.;

(7) 40°03.21′ N. lat., 124°08.83′ W. long.;

(8) 40°01.33′ N. lat., 124°08.70′ W. long.;

(9) 39°58.51′ N. lat., 124°12.44′ W. long.;

(10) 39°55.73′ N. lat., 124°07.49′ W. long.;

(11) 39°34.75′ N. lat., 123°58.50′ W. long.;

(12) 39°03.07′ N. lat., 123°57.81′ W. long.;

(13) 38°52.25′ N. lat., 123°56.25′ W. long.;

(14) 38°41.42′ N. lat., 123°46.75′ W. long.;

(15) 38°39.47′ N. lat., 123°46.59′ W. long.;

(16) 38°35.25′ N. lat., 123°42.00′ W. long.;

(17) 38°19.97′ N. lat., 123°32.95′ W. long.;

(18) 38°14.43′ N. lat., 123°25.56′ W. long.;

(19) 38°09.41′ N. lat., 123°24.43′ W. long.;

(20) 38°10.10′ N. lat., 123°27.20′ W. long.;

(21) 38°03.82′ N. lat., 123°31.91′ W. long.;

(22) 38°00.91′ N. lat., 123°30.32′ W. long.;

(23) 38°00.00′ N. lat., 123°28.78′ W. long.;

(24) 37°59.73′ N. lat., 123°29.85′ W. long.;

(25) 37°51.46′ N. lat., 123°25.16′ W. long.;

(26) 37°44.06′ N. lat., 123°11.44′ W. long.;

(27) 37°35.26′ N. lat., 123°02.29′ W. long.;

(28) 37°14.00′ N. lat., 122°50.00′ W. long.;

(29) 37°01.00′ N. lat., 122°36.00′ W. long.;

(30) 36°58.07′ N. lat., 122°28.35′ W. long.;

(31) 37°00.71′ N. lat., 122°24.53′ W. long.;

(32) 36°57.50′ N. lat., 122°24.98′ W. long.;

(33) 36°58.38′ N. lat., 122°21.85′ W. long.;

(34) 36°55.85′ N. lat., 122°21.95′ W. long.;

(35) 36°52.86′ N. lat., 122°12.89′ W. long.;

(36) 36°48.71′ N. lat., 122°09.28′ W. long.;

(37) 36°46.65′ N. lat., 122°04.10′ W. long.;

(38) 36°51.00′ N. lat., 121°58.00′ W. long.;

(39) 36°44.00′ N. lat., 121°59.00′ W. long.;

(40) 36°38.00′ N. lat., 122°02.00′ W. long.;

(41) 36°26.00′ N. lat., 121°59.50′ W. long.;

(42) 36°22.00′ N. lat., 122°01.00′ W. long.;

(43) 36°19.00′ N. lat., 122°05.00′ W. long.;

(44) 36°14.00′ N. lat., 121°58.00′ W. long.;

(45) 36°10.61′ N. lat., 121°44.51′ W. long.;

(46) 35°50.53′ N. lat., 121°29.93′ W. long.;

(47) 35°46.00′ N. lat., 121°28.00′ W. long.;

(48) 35°38.94′ N. lat., 121°23.16′ W. long.;

(49) 35°26.00′ N. lat., 121°08.00′ W. long.;

(50) 35°07.42′ N. lat., 120°57.08′ W. long.;

(51) 34°42.00′ N. lat., 120°54.00′ W. long.;

(52) 34°29.00′ N. lat., 120°44.00′ W. long.;

(53) 34°22.00′ N. lat., 120°32.00′ W. long.;

(54) 34°21.00′ N. lat., 120°21.00′ W. long.;

(55) 34°24.00′ N. lat., 120°15.00′ W. long.;

(56) 34°22.11′ N. lat., 119°56.63′ W. long.;

(57) 34°19.00′ N. lat., 119°48.00′ W. long.;

(58) 34°15.00′ N. lat., 119°48.00′ W. long.;

(59) 34°08.00′ N. lat., 119°37.00′ W. long.;

(60) 34°07.00′ N. lat., 120°11.00′ W. long.;

(61) 34°13.00′ N. lat., 120°30.00′ W. long.;

(62) 34°09.00′ N. lat., 120°38.00′ W. long.;

(63) 33°58.00′ N. lat., 120°29.00′ W. long.;

(64) 33°51.00′ N. lat., 120°09.00′ W. long.;

(65) 33°38.00′ N. lat., 119°58.00′ W. long.;

(66) 33°38.00′ N. lat., 119°50.00′ W. long.;

(67) 33°46.25′ N. lat., 119°49.32′ W. long.;

(68) 33°53.82′ N. lat., 119°53.42′ W. long.;

(69) 33°59.00′ N. lat., 119°21.00′ W. long.;

(70) 34°02.00′ N. lat., 119°13.00′ W. long.;

(71) 34°01.52′ N. lat., 119°04.50′ W. long.;

(72) 33°58.83′ N. lat., 119°03.76′ W. long.;

(73) 33°56.55′ N. lat., 118°40.50′ W. long.;

(74) 33°51.00′ N. lat., 118°38.00′ W. long.;

(75) 33°39.63′ N. lat., 118°18.75′ W. long.;

(76) 33°35.44′ N. lat., 118°17.57′ W. long.;

(77) 33°31.98′ N. lat., 118°12.59′ W. long.;

(78) 33°33.25′ N. lat., 117°54.15′ W. long.;

(79) 33°31.43′ N. lat., 117°49.84′ W. long.;

(80) 33°16.53′ N. lat., 117°36.13′ W. long.;

(81) 33°06.51′ N. lat., 117°24.11′ W. long.;

(82) 32°54.11′ N. lat., 117°21.45′ W. long.;

(83) 32°46.15′ N. lat., 117°24.26′ W. long.;

(84) 32°41.97′ N. lat., 117°22.10′ W. long.;

(85) 32°39.00′ N. lat., 117°28.13′ W. long.; and

(86) 32°34.84′ N. lat., 117°24.62′ W. long.

(x) The 150 fm (274 m) depth contour used around islands/seamounts off the state of California is defined by straight lines around each island/seamount connecting all of the following points in the order stated:

(A) San Nicholas Island

(1) 33°32.73′ N. lat., 119°47.00′ W. long.;

(2) 33°14.00′ N. lat., 119°15.00′ W. long.;

(3) 33°12.00′ N. lat., 119°18.00′ W. long.;

(4) 33°11.00′ N. lat., 119°26.00′ W. long.;

(5) 33°13.13′ N. lat., 119°43.19′ W. long.;

(6) 33°13.11′ N. lat., 119°53.05′ W. long.;

(7) 33°30.00′ N. lat., 119°52.00′ W. long.; and

(8) 33°32.73′ N. lat., 119°47.00′ W. long.

(B) Santa Catalina Island

(1) 33°19.00′ N. lat., 118°15.00′ W. long.;

(2) 33°26.00′ N. lat., 118°22.00′ W. long.;

(3) 33°28.00′ N. lat., 118°28.00′ W. long.;

(4) 33°30.00′ N. lat., 118°31.00′ W. long.;

(5) 33°31.00′ N. lat., 118°37.00′ W. long.;

(6) 33°29.00′ N. lat., 118°41.00′ W. long.;

(7) 33°23.00′ N. lat., 118°31.00′ W. long.;

(8) 33°21.00′ N. lat., 118°33.00′ W. long.;

(9) 33°18.00′ N. lat., 118°28.00′ W. long.;

(10) 33°16.00′ N. lat., 118°13.00′ W. long.; and

(11) 33°19.00′ N. lat., 118°15.00′ W. long.

(C) San Clemente Island

(1) 32°48.50′ N. lat., 118°18.34′ W. long.;

(2) 32°56.00′ N. lat., 118°29.00′ W. long.;

(3) 33°03.00′ N. lat., 118°34.00′ W. long.;

(4) 33°05.00′ N. lat., 118°38.00′ W. long.;

(5) 33°03.00′ N. lat., 118°40.00′ W. long.;

(6) 32°48.00′ N. lat., 118°31.00′ W. long.;

(7) 32°43.00′ N. lat., 118°24.00′ W. long.; and

(8) 32°48.50′ N. lat., 118°18.34′ W. long.

(D) Santa Barbara Island

(1) 33°36.06′ N. lat., 118°57.15′ W. long.;

(2) 33°20.64′ N. lat., 118°59.39′ W. long.;

(3) 33°23.00′ N. lat., 119°07.00′ W. long.;

(4) 33°43.00′ N. lat., 119°14.00′ W. long.;

(5) 33°46.00′ N. lat., 119°12.00′ W. long.; and

(6) 33°36.06′ N. lat., 118°57.15′ W. long.

(E) Orange County Seamount

(1) 33°25.00′ N. lat., 118°01.00′ W. long.;

(2) 33°25.00′ N. lat., 117°58.00′ W. long.;

(3) 33°23.00′ N. lat., 117°58.00′ W. long.;

(4) 33°23.00′ N. lat., 118°01.00′ W. long.; and

(5) 33°25.00′ N. lat., 118°01.00′ W. long.

(xi) The 50 fm (91 m) depth contour off Oregon state which may be used for inseason management in 2003 is defined by straight lines connecting all of the following points in the order stated:

(1) 46°16.00′ N. lat., 124°17.33′ W. long.;

(2) 45°50.88′ N. lat., 124°09.68′ W. long.;

(3) 45°12.99′ N. lat., 124°06.71′ W. long.;

(4) 44°52.48′ N. lat., 124°11.22′ W. long.;

(5) 44°42.41′ N. lat., 124°19.70′ W. long.;

(6) 44°38.80′ N. lat., 124°26.58′ W. long.;

(7) 44°24.99′ N. lat., 124°31.22′ W. long.;

(8) 44°18.11′ N. lat., 124°43.74′ W. long.;

(9) 44°15.23′ N. lat., 124°40.47′ W. long.;

(10) 44°18.80′ N. lat., 124°35.48′ W. long.;

(11) 44°19.62′ N. lat., 124°27.18′ W. long.;

(12) 43°56.65′ N. lat., 124°16.86′ W. long.;

(13) 43°34.95′ N. lat., 124°17.47′ W. long.;

(14) 43°12.60′ N. lat., 124°35.80′ W. long.;

(15) 43°08.96′ N. lat., 124°33.77′ W. long.;

(16) 42°59.66′ N. lat., 124°34.79′ W. long.;

(17) 42°54.29′ N. lat., 124°39.46′ W. long.;

(18) 42°46.50′ N. lat., 124°39.99′ W. long.;

(19) 42°41.00′ N. lat., 124°34.92′ W. long.;

(20) 42°36.29′ N. lat., 124°34.70′ W. long.;

(21) 42°28.36′ N. lat., 124°37.90′ W. long.;

(22) 42°25.53′ N. lat., 124°37.68′ W. long.;

(23) 42°18.64′ N. lat., 124°29.47′ W. long.;

(24) 42°12.95′ N. lat., 124°27.34′ W. long.;

(25) 42°03.04′ N. lat., 124°25.81′ W. long.; and

(26) 42°00.00′ N. lat., 124°26.21′ W. long.

(xii) The 150 fm (274 m) depth contour between 46°16′ N. lat. and 38° N. lat. which may be used for inseason management in 2003 is defined by straight lines connecting all of the following points in the order stated:

(1) 46°16.00′ N. lat., 124°26.15′ W. long.;

(2) 46°13.38′ N. lat., 124°31.36′ W. long.;

(3) 46°12.09′ N. lat., 124°38.39′ W. long.;

(4) 46°09.46′ N. lat., 124°40.64′ W. long.;

(5) 46°07.30′ N. lat., 124°40.68′ W. long.;

(6) 46°02.76′ N. lat., 124°44.01′ W. long.;

(7) 46°02.64′ N. lat., 124°47.96′ W. long.;

(8) 46°01.22′ N. lat., 124°43.47′ W. long.;

(9) 45°51.81′ N. lat., 124°42.89′ W. long.;

(10) 45°45.95′ N. lat., 124°40.72′ W. long.;

(11) 45°44.11′ N. lat., 124°43.09′ W. long.;

(12) 45°34.50′ N. lat., 124°30.27′ W. long.;

(13) 45°21.10′ N. lat., 124°23.11′ W. long.;

(14) 45°09.69′ N. lat., 124°20.45′ W. long.;

(15) 44°56.25′ N. lat., 124°27.03′ W. long.;

(16) 44°44.47′ N. lat., 124°37.85′ W. long.;

(17) 44°31.81′ N. lat., 124°39.60′ W. long.;

(18) 44°31.48′ N. lat., 124°43.30′ W. long.;

(19) 44°19.70′ N. lat., 124°50.88′ W. long.;

(20) 44°12.04′ N. lat., 124°58.16′ W. long.;

(21) 44°07.38′ N. lat., 124°57.87′ W. long.;

(22) 43°57.06′ N. lat., 124°57.20′ W. long.;

(23) 43°52.52′ N. lat., 124°49.00′ W. long.;

(24) 43°51.56′ N. lat., 124°37.49′ W. long.;

(25) 43°47.83′ N. lat., 124°36.43′ W. long.;

(26) 43°31.79′ N. lat., 124°36.80′ W. long.;

(27) 43°30.78′ N. lat., 124°38.19′ W. long.;

(28) 43°29.34′ N. lat., 124°36.77′ W. long.;

(29) 43°26.46′ N. lat., 124°40.02′ W. long.;

(30) 43°16.15′ N. lat., 124°44.37′ W. long.;

(31) 43°09.33′ N. lat., 124°45.35′ W. long.;

(32) 43°08.85′ N. lat., 124°48.92′ W. long.;

(33) 43°03.23′ N. lat., 124°52.41′ W. long.;

(34) 43°00.25′ N. lat., 124°51.93′ W. long.;

(35) 42°56.62′ N. lat., 124°53.93′ W. long.;

(36) 42°54.84′ N. lat., 124°54.01′ W. long.;

(37) 42°52.31′ N. lat., 124°50.76′ W. long.;

(38) 42°47.78′ N. lat., 124°47.27′ W. long.;

(39) 42°46.32′ N. lat., 124°43.59′ W. long.;

(40) 42°41.63′ N. lat., 124°44.07′ W. long.;

(41) 42°38.83′ N. lat., 124°42.77′ W. long.;

(42) 42°35.37′ N. lat., 124°43.22′ W. long.;

(43) 42°32.78′ N. lat., 124°44.68′ W. long.;

(44) 42°32.19′ N. lat., 124°42.40′ W. long.;

(45) 42°30.28′ N. lat., 124°44.30′ W. long.;

(46) 42°28.16′ N. lat., 124°48.38′ W. long.;

(47) 42°18.34′ N. lat., 124°38.77′ W. long.;

(48) 42°13.65′ N. lat., 124°36.82′ W. long.;

(49) 42°00.15′ N. lat., 124°35.81′ W. long.;

(50) 41°47.79′ N. lat., 124°29.52′ W. long.;

(51) 41°21.00′ N. lat., 124°29.00′ W. long.;

(52) 41°11.00′ N. lat., 124°23.00′ W. long.;

(53) 41°05.00′ N. lat., 124°23.00′ W. long.;

(54) 40°54.00′ N. lat., 124°26.00′ W. long.;

(55) 40°50.00′ N. lat., 124°26.00′ W. long.;

(56) 40°44.51′ N. lat., 124°30.83′ W. long.;

(57) 40°40.61′ N. lat., 124°32.06′ W. long.;

(58) 40°37.36′ N. lat., 124°29.41′ W. long.;

(59) 40°35.64′ N. lat., 124°30.47′ W. long.;

(60) 40°37.43′ N. lat., 124°37.10′ W. long.;

(61) 40°36.00′ N. lat., 124°40.00′ W. long.;

(62) 40°31.59′ N. lat., 124°40.72′ W. long.;

(63) 40°24.64′ N. lat., 124°35.62′ W. long.;

(64) 40°23.00′ N. lat., 124°32.00′ W. long.;

(65) 40°23.39′ N. lat., 124°28.70′ W. long.;

(66) 40°22.28′ N. lat., 124°25.25′ W. long.;

(67) 40°21.90′ N. lat., 124°25.17′ W. long.;

(68) 40°22.00′ N. lat., 124°28.00′ W. long.;

(69) 40°21.35′ N. lat., 124°29.53′ W. long.;

(70) 40°19.75′ N. lat., 124°28.98′ W. long.;

(71) 40°18.15′ N. lat., 124°27.01′ W. long.;

(72) 40°17.45′ N. lat., 124°25.49′ W. long.;

(73) 40°18.00′ N. lat., 124°24.00′ W. long.;

(74) 40°16.00′ N. lat., 124°26.00′ W. long.;

(75) 40°17.00′ N. lat., 124°35.00′ W. long.;

(76) 40°16.00′ N. lat., 124°36.00′ W. long.;

(77) 40°10.07′ N. lat., 124°22.90′ W. long.;

(78) 40°07.00′ N. lat., 124°19.00′ W. long.;

(79) 40°08.10′ N. lat., 124°16.70′ W. long.;

(80) 40°05.90′ N. lat., 124°17.77′ W. long.;

(81) 40°01.46′ N. lat., 124°12.85′ W. long.;

(82) 40°04.32′ N. lat., 124°10.33′ W. long.;

(83) 40°03.21′ N. lat., 124°08.83′ W. long.;

(84) 40°01.33′ N. lat., 124°08.70′ W. long.;

(85) 39°58.51′ N. lat., 124°12.44′ W. long.;

(86)39°55.73′ N. lat., 124°07.49′ W. long.;

(87)39°34.75′ N. lat., 123°58.50′ W. long.;

(88)39°03.07′ N. lat., 123°57.81′ W. long.;

(89) 38°52.25′ N. lat., 123°56.25′ W. long.;

(90) 38°41.42′ N. lat., 123°46.75′ W. long.;

(91) 38°39.47′ N. lat., 123°46.59′ W. long.;

(92) 38°35.25′ N. lat., 123°42.00′ W. long.;

(93) 38°19.97′ N. lat., 123°32.95′ W. long.;

(94) 38°14.43′ N. lat., 123°25.56′ W. long.;

(95) 38°09.41′ N. lat., 123°24.43′ W. long.;

(96) 38°10.10′ N. lat., 123°27.20′ W. long.;

(97) 38°03.82′ N. lat., 123°31.91′ W. long.;

(98) 38°00.91′ N. lat., 123°30.32′ W. long.; and

(99) 38°00.00′ N. lat., 123°28.78′ W. long.

(20) Rockfish categories. Rockfish (except thornyheads) are divided into categories north and south of 40°10′ N. lat., depending on the depth where they most often are caught: nearshore, shelf, or slope (scientific names appear in Table 2). Nearshore rockfish are further divided into shallow nearshore and deeper nearshore categories south of 40°10′ N. lat. Trip limits are established for “minor rockfish” species according to these categories (see Tables 2-5).

(a) Nearshore rockfish consists entirely of the minor nearshore rockfish species listed in Table 2, which includes California scorpionfish.

(i) Shallow nearshore rockfish consists of black-and-yellow rockfish, China rockfish, gopher rockfish, grass rockfish, and kelp rockfish.

(ii) Deeper nearshore rockfish consists of black rockfish, blue rockfish, brown rockfish, calico rockfish, copper rockfish, olive rockfish, quillback rockfish, and treefish.

(iii) California scorpionfish.

(b) Shelf rockfish consists of canary rockfish, shortbelly

rockfish, widow rockfish, yelloweye rockfish, yellowtail rockfish, bocaccio, chilipepper, cowcod, and the minor shelf rockfish species listed in Table 2.

(c) Slope rockfish consists of Pacific ocean perch, splitnose rockfish, darkblotched rockfish, and the minor slope rockfish species listed in Table 2.

BILLING CODE 3510-22-S

BILLING CODE 3510-22-C

B. Limited Entry Fishery

(1) General. Most species taken in limited entry fisheries will be managed with cumulative trip limits (see paragraph IV.A.(1)(d),) size limits (see paragraph IV.A.(6)), seasons (see paragraph IV.A. (7)), and areas that are closed to specific gear types. The trawl fishery has gear requirements and trip limits that differ by the type of trawl gear on board (see paragraph IV.A.(14)). Cowcod retention is prohibited in all fisheries and groundfish vessels operating south of Point Conception must adhere to CCA restrictions (see paragraph IV.A. (20)). Yelloweye rockfish retention is prohibited in the limited entry fixed gear fisheries. Most of the management measures for the limited entry fishery are listed above and in the following tables: Table 3 (North), Table 3 (South), Table 4 (North), and Table 4 (South).

A header in Table 3 (North), Table 3 (South), Table 4 (North), and Table 5 (South) generally describes the Rockfish Conservation Area (i.e., closed area) for vessels participating in the limited entry fishery. The RCA boundaries are defined by latitude and longitude coordinates (See paragraph IV.A.(19), earlier) [Note: Between a line drawn due south from Point Fermin (33° 42' 30″ N. lat.; 118° 17' 30″ W. long.) and a line drawn due west from the Newport South Jetty (33° 35' 37″ N. lat.; 117° 52' 50″ W. long.,) vessels fishing with hook-and-line and/or trap (or pot) gear may operate from shore to a boundary line defined by coordinates approximating 50 fm (91 m).]

Management measures may be changed during the year by announcement in the Federal Register. However, the management regimes for several fisheries (nontrawl sablefish, Pacific whiting, and black rockfish) do not neatly fit into these tables and are addressed immediately following Table 3 (North), Table 3 (South), Table 4 (North), and Table 4 (South).

BILLING CODE 3410-22-S

BILLING CODE 3510-22-C

(2) Sablefish. The limited entry sablefish allocation is further allocated 58 percent to trawl gear and 42 percent to nontrawl gear. See footnote e/ of Table 1a.

(a) Trawl trip and size limits. Management measures for the limited entry trawl fishery for sablefish are listed in Table 3 (North) and Table 3 (South).

(b) Nontrawl (fixed gear) trip and size limits. To take, retain, possess, or land sablefish during the primary season for the limited entry fixed gear sablefish fishery, the owner of a vessel must hold a limited entry permit for that vessel, affixed with both a gear endorsement for longline or trap (or pot) gear, and a sablefish endorsement. (See 50 CFR 660.323(a)(2)(i).) A sablefish endorsement is not required to participate in the limited entry daily trip limit fishery.

(i) Primary season. The primary season begins at 12 noon l.t. on April 1, 2003, and ends at 12 noon l.t. on October 31, 2003. There are no pre-season or post-season closures. During the primary season, each vessel with at least one limited entry permit with a sablefish endorsement that is registered for use with that vessel may land up to the cumulative trip limit for each of the sablefish-endorsed limited entry permits registered for use with that vessel, for the tier(s) to which the permit(s) are assigned. For 2003, the following limits are in effect: Tier 1, 53,000 lb (24,040 kg); Tier 2, 24,000 lb (10,886 kg); Tier 3, 14,000 lb (6,350 kg). All limits are in round weight. If a vessel is registered for use with a sablefish-endorsed limited entry permit, all sablefish taken after April 1, 2003 count against the cumulative limits associated with the permit(s) registered for use with that vessel.

(ii) Daily trip limit. Daily and/or weekly sablefish trip limits listed in Table 4 (North) and Table 4 (South) apply to any limited entry fixed gear vessels not participating in the primary sablefish season described in paragraph (i) of this section. North of 36° N. lat., the daily and/or weekly trip limits apply to fixed gear vessels that are not registered for use with a sablefish-endorsed limited entry permit, and to fixed gear vessels that are registered for use with a sablefish-endorsed limited entry permit when those vessels are not fishing against their primary sablefish season cumulative limits. South of 36° N. lat., the daily and/or weekly trip limits for taking and retaining sablefish that are listed in Table 4 (South) apply throughout the year to all vessels registered for use with a limited entry fixed gear permit.

(iii) Participating in both the primary and daily trip limit fisheries. A vessel that is eligible to participate in the primary sablefish season may participate in the daily trip limit fishery for sablefish once that vessel's primary season sablefish limit(s) have been taken or after October 31, 2003, whichever occurs first. No vessel may land sablefish against both its primary season cumulative sablefish limits and against the daily trip limit fishery limits within the same 24 hour period of 0001 hour l.t. to 2400 hours l.t. If a vessel has taken all of its tier limit except for an amount that is smaller than the daily trip limit amount, that vessel's subsequent sablefish landings are automatically subject to daily and/or weekly trip limits.

(3) Whiting. Additional regulations that apply to the whiting fishery are found at 50 CFR 660.306 and at 50 CFR 660.323(a)(3) and (a)(4).

(a) Allocations. The non-tribal allocations, based on percentages that are applied to the commercial OY of 121,200 mt in 2003 (see 50 CFR 660.323 (a)(4)), are as follows:

(i) Catcher/processor sector—41,288 mt (34 percent);

(ii) Mothership sector—29,080 mt (24 percent);

(iii) Shore-based sector—50,904 mt (42 percent). No more than 5 percent (2,545 mt) of the shore-based whiting allocation may be taken before the shore-based fishery begins north of 42° N. lat. on June 15, 2003.

(iv) Tribal allocation—See paragraph V.

(b) Seasons. The 2003 primary seasons for the whiting fishery start on the same dates as in 2002, as follows (see 50 CFR 660.323(a)(3)):

(i) Catcher/processor sector—May 15;

(ii) Mothership sector—May 15;

(iii) Shore-based sector—June 15 north of 42° N. lat.; April 1 between 42°-40°30′ N. lat.; April 15 south of 40°30′ N. lat.

(c) Trip limits. (i) Before and after the regular season. The “per trip” limit for whiting before and after the regular season for the shore-based sector is announced in Table 3 (North) and Table 3 (South), as authorized at 50 CFR 660.323(a)(3) and (a)(4). This trip limit includes any whiting caught shoreward of 100 fathoms (183 m) in the Eureka area.

(ii) Inside the Eureka 100 fm (183 m) contour. No more than 10,000 lb (4,536 kg) of whiting may be taken and retained, possessed, or landed by a vessel that, at any time during a fishing trip, fished in the fishery management area shoreward of the 100 fathom (183 m) contour (as shown on NOAA Charts 18580, 18600, and 18620) in the Eureka area.

(4) Black rockfish. The regulations at 50 CFR 660.323(a)(1) state: “The trip limit for black rockfish (Sebastes melanops) for commercial fishing vessels using hook-and-line gear between the U.S.-Canada border and Cape Alava (48°09′30″ N. lat.) and between Destruction Island (47°40′00″ N. lat.) and Leadbetter Point (46°38′10″ N. lat.), is 100 lb (45 kg) or 30 percent, by weight of all fish on board, whichever is greater, per vessel per fishing trip.” These “per trip” limits apply to limited entry and open access fisheries, in conjunction with the cumulative trip limits and other management measures listed in Tables 4 (North) and Table 5 (North) of section IV. The crossover provisions at paragraphs IV.A. (12) do not apply to the black rockfish per-trip limits.

C. Trip Limits in the Open Access Fishery

(1) General. Open access gear is gear used to take and retain groundfish from a vessel that does not have a valid permit for the Pacific Coast groundfish fishery with an endorsement for the gear used to harvest the groundfish. This includes longline, trap, pot, hook-and-line (fixed or mobile), setnet and trammel net (south of 38° N. lat. only), and exempted trawl gear (trawls used to target non-groundfish species: pink shrimp or prawns, and, south of Pt. Arena, CA (38°57′30″ N. lat.), CA halibut or sea cucumbers). Unless otherwise specified, a vessel operating in the open access fishery is subject to, and must not exceed any trip limit, frequency limit, and/or size limit for the open access fishery. Groundfish species taken in open access fisheries will be managed with cumulative trip limits (see paragraph IV.A.(1)(d)), size limits (see paragraph IV.A.(6)), seasons (see paragraph IV.A.(7)), and closed areas. Cowcod retention is prohibited in all fisheries and groundfish vessels operating south of Point Conception must adhere to CCA restrictions (see paragraph IV.A.(19)). Retention of yelloweye rockfish and canary rockfish and, south of 40°10′ N. lat., bocaccio is prohibited in all open access fisheries. The trip limits, size limits, seasons, and other management measures for open access groundfish gear, including exempted trawl gear, are listed in Table 5 (North) and Table 5 (South). A header in Table 5 (North) and Table 5 (South) approximates the RCA (i.e., closed area) for vessels participating in the open access fishery. [Note: Between a line drawn due south from Point Fermin (33°42′30″ N. lat.; 118°17′30″ W. long.) and a line drawn due west from the Newport South Jetty (33°35′37″ N. lat.; 117°52′50″ W. long.,) vessels fishing with hook-and-line and/or trap (or pot) gear may operate from shore to a boundary line approximating 50 fm (91 m) in the months of July and August.] For vessels participating in exempted trawl fisheries, the RCAs are the same as those for limited entry trawl gear. Exempted trawl gear RCAs are detailed in the exempted trawl gear sections at the bottom of Table 5 (North) and Table 5 (South). Retention of groundfish caught by exempted trawl gear is prohibited in the designated RCAs. The trip limit at 50 CFR 660.323(a)(1) for black rockfish caught with hook-and-line gear also applies. (The black rockfish limit is repeated at paragraph IV.B.(4).)

BILLING CODE 3510-22-S

BILLING CODE 3510-22-C

(2) Groundfish taken with exempted trawl gear by vessels engaged in fishing for spot and ridgeback prawns, California halibut, or sea cucumbers. [Note: The States of California and Washington will likely prohibit trawling for spot prawn beginning in 2003, while the State of Oregon will likely begin phasing out trawling for spot prawn in 2003.] Trip limits and RCAs for groundfish retained in the spot and ridgeback prawn, California halibut, or sea cucumber fisheries are in Table 5 (North) and Table 5 (South). The tables also generally describe the RCAs for vessels participating in these fisheries. (a) State law. The trip limits in Table 5 (North) and Table 5 (South) are not intended to supersede any more restrictive State law relating to the retention of groundfish taken in shrimp or prawn pots or traps.

(b) Participation in the California halibut fishery. A trawl vessel will be considered participating in the California halibut fishery if:

(i) It is not fishing under a valid limited entry permit issued under 50 CFR 660.333 for trawl gear;

(ii) All fishing on the trip takes place south of Pt. Arena, CA; and

(iii) The landing includes California halibut of a size required by California Fish and Game Code section 8392(a), which states: “No California halibut may be taken, possessed or sold which measures less than 22 in (56 cm) in total length, unless it weighs 4 lb (1.8144 kg) or more in the round, 3 and one-half lbs (1.587 kg) or more dressed with the head on, or 3 lbs (1.3608 kg) or more dressed with the head off. Total length means “the shortest distance between the tip of the jaw or snout, whichever extends farthest while the mouth is closed, and the tip of the longest lobe of the tail, measured while the halibut is lying flat in natural repose, without resort to any force other than the swinging or fanning of the tail.”

(c) Participation in the sea cucumber fishery. A trawl vessel will be considered to be participating in the sea cucumber fishery if:

(i) It is not fishing under a valid limited entry permit issued under 50 CFR 660.333 for trawl gear;

(ii) All fishing on the trip takes place south of Pt. Arena, CA; and

(iii) The landing includes sea cucumbers taken in accordance with California Fish and Game Code, section 8405, which requires a permit issued by the State of California.

(3) Groundfish taken with exempted trawl gear by vessels engaged in fishing for pink shrimp. Trip limits for groundfish retained in the pink shrimp fishery are in Table 5 (North) and Table 5 (South). Notwithstanding section IV.A.(11), a vessel that takes and retains pink shrimp and also takes and retains groundfish in either the limited entry or another open access fishery during the same applicable cumulative limit period that it takes and retains pink shrimp (which may be 1 month or 2 months, depending on the fishery and the time of year), may retain the larger of the two limits, but only if the limit(s) for each gear or fishery are not exceeded when operating in that fishery or with that gear. The limits are not additive; the vessel may not retain a separate trip limit for each fishery.

D. Recreational Fishery

Federal recreational groundfish regulations are not intended to supersede any more restrictive State recreational groundfish regulations relating to federally-managed groundfish.

(1) Washington. For each person engaged in recreational fishing seaward of Washington, the groundfish bag limit is 15 groundfish, including rockfish and lingcod, and is open year-round (except for lingcod). The following sublimits and closed areas apply:

(a) Yelloweye Rockfish Conservation Area. The Yelloweye Rockfish Conservation Area, or YRCA, is a “C-shaped” area which is closed to recreational groundfish and halibut fishing. The YRCA is defined by latitude and longitude coordinates specified at 50 CFR 660.304(d).

(b) Rockfish. In areas seaward of Washington that are open to recreational groundfish fishing, there is a 10 rockfish per day bag limit, of which no more than 1 may be canary rockfish. Taking and retaining yelloweye rockfish is prohibited.

(c) Lingcod. Recreational fishing for lingcod is closed between January 1 and March 15, and between October 16 and December 31. In areas seaward of Washington that are open to recreational groundfish fishing and when the recreational season for lingcod is open (i.e., between March 16-October 15), there is a bag limit of 2 lingcod per day, which may be no smaller than 24 in (61 cm) total length.

(2) Oregon. The bag limits for each person engaged in recreational fishing seaward of Oregon are 2 lingcod per day, which may be no smaller than 24 in (61 cm) total length; and 10 marine fish per day, which excludes salmon, tuna, surfperch, sanddab, lingcod, and baitfish, but which includes rockfish and other groundfish. The minimum size limit for cabezon retained in the recreational fishery is 15 in (38 cm). Within the 10 marine fish bag limit, no more than 1 may be canary rockfish, no more than 1 may be yelloweye rockfish and when the all-depth recreational fisheries for Pacific halibut (Hippoglossus stenolopis) are open, the first Pacific halibut taken of 32 in (81 cm) or greater in length may be retained. During the all-depth recreational fisheries for Pacific halibut, vessels with halibut on board may not take and retain, possess or land yelloweye rockfish or canary rockfish.

(3) California. Seaward of California (north and south of 40°10′ N. lat.), California law provides that, in times and areas when the recreational fishery is open, there is a 20-fish bag limit for all species of finfish, within which no more than 10 fish of any one species may be taken or possessed by any one person. Retention of cowcod is prohibited in California's recreational fishery all year in all areas.

(a) North of 40°10′ N. lat. North of 40°10′ N. lat. to the California/Oregon border, California's recreational groundfish fishery will generally conform with Oregon's recreational regulations (see IV.D.(2)). For each person engaged in recreational fishing seaward of California north of 40°10′ N. lat., the following seasons, bag limits, and size limits apply:

(i) RCG Complex. The California rockfish, cabezon, greenling complex (RCG Complex), as defined in State regulations (Section 1.91, Title 14, California Code of Regulations), includes all rockfish, kelp greenling, rock greenling, and cabezon. This category does not include California scorpionfish, also known as “sculpin.”

(A) Seasons. North of 40°10′ N. lat., recreational fishing for the RCG Complex is open from January 1 through December 31.

(B) Bag limits, boat limits, hook limits. North of 40°10′ N. lat., the bag limit is 10 rockfish per day, of which no more than 2 may be bocaccio, 1 may be canary rockfish, and no more than 1 per day up to a maximum of 2 per boat may be yelloweye rockfish. The following daily bag limits also apply: no more than 10 cabezon per day and no more than 10 greenling (kelp and/or rock greenling) per day. Multi-day limits are authorized by a valid permit issued by California and must not exceed the daily limit multiplied by the number of days in the fishing trip.

(C) Size limits. The following size limits apply: bocaccio may be no smaller than 10 in (25 cm) total length; cabezon may be no smaller than 15 in (38 cm) total length; and kelp and rock greenling may be no smaller than 12 in (30 cm) total length.

(D) Dressing/Filleting. Cabezon, kelp greenling, and rock greenling taken in the recreational fishery may not be filleted at sea. Rockfish skin may not be removed when filleting or otherwise dressing rockfish taken in the recreational fishery. The following rockfish filet size limits apply: bocaccio filets may be no smaller than 5 in (12.8 cm) and brown-skinned rockfish fillets may be no smaller than 6.5 in (16.6 cm). “Brown-skinned” rockfish include the following species: brown, calico, copper, gopher, kelp, olive, speckled, squarespot, and yellowtail.

(ii) Lingcod.—(A) Seasons. North of 40°10′ N. lat., recreational fishing for lingcod is open from January 1 through December 31.

(B) Bag limits, boat limits, hook limits. North of 40°10′ N. lat., the bag limit is 2 lingcod per day. Multi-day limits are authorized by a valid permit issued by California and must not exceed the daily limit multiplied by the number of days in the fishing trip.

(C) Size limits. Lingcod may be no smaller than 24 in (61 cm) total length.

(D) Dressing/Fileting. Lingcod filets may be no smaller than 16 in. (41 cm) in length .

(b) South of 40°10′ N. lat. For each person engaged in recreational fishing seaward of California south of 40°10′ N. lat., the following seasons, bag limits, size limits and closed areas apply:

(i) Closed Areas.—(A) Cowcod Conservation Areas. Coordinates defining the boundaries of the Cowcod Conservation Areas (CCAs) are described in Federal regulations at 50 CFR 660.304(c). Recreational fishing for all groundfish is prohibited within the CCAs, except that fishing for sanddabs is permitted subject to the provisions in paragraph IV.D.(3)(iv) and that fishing for species managed under this section (not including cowcod, bocaccio, canary, and yelloweye rockfish) are permitted in waters shoreward of the 20-fm (37-m) depth contour within the CCAs from July 1 through December 31, 2003, subject to the bag limits in this section.

(B) South of 40°10′ N. lat., recreational fishing for all groundfish, including lingcod, is prohibited seaward of the 20-fm (37-m) depth contour, except that recreational fishing for sanddabs is permitted seaward of the 20-fm (37-m) depth contour subject to the provisions in paragraph IV.D.(3)(iv).

(ii) RCG Complex. The California rockfish, cabezon, greenling complex (RCG Complex), as defined in State regulations (Section 1.91, Title 14, California Code of Regulations), includes all rockfish, kelp greenling, rock greenling, and cabezon. This category does not include California scorpionfish, also known as “sculpin.”

(A) Seasons. South of 40°10′ N. lat., recreational fishing for the RCG Complex is open from July 1 through December 31 (i.e., it's closed from January 1 through June 30). When recreational fishing for the RCG Complex is open, it is permitted only inside the 20-fm (37-m) depth contour, subject to the bag limits in paragraph (B) of this section.

(B) Bag limits, boat limits, hook limits. South of 40°10′ N. lat., in times and areas when the recreational season for the RCG Complex is open, there is a limit of 2-hooks and one line when fishing for rockfish, and the bag limit is 10 RCG Complex fish per day (not including bocaccio, canary rockfish, yelloweye rockfish and cowcod, which are prohibited), of which up to 10 may be rockfish, no more than 2 of which may be shallow nearshore rockfish. [Note: The shallow nearshore rockfish group off California are composed of kelp, grass, black-and-yellow, China, and gopher rockfishes.] Also within the 10 RCG Complex fish per day limit, no more than 2 fish per day may be greenling (kelp and/or rock greenling) and no more than 3 fish per day may be cabezon. Lingcod, California scorpionfish and sanddabs taken in recreational fisheries off California do not count toward the 10 RCG Complex fish per day bag limit. Multi-day limits are authorized by a valid permit issued by California and must not exceed the daily limit multiplied by the number of days in the fishing trip.

(C) Size limits. The following size limits apply: cabezon may be no smaller than 15 in (38 cm) and kelp and rock greenling may be no smaller than 12 in (30 cm).

(B) Dressing/Filleting. Cabezon, kelp greenling, and rock greenling taken in the recreational fishery may not be filleted at sea. Rockfish skin may not be removed when filleting or otherwise dressing rockfish taken in the recreational fishery. Brown-skinned rockfish filets may be no smaller than 6.5 in (16.6 cm). “Brown-skinned” rockfish include the following species: brown, calico, copper, gopher, kelp, olive, speckled, squarespot, and yellowtail.

(iii) California scorpionfish. California scorpionfish only occur south of 40°10′ N. lat. (A) Seasons. South of 40°10′ N. lat., recreational fishing for California scorpionfish is closed from March 1 through June 30 (i.e., the California scorpionfish season is open during January-February and during July-December). When recreational fishing for California scorpionfish is open, it is permitted only inside the 20-fm (37-m) depth contour (except at Huntington Flats between a line drawn due south from Point Fermin (33°42′30″ N. lat.; 118°17′30″ W. long.) and a line drawn due west from the Newport South Jetty (33°35′37″ N. lat.; 117°52′50″ W. long.,) recreational fishing for California scorpionfish may occur from shore to a boundary line approximating 50 fm (91 m) during July-August), subject to the bag limits in paragraph (B) of this section.

(B) Bag limits, boat limits, hook limits. South of 40°10′ N. lat., in times and areas where the recreational season for California scorpionfish is open, and the bag limit is 5 California scorpionfish per day. California scorpionfish do not count against the 10 RCG Complex fish per day limit. Multi-day limits are authorized by a valid permit issued by California and must not exceed the daily limit multiplied by the number of days in the fishing trip.

(C) Size limits. California scorpionfish may be no smaller than 10 in (25 cm) total length.

(D) Dressing/Filleting. California scorpionfish fillets may be no smaller than 5 in (12.8 cm).

(iv) Lingcod—(A) Seasons. South of 40°10′ N. lat., recreational fishing for lingcod is open July 1 through December 31. When recreational fishing for lingcod is open in the south, it is permitted only inside the 20-fm (37-m) depth contour, subject to the bag limits in paragraph (B) of this section.

(B) Bag limits, boat limits, hook limits. South of 40°10′ N. lat., in times and areas when the recreational season for lingcod is open, there is a limit of 2-hooks and one line when fishing for lingcod, and the bag limit is 2 lingcod per day. Lingcod do not count against the 10 RCG Complex fish per day limit. Multi-day limits are authorized by a valid permit issued by California and must not exceed the daily limit multiplied by the number of days in the fishing trip.

(C) Size limits. Lingcod may be no smaller than 24 in (61 cm) total length.

(D) Dressing/Filleting. Lingcod fillets may be no smaller than 16 in (41 cm) in length.

(iv) Sanddabs. South of 40°10′ N. lat., recreational fishing for sanddabs is permitted both shoreward and seaward of the 20 fm (37 m) depth contour (i.e., recreational fishing for sanddabs is permitted in all areas south of 40°10′ N. lat.). Recreational fishing for sanddabs is permitted seaward of the 20- fm (37-m) depth contour subject to a limit of up to 12-hooks “Number 2” or smaller, which measure 11 mm (0.44 inches) point to shank, and up to 2 lb (0.91 kg) of weight per line. There is no bag limit, season, or size limit for sanddabs, however, it is prohibited to fillet sanddabs at sea.

V. Washington Coastal Tribal Fisheries

The Assistant Administrator (AA) announces the following tribal allocations for 2003, including those that are the same as in 2002. Trip limits for certain species were recommended by the tribes and the Council and are specified here with the tribal allocations. With respect to the 2003 treaty Indian allocation of Pacific whiting, NMFS has reviewed the scientific information set forth in the Declaration of William L. Robinson dated April 26, 2002, and the Declaration of Dr. Richard D. Methot, Jr., dated April 18, 2002, which were submitted with the Federal Defendants Statement Regarding Remand in Midwater Trawlers Co-operative v. Department of Commerce, No. C99-1415BJR and No. C99-1500BJR (Consolidated) (W.D. Wash.). NMFS has no additional information that would change the conclusions in these declarations on the distribution and migratory pattern of the stock. Therefore, NMFS is relying on the information in those declarations as the best scientific information currently available. Accordingly, NMFS finds that the 2003 treaty Indian allocation of Pacific whiting (25,000 mt to be taken by the Makah Tribe), which is based on the sliding scale methodology that has been in use since 1999, is based on the best scientific information available, and is within the Indian treaty right as described in Midwater Trawlers Co-operative v. Department of Commerce, 282 F.3d 710, 718 (9th Cir. 2002). NMFS has rejected and continues to reject the so-called “biomass” method of calculating the treaty right. As stated in U.S. v. Washington, Subproceeding 96-2, 143 F. Supp.2d 1218, 1223-1224 (W.D. Wash. 2001), the biomass method is not required for conservation and underestimates the quantity of fish that pass through the tribal usual and accustomed fishing grounds, and hence it cannot serve as the basis for calculating the treaty share. Also, application of the biomass method to calculate the treaty Indian allocation of Pacific whiting would illegally discriminate against tribal fishing interests, since the biomass method is not used in management of the non-treaty fishery. Id.; also see Makah v. Brown, C85-1606R, Order on Five Motions Relating to Treaty Halibut Fishing at 6 (W.D.Wash. 1993).

A. Sablefish

The tribal allocation is 631 mt, 10 percent of the total catch OY, less 3 percent estimated discard mortality.

B. Rockfish

(1) For the commercial harvest of black rockfish off Washington State, a harvest guideline of: 20,000 lb (9,072 kg) north of Cape Alava, WA (48°09′30″ N. lat.) and 10,000 lb (4,536 kg) between Destruction Island, WA (47°40′00″ N. lat.) and Leadbetter Point, WA (46°38′10″ N. lat.).

(2) Thornyheads are subject to a 300-lb (136-kg) trip limit.

(3) Canary rockfish are subject to a 300-lb (136-kg) trip limit.

(4) Yelloweye rockfish are subject to a 100-lb (45-kg) trip limit.

(5) Yellowtail rockfish taken in the tribal mid-water trawl fisheries are subject to a cumulative limit of 30,000 lb (13,608 kg) per 2-month period. Landings of widow rockfish must not exceed 10 percent of the weight of yellowtail rockfish landed in any two-month period. These limits may be adjusted by an individual tribe inseason to minimize the incidental catch of canary rockfish and widow rockfish.

(6) Other rockfish, including minor nearshore, minor shelf, and minor slope rockfish groups are subject to a 300-lb (136-kg) trip limit per species or species group, or to the non-tribal limited entry trip limit for those species if those limits are less restrictive than 300 lb (136 kg) per trip.

(7) Rockfish taken during open competition tribal commercial fisheries for Pacific halibut will not be subject to trip limits.

C. Lingcod

Lingcod are subject to a 300-lb (136-kg) daily trip limit and a 900-lb (408-kg) weekly limit.

D. Pacific whiting

The tribal allocation is 25,000 mt.

Classification

These final specifications and management measures for 2003 are issued under the authority of, and are in accordance with, the Magnuson-Stevens Act, the FMP, and 50 CFR part 660 subpart G (the regulations implementing the FMP).

The 2003 specifications and management measures are intended to protect overfished and other depressed stocks while also allowing as much harvest of more abundant groundfish stocks as possible during the course of the year. NMFS received the Council's recommendations on specifications and management measures in September 2002. Because of the timing of the receipt, development, review, and analysis of the fishery information necessary for publishing the proposed rule for the specifications and management measures, the proposed rule could not be made available for public comment prior to January 7, 2003. The timing of this final rule balances the need to publish and make effective a final rule as early as possible in the calendar year against the need to provide public comments on the proposed rule.

A 30-day delay in effectiveness for this rule would in fact be a 60-day delay, because most of the trip limits are two-month limits, so most fishers could exceed the entire two month limit before the rules went into effect after 30 days. In addition, none of the large rockfish conservation areas would be in place, thus a delay in effectiveness would allow fishing in an area this rule closes for conservation purposes. Thus, excessive harvest could cause harm to overfished species. Delay in publishing these measures could also require unnecessarily restrictive measures, including possible fishery closures, later in the year to make up for the excessive harvest that would be caused by late implementation of these regulations. Thus, a delay in effectiveness could ultimately cause economic harm to the fishing industry and associated fishing communities. For these reasons, there is good cause under 5 U.S.C. 553(d)(3) to determine that delaying the effectiveness of this rule for 30 days would be contrary to public interest.

The Council prepared an FEIS for this action; a notice of availability was published on January 17, 2003 (68 FR 2538). A copy of this FEIS is available from the Council, see ADDRESSES. On February 25, 2003, NMFS issued an ROD that documents the agency's final decisions concerning the decision by the NMFS Northwest Region to approve the Council's preferred OY alternative for 2003 groundfish ABC and OY specifications and management measures for Pacific Coast groundfish. The 2003 specifications and management measures are expected to have positive effects on the biological environment and negative effects on fishing communities and the socio-economic environment. The 2003 management regime is structured to protect overfished groundfish species and introduces a new depth based management regime that closes large areas of the continental shelf to groundfish fishing. Closure of important fishing areas is expected to have significant impacts on the human environment.

This final rule has been determined to be significant for purposes of Executive Order 12866.

NMFS prepared a FRFA describing the impact of this action on small entities. The IRFA was summarized in the proposed rule published on January 7, 2003 (68 FR 936). The following is the summary of the FRFA. The need for and objectives of this final rule are contained in the SUMMARY and Background section of the preamble. NMFS did not receive any comments on the IRFA or on the proposed rule regarding the economic effects of this final rule.

These final 2003 annual specifications and management measures allow West Coast commercial and recreational fisheries participants to fish the harvest able surplus of more abundant groundfish stocks, while also ensuring that those fisheries do not exceed the allowable catch levels intended to protect overfished and depleted stocks. The form of the specifications, in ABCs and OYs, follows the guidance of the Magnuson-Stevens Act, the National Standard Guidelines, and the FMP for protecting and conserving fish stocks. Annual management measures include trip and bag limits, size limits, time/area closures, gear restrictions, and other measures intended to allow year-round West Coast groundfish landings without compromising overfished species rebuilding measures.

Approximately 2,000 vessels participate in the West Coast groundfish fisheries. Of those, about 500 vessels are registered to limited entry permits issued for either trawl, longline, or pot gear. About 1,500 vessels land groundfish against open access limits while either directly targeting groundfish or taking groundfish incidentally in fisheries directed at non-groundfish species. All but 10-20 of those vessels are considered small businesses by the Small Business Administration. There are also about 450 groundfish buyers on the West Coast, approximately 5 percent of which are responsible for about 80 percent of West Coast groundfish purchases. In the 2001 recreational fisheries, there were 106 Washington charter vessels engaged in salt water fishing outside of Puget Sound, 232 charter vessels active on the Oregon coast and 415 charter vessels active on the California coast.

The Magnuson-Stevens Act requires that actions taken to implement FMP be consistent with the 10 national standards. National Standard 8 requires that conservation and management measures, consistent with the conservation requirements of the Act, “take into account the importance of fishery resources to fishing communities in order to (A) provide for the sustained participation of such communities and (B), to the extent practicable, minimize adverse economic impacts on such communities.” Commercial and recreational fisheries for Pacific Coast groundfish contribute to the economies and shape the cultures of numerous fishing communities in Washington, Oregon, and California. Meeting the needs of fishing communities has become increasingly difficult because the Council manages a fishery that is overcapitalized and contains stocks that are overfished. In recommending this year's specifications and management measures, the Council tried to accommodate some of the needs of those communities within the constraints of Magnuson-Stevens Act requirements to rebuild overfished stocks, prevent overfishing, and minimize bycatch. In general, the Council recommended the largest harvest of the more abundant stocks as possible, consistent with conservation needs of the fish stocks.

The Council considered five alternative specifications and management measures regimes for 2003: the no action alternative, which would have implemented the 2002 regime for 2003; the low OY alternative, which set harvest levels so that overfished stocks would have an 80 percent probability of rebuilding within Tmax; the high OY alternative, which set harvest levels so that overfished stocks would have a 50 percent probability of rebuilding within Tmax; the Allocation Committee alternative, which set harvest levels intermediate to those of the low and high alternatives, but includes management through depth-based closures, and; the Council OY alternatives (preferred alternative) which was the same as the Allocation Committee alternative, except that it included a higher sablefish harvest north of Point Conception, CA and more restrictive recreational fishery management measures south of Cape Mendocino, CA. Each of these alternatives included both harvest levels (specifications) and management measures needed to achieve those harvest levels, with the most restrictive management measures corresponding to the lowest OYs.

Each of the alternatives analyzed by the Council was expected to have different overall effects on the economy. Among other factors, the FEIS for this action reviewed alternatives other than the no action alternative for expected declines in revenue and income from 2001 levels. Declines were not measured from 2002 levels because complete data from 2002 is not yet available. The low OY alternative was expected to reduce commercial exvessel revenue by $60 million in 2003, reduce overall commercial harvest income by $274 million, and reduce recreational fishery income (mainly charter businesses) by $64 million. The high OY alternative was expected to reduce commercial exvessel revenue by $6 million in 2003, reduce overall commercial harvest income by $16 million, and reduce recreational fishery income by $1.2 million. The economic effects of the Allocation Committee alternative were analyzed both for management with depth-based regulatory measures and without those measures. The Allocation Committee alternative without depth-based regulatory measures was expected to reduce commercial exvessel revenue by $21 million in 2003, reduce overall commercial harvest income by $67 million, and reduce recreational fishery income by $1.2 million. The Allocation Committee alternative with depth-based regulatory measures was expected to reduce commercial exvessel revenue by $15 million in 2003, reduce overall commercial harvest income by $40 million, and reduce recreational fishery income by $1.2 million. The Council's preferred alternative, which includes depth-based regulatory measures and a recreational fishery management regime designed to more strictly constrain harvest of overfished species, was expected to reduce commercial exvessel revenue by $13 million in 2003, reduce overall commercial harvest income by $35 million, and reduce recreational fishery income by $25 million. The Council's preferred alternative meets the conservation requirements of the Magnuson-Stevens Act, while reducing to the extent possible the adverse economic impacts of these conservation measures on the fishing industries and associated communities.

Depth based management is particularly expected to both protect overfished species from harvest in areas where they commonly occur and allow fisheries greater access to more abundant stocks outside of the closed areas. Without depth-based management, harvest of abundant stocks would have been more severely restricted because there would have been no measures to prevent vessels from operating in areas where abundant and overfished stocks cooccur.

Recreational fisheries management measures in 2001 and 2002 were not adequately conservative and those fisheries exceeded their overfished species retention levels in both years. Thus, the recreational fisheries are more severely restricted under the preferred alternative than under the high OY alternative or under either of the Allocation Committee alternatives. While the preferred alternative is expected to result in greater income declines for businesses associated with recreational fishing, those declines reflect conservation measures expected to better protect overfished species.

Revenues for many groundfish fishery participants under the preferred alternative are expected to decline in 2003. These declines are mainly attributable to more restrictive management measures intended to protect overfished species. It is difficult to estimate exactly how this overall decline in landings and revenue will affect individual members of the groundfish fleet. However, the overall decline is significant enough to suggest that small businesses with a substantial portion of their incomes dependent on groundfish will be negatively affected by implementation of the 2003 proposed harvest levels. Overall, commercial vessels that target groundfish are expected to have a 21 percent decline in groundfish-related ex-vessel revenue and a 5 percent decline in total ex-vessel fishing revenue. The cumulative effect of 2003 management on the personal incomes of fishery participants is expected to be a $35 million decline. Vessels and groundfish buyers that rely heavily on groundfish for their annual income, as opposed to other West Coast fish species, will be more affected by the 2003 management regime than those with more diversified catch and harvest assemblages.

Most of the significant catch and effort reductions in the recreational fleet would occur off California south of 40°10′ N. lat. Little change in overall recreational effort is expected in Washington or Oregon. For the West Coast recreational fleet, personal income is expected to decline by 10 percent overall, with a cumulative effect of a $25 million decline. These personal income values are a measure of the contribution of recreational fishing to businesses and local communities. Reduction in effort in California is expected to result in a reduction in revenue for businesses that cater to recreational fishers. Gross receipts for recreational groundfish activities will likely decline in proportion with the decline in number of angler trips, however, net profits may decline more given that certain costs will be fixed on an annual and per trip basis. Revenue declines from groundfish may be offset to the degree that charter vessels operate in other fisheries.

The Small Business Regulatory Enforcement Act of 1996 requires a plain language guide to assist small entities in complying with this rule. NMFS has produced a public notice for the 2003 fishing season that includes trip limit tables and descriptions of 2003 management measures. Contact NMFS to request a copy of this public notice (see ADDRESSES) or see the NMFS Northwest Region's groundfish website at http://www.nwr.noaa.gov/1sustfsh/gdfsh01.htm.

Pursuant to Executive Order 13175, this rule was developed after meaningful consultation and collaboration with tribal officials from the area covered by the FMP. Under the Magnuson-Stevens Act at 16 U.S.C. 1852(b)(5), one of the voting members of the Pacific Council must be a representative of an Indian tribe with federally recognized fishing rights from the area of the Council's jurisdiction. In addition, regulations implementing the FMP establish a procedure by which the tribes with treaty fishing rights in the area covered by the FMP request new allocations or regulations specific to the tribes, in writing, before the first of the two fall groundfish meetings of the Council. The regulation at 50 CFR 660.324(d) further states “the Secretary will develop tribal allocations and regulations under this paragraph in consultation with the affected tribe(s) and, insofar as possible, with tribal consensus.” The tribal management measures in this final rule were developed following these procedures. The tribal representative on the Council made a motion to adopt the tribal management measures, which was passed by the Council, and those management measures, which were developed and proposed by the tribes, are included in this final rule.

NMFS issued Biological Opinions (Bos) under the Endangered Species Act on August 10, 1990, November 26, 1991, August 28, 1992, September 27, 1993, May 14, 1996, and December 15, 1999, pertaining to the effects of the groundfish fishery on chinook salmon (Puget Sound, Snake River spring/summer, Snake River fall, upper Columbia River spring, lower Columbia River, upper Willamette River, Sacramento River winter, Central Valley, California coastal), coho salmon (Central California coastal, southern Oregon/northern California coastal, Oregon coastal), chum salmon (Hood Canal, Columbia River), sockeye salmon (Snake River, Odette Lake), and steeled (upper, middle and lower Columbia River, Snake River Basin, upper Willamette River, central California coast, California Central Valley, south-central California, northern California, and southern California). During the 2000 Pacific whiting season, the whiting fisheries exceeded the chinook bycatch amount specified in the Pacific whiting fishery's Biological Opinion's (whiting BO) (December 19, 1999) incidental catch statement estimate of 11,000 fish, by approximately 500 fish. In the 2001 whiting season, however, the whiting fishery's chinook bycatch was about 7,000 fish, which approximates the long-term average. After reviewing data from, and management of, the 2000 and 2001 whiting fisheries (including industry bycatch minimization measures), the status of the affected listed chinook, environmental baseline information, and the incidental catch statement from the 1999 whiting BO, NMFS determined in a letter dated April 25, 2002, that a re-initiation of the 1999 whiting BO was not required. NMFS has concluded that implementation of the FMP for the Pacific Coast groundfish fishery is not expected to jeopardize the continued existence of any endangered or threatened species under the jurisdiction of NMFS, or result in the destruction or adverse modification of critical habitat. This action is within the scope of these consultations.

List of Subjects in 50 CFR Part 660

Administrative practice and procedure, American Samoa, Fisheries, Fishing, Guam, Hawaiian Natives, Indians, Northern Mariana Islands, Reporting and recordkeeping requirements.

February 28, 2003.
William T. Hogarth,
Assistant Administrator for Fisheries, National Marine Fisheries Service.

For the reasons set out in the preamble, 50 CFR part 660 is amended as follows:

PART 660—FISHERIES OFF WEST COAST STATES AND IN THE WESTERN PACIFIC

l. The authority citation for part 660 continues to read as follows:

Authority: 16 U.S.C. 1801 et seq.

2. In § 660.302, the definitions for “Open access fishery” and “Trip limit” are revised and definitions for “Footrope” and “Trawl fishing line” are added to read as follows:

§ 660.302 Definitions.

* * * * *

Footrope means a chain or wire rope attached to the bottom front end of a trawl net and attached to the trawl fishing line.

* * * * *

Open access fishery means the fishery composed of vessels using open access gear fished pursuant to the harvest guidelines, quotas, and other management measures governing the open access fishery. Any commercial fishing vessel that does not have a limited entry permit and which lands groundfish in the course of commercial fishing is a participant in the open access fishery.

* * * * *

Trawl fishing line means a length of chain or wire rope in the bottom front end of a trawl net to which the webbing or lead ropes are attached.

* * * * *

Trip limit means the total amount of a groundfish species or species complex by weight, or by percentage of weight of fish on board the vessel, that may legally be taken and retained, possessed, or landed per vessel from a single fishing trip.

* * * * *

3. In § 660.304, the section heading, the heading of paragraph (a), and paragraphs (b) through (d) are revised to read as follows:

§ 660.304 Management areas, including conservation areas, and commonly used geographic coordinates.

(a) Management areas. * * *

(b) Commonly used geographic coordinates.

(1) Cape Falcon, OR—45°46′ N. lat.

(2) Cape Lookout, OR—45°20′15″ N. lat.

(3) Cape Blanco, OR—42°50′ N. lat.

(4) Cape Mendocino, CA—40°30′ N. lat.

(5) North/South management line—40°10′ N. lat.

(6) Point Arena, CA—38°57′30″ N. lat.

(7) Point Conception, CA—34°27′ N. lat.

(c) Cowcod Conservation Areas (CCAs). (1) The Western CCA is an area south of Point Conception that is bound by straight lines connecting all of the following points in the order listed:

33°50′ N. lat., 119°30′ W. long.;

33°50′ N. lat., 118°50′ W. long.;

32°20′ N. lat., 118°50′ W. long.;

32°20′ N. lat., 119°37′ W. long.;

33°00′ N. lat., 119°37′ W. long.;

33°00′ N. lat., 119°53′ W. long.;

33°33′ N. lat., 119°53′ W. long.;

33°33′ N. lat., 119°30′ W. long.;

and connecting back to 33°50′ N. lat., 119°30′ W. long.

(2) The Eastern CCA is a smaller area west of San Diego that is bound by straight lines connecting all of the following points in the order listed:

32°42′ N. lat., 118°02′ W. long.;

32°42′ N. lat., 117°50′ W. long.;

32°36′42″ N. lat., 117°50′ W. long.;

32°30′ N. lat., 117°53′30″ W. long.;

32°30′ N. lat., 118°02′ W. long.;

and connecting back to 32°42′ N. lat., 118°02′ W. long.

(d) Yelloweye Rockfish Conservation Area (YRCA). The YRCA is an C-shaped area off the northern Washington coast that is bound by straight lines connecting all of the following points in the order listed:

48°18′ N. lat.; 125°18′ W. long.;

48°18′ N. lat.; 124°59′ W. long.;

48°11′ N. lat.; 124°59′ W. long.;

48°11′ N. lat.; 125°11′ W. long.;

48°04′ N. lat.; 125°11′ W. long.;

48°04′ N. lat.; 124°59′ W. long.;

48°00′ N. lat.; 124°59′ W. long.;

48°00′ N. lat.; 125°18′ W. long.;

and connecting back to 48°18′ N. lat.; 125°18′ W. long.

* * * * *

4. In § 660.322, revise paragraph (b)(5) and add a new paragraph (b)(6) to read as follows:

§ 660.322 Gear restrictions.

* * * * *

(b) Trawl gear * * *

(5) Large and small footrope trawl gear. Large footrope trawl gear is bottom trawl gear, as specified at § 660.302, with a footrope diameter larger than 8 inches (20 cm) (including rollers, bobbins or other material encircling or tied along the length of the footrope). Small footrope trawl gear is bottom trawl gear, as specified at § 660.302 and 660.322(b), with a footrope diameter 8 inches (20 cm) or smaller (including rollers, bobbins or other material encircling or tied along the length of the footrope). Chafing gear may be used only on the last 50 meshes of a small footrope trawl, measured from the terminal (closed) end of the coded. Other lines or ropes that run parallel to the footrope may not be augmented or modified to violate footrope size restrictions. For enforcement purposes, the footrope will be measured in a straight line from the outside edge to the opposite outside edge at the widest part on any individual part, including any individual disk, roller, bobbin, or any other device.

(6) Pelagic or “midwater” trawls. Pelagic trawl nets must have unprotected footropes at the trawl mouth, and must not have rollers, bobbins, tires, wheels, rubber discs, or any similar device anywhere in the net. The footrope of pelagic gear may not be enlarged by encircling it with chains or by any other means. Ropes or lines running parallel to the footrope of pelagic trawl gear must be bare and may not be suspended with chains or any other materials. Sweepings, including the bottom leg of the bridle, must be bare. For at least 20 ft (6.15 m) immediately behind the footrope or headrope, bare ropes or mesh of 16-inch (40.6-cm) minimum mesh size must completely encircle the net. A band of mesh (a “skirt”) may encircle the net under transfer cables, lifting or splitting straps (chokers), but must be: Over riblines and restraining straps; the same mesh size and coincide knot-to-knot with the net to which it is attached; and no wider than 16 meshes.

* * * * *

5. In § 660.323, paragraph (b) is revised to read as follows:

§ 660.323 Catch restrictions.

* * * * *

(b) Routine management measures. In addition to the catch restrictions in this section, other catch restrictions that are likely to be adjusted on an annual or more frequent basis may be imposed and announced by a single notification in the Federal Register if they have been designated as routine through the two-meeting process described in the FMP. The following catch restrictions have been designated as routine:

(1) Commercial limited entry and open access fisheries—(i) Trip landing and frequency limits, size limits, all gear. Trip landing and frequency limits have been designated as routine for the following species or species groups: widow rockfish, canary rockfish, yellowtail rockfish, Pacific ocean perch, yelloweye rockfish, splitnose rockfish, bocaccio, cowcod, minor nearshore rockfish or shallow and deeper minor nearshore rockfish, shelf or minor shelf rockfish, and minor slope rockfish; Dover sole, sablefish, shortspine thornyheads, longspine thornyheads, and the “DTS complex,” which is composed of those species; petrale sole, rex sole, arrowtooth flounder, Pacific sanddabs, and the flatfish complex, which is composed of those species plus any other flatfish species listed at § 660.302; Pacific whiting; lingcod; and “other fish” as a complex consisting of all groundfish species listed at § 660.302 and not otherwise listed as a distinct species or species group. Size limits have been designated as routine for sablefish and lingcod. Trip landing and frequency limits and size limits for species with those limits designated as routine may be imposed or adjusted on an annual or more frequent basis for the purpose of keeping landings within the harvest levels announced by NMFS, and for the other purposes given in paragraph (b)(1)(i)(A) and (B) of this section.

(A) Trip landing and frequency limits. To extend the fishing season; to minimize disruption of traditional fishing and marketing patterns; to reduce discards; to discourage target fishing while allowing small incidental catches to be landed; to protect overfished species; to allow small fisheries to operate outside the normal season; and, for the open access fishery only, to maintain landings at the historical proportions during the 1984-88 window period.

(B) Size limits. To protect juvenile fish; to extend the fishing season.

(ii) Differential trip landing and frequency limits based on gear type, closed seasons. Trip landing and frequency limits that differ by gear type and closed seasons may be imposed or adjusted on an annual or more frequent basis for the purpose of rebuilding and protecting overfished or depleted stocks.

(2) Recreational fisheries all gear types. Routine management measures for all groundfish species, separately or in any combination, include bag limits, size limits, time/area closures, boat limits, hook limits, and dressing requirements. All routine management measures on recreational fisheries are intended to keep landings within the harvest levels announced by NMFS, to rebuild and protect overfished or depleted species, and to maintain consistency with State regulations, and for the other purposes set forth in this section.

(i) Bag limits. To spread the available catch over a large number of anglers; to protect and rebuild overfished species; to avoid waste.

(ii) Size limits. To protect juvenile fish; to protect and rebuild overfished species; to enhance the quality of the recreational fishing experience.

(iii) Season duration restrictions. To spread the available catch over a large number of anglers; to protect and rebuild overfished species; to avoid waste; to enhance the quality of the recreational fishing experience.

(3) All fisheries, all gear types depth-based management measures. Depth-based management measures, particularly the setting of closed areas known as Groundfish Conservation Areas may be imposed on any sector of the groundfish fleet using specific boundary lines that approximate depth contours with latitude/longitude waypoints. Depth-based management measures and the setting of closed areas may be used to protect and rebuild overfished stocks.

* * * * *

[FR Doc. 03-5166 Filed 2-28-03; 4:27 pm]

BILLING CODE 3510-22-S